OFFICE OF PERSONNEL MANAGEMENT

SES Positions That Were Career Reserved During 2003

AGENCY: Office of Personnel Management.

ACTION: Notice.

SUMMARY: As required by section 3132(b)(4) of title 5, United States Code, this gives notice of all positions in the Senior Executive Service (SES) that were career reserved during 2003

FOR FURTHER INFORMATION CONTACT: Delores Everett, Center for Leadership and Executive Resources Policy, (202) 606-1050.

SUPPLEMENTARY INFORMATION: Below is a list of titles of SES positions that were career reserved at any time during calendar year 2003, regardless of whether those positions were career reserved on December 31, 2003. Section 3132(b)(4) of title 5, United States Code, requires that the head of each agency publish such lists by March 1 of the following year. The Office of Personnel Management is publishing a consolidated list for all agencies.

Office of Personnel Management.
Kay Coles James,
Director.

Positions That Were Career Reserved During Calendar Year 2003
Agency organization | Career reserved positions
Advisory Council on Historic Preservation:
Office of the Executive Director | Executive Director.
| Special Assistant.
Department of Agriculture:
Office of the Chief Information Officer | Deputy Chief Information Officer.
| Associate Deputy Director, National Information Technology Center.
Office of the Chief Financial Officer | Deputy Chief Financial Officer.
| Project Manager.
National Finance Center | Director, Applications Systems Division.
| Director, Information Resources Management Division.
| Director, Financial Services Division.
| Director, Thrift Savings Plan Division.
| Deputy Director.
Office of the Inspector General | Assistant Inspector General for Investigations.
| Deputy Assistant Inspector General for Investigation.
| Assistant Inspector General for Audit.
| Deputy Assistant Inspector General for Audit.
| Deputy Assistant Inspector General for Audit.
| Assistant Inspector General for Policy Development and Research Management.
| Deputy Assistant Inspector General for Investigations, Immediate Office.
| Assistant Inspector General for Planning and Special Projects Deputy Inspector General.
Office of the Chief Economist | Director, Office of Risk Assessment and Cost-Benefit Analysis Chairperson.
| Director, Global Change Program Office.
| Director Office of Energy Policy and New Uses.
Office of Operations | Director, Office of Operations.
Procurement and Property Management | Director, Procurement and Property Management.
| Deputy Director, Office of Property and Procurement Management.
Office of Outreach | Director, USDA Program Outreach Division.
Rural Housing Service | Controller.
| Deputy Administrator for Operations and Management.
| Director, Centralized Servicing Center.
Rural Business Service | Deputy Administrator for Business Programs.
Agricultural Marketing Service | Deputy Administrator, Fruit and Vegetable Programs.
| Deputy Administrator, Dairy Programs.
| Deputy Administrator, Livestock and Seed Programs.
| Deputy Administrator, Tobacco Programs.
| Deputy Administrator, Compliance and Analysis.
| Deputy Administrator, Cotton Programs.
| Deputy Administrator, Science and Technology Programs.
| Deputy Administrator, Transportation and Marketing Programs.
| Deputy Administrator, Poultry Programs.
Grain Inspection, Packers and Stockyards Administration | Director, Field Management Division.
Animal and Plant Health Inspection Service | Deputy Administrator for Marketing and Regulatory Programs—Business Services.
| Associate Deputy Administrator for Management and Budget.
| Deputy Administrator, Animal Care.
| Director, Center for Plant Health Science and Technology.
| Assistant Deputy Administrator for Emergency Programs, Plant Protection and Quarantine.
| Associate Deputy Administrator, Wildlife Services.
| Assistant Deputy Administrator for Agricultural Quarantine Inspection.
| Deputy Administrator, Biotechnology Regulatory Programs.
| Director, Eastern Region, Wildlife Services.
| Director, Western Region, Wildlife Services.
| Associate Deputy Administrator, Veterinary Services, Emergency Programs.
| Animal and Plant Health Inspection Service International Organization Coordinator.
Veterinary Services | Director, South Eastern Region, Veterinary Services.
| Director, Western Region.
| Director, Central Region.
| Deputy Administrator, Wildlife Services.
| Director, Animal Health Programs, Veterinary Services.
| Director, Center for Epidemiology and Animal Health.
Plant Protection and Quarantine Service | Deputy Administrator, International Services.
| Director, Western Region.
| Director, Plant Health Programs, PPQ.
| Director, Eastern Region.
Food Safety and Inspection Service | Deputy Administrator, Office of Management.
| United States Coordinator for Codex Alimentarius.
| Assistant Deputy Administrator, Office of Management.
| Associate Deputy Administrator, Office of Policy, Program Development and Evaluation.
| Assistant Deputy Administrator, Office of Management Deputy Administrator.
| Assistant Deputy Administrator.
| Deputy Administrator.
| Assistant Deputy Administrator, OFO.
| Assistant Deputy Administrator.
| Assistant Deputy Administrator, District Enforcement Operations.
| Director, Technical Service Center, Office of Field Operations Deputy Administrator.
| Assistant Deputy Administrator.
| Assistant Deputy Administrator, Office of Policy and Program Development.
| Assistant Deputy Administrator.
| Assistant Deputy Administrator.
| Associate Deputy Administrator.
| Deputy Administrator.
| Associate Administrator.
| Assistant Deputy Administrator for Policy Analysis & Formulation.
| Assistant Deputy Administrator, District Inspection Operations.
| Assistant Administrator, Staff Services.
| Director, Enforcement Operations.
| Assistant Administrator for Communications.
| Assistant Administrator for Food Safety.
| Assistant Administrator, Office of Management.
Food and Nutrition Service | Deputy Administrator for Financial Management.
| Deputy Admr for Management.
Beltsville Area Office | Chief Information Officer.
North Atlantic Area Office | Director, Eastern Regional Research Center.
| Associate Director, North Atlantic Area.
| Director, Plum Island Animal Disease Center.
| Director, North Atlantic Area.
South Atlantic Area Office | Associate Director, South Atlantic Area.
| Director, South Atlantic Area.
| Director, Center for Medical Agricultural and Veterinary Entomology.
Midwest Area Office | Director, Midwest Area.
| Associate Director, Midwest Area.
| Supervisory Veterinary Medical Officer.
| Director, National Center for Agriculture Utilization.
Midsouth Area Office | Director, Southern Regional Research Center.
| Director, Mid-South Area.
| Associate Director, Mid-South Area.
Southern Plains Area Office | Director, Southern Plains Area.
| Associate Director, Southern Plains Area.
Northern Plains Area Office | Director, Northern Plains Area.
| Associate Director, Northern Plains Area Office.
| Director, United States Meat Animal Research Center.
Pacific West Area Office | Director, Western Regional Research Center.
| Director, Western Human Nutrition Research Center.
| Director, Pacific West Area Office.
| Associate Director, Pacific West Area Office.
| Director, Western Cotton Research Laboratory.
Cooperative State Research, Education and Extension Service | Deputy Administrator Partnerships.
| Special Assistant to the Administrator, CSREES.
| Deputy Administrator, Economic and Community Systems.
| Deputy Administrator, Office of Extramural Programs.
| Deputy Administrator, Information Systems and Technology Management.
Economic Research Service | Administrator, Economic Research Service.
Natural Resources Conservation Service | Director, Resource Economics and Social Sciences Division.
| Regional Conservationist—Northern Plains.
| Special Assistant to the Chief.
Forest Service | Associate Deputy Chief—Business Operations.
| Director, Fire and Aviation Staff.
| Deputy Chief, Office of Finance (Chief Financial Officer).
| Deputy Chief, Business Operations.
| Chief Operating Officer.
| Director, Financial Management Staff.
Research | Director, Vegetation Management and Protection Research Staff.
| Director, Resource Valuation and Use Research Staff.
| Director, Wildlife, Fish and Watershed Research Staff.
| Director, Science Policy, Planning, and Information Staff.
National Forest System | Director, Range Management Staff.
| Director, Forest Management Staff.
| Director, Engineering Staff.
| Director, Lands Staff.
| Director, Ecosystem Management Coordination.
| Director, Wildlife, Fish, and Rare Plants.
| Director, Minerals and Geology Management Staff.
| Director, Watershed and Air Management Staff.
| Director, Recreation, Heritage, and Wilderness Research Staff.
State and Private Forestry | Director, Cooperative Forestry.
| Director, Forest Health Protection.
Field Units | Northeast Area Director, State and Private Forestry.
| Station Director, North Eastern Forest Experiment Station (Newtown Square).
| Director, North Central Forest Experiment Station (Saint Paul).
| Director, Pacific Northwest Forest and Range Experiment Station (Portland).
| Director, Pacific Southwest Forest and Range Experiment Station (Vallejo).
| Director, Rocky Mountain Forest and Range Experiment Station (Ft. Collins).
| Director, Southern Research Station (Asheville).
| Director, Forest Products Laboratory (Madison).
Field Units | Deputy Regional Forester, Pacific Northwest Region (Portland).
International Forest System | Director, International Institute of Tropical Forests (Rio Piedras).
American Battle Monuments Commission:
Office of Executive Director | Executive Director.
Architectural and Transportation Barriers Compliance Board:
Architectural and Transportation Barriers Compliance Board | Executive Director.
Broadcasting Board of Governors:
International Broadcasting Bureau | Director, Engineering and Technical Operations.
| Director, Engineering and Technical Operations.
| Deputy for Engineering Resource Control.
| Deputy for Network Operations.
| Deputy for Network Operations.
| Associate Director for Management.
Department of Commerce:
Department of Commerce | Deputy Assistant Inspector General for Auditing.
| Deputy Director for Financial Services/Deputy Chief Financial Officer.
| Chief Financial Officer and Chief Administrative Officer.
| Deputy Chief Financial Officer/Director of Budget.
| Deputy Chief Administrative Officer.
| Deputy Chief Financial Officer/Deputy Chief Administrative Officer.
| Chief Information Officer.
| Deputy Director for Financial Policy.
| Chief Information Officer and Director for High Performance Computing and Communications.
| Chief, Standard Reference Materials Program.
Office of the Secretary | Director, Office of Information Policy, Planning and Review.
| Director, Office Information Technology Security, Infrastructure and Technology.
Office of the Chief Financial Officer and Assistant Secretary for Administration | Director for Y2K Outreach. Deputy Director, Office of Budget.
| Deputy Chief Information Officer.
| Director for Administrative Services.
Office of the General Counsel | Assistant General Counsel for Finance and Litigation.
| Director, Office of Executive Support.
Office of the Assistant Secretary for Administration | Director for Security.
Director for Human Resources Management | Director for Human Resources Management.
| Deputy Director of Human Resources Management.
Director for Financial Management | Director for Financial Management and Deputy Chief Financial Officer.
Office of Budget Management and Information and Chief Information Officer | Director, Office of Budget.
Director for Executive Budgeting and Assistance Management | Director for Federal Assistant and Management Support.
Office of Security and Administrative Services | Director, Office of Security.
| Director, Office of Acquisition Management.
Office of the Assistant Secretary for Administration | Director for Technology Management.
| Deputy Assistant Secretary and Director for Security.
Office of Inspector General | Assistant Inspector General for Administration.
| Assistant Inspector General for Systems Evaluation.
Office of Counsel to the Inspector General | Counsel to the Inspector General.
Office of Inspections and Program Evaluation | Assistant Inspector General for Inspections and Program Evaluation.
Office of Audits | Assistant Inspector General for Auditing.
Office of Investigations | Assistant Inspector General for Investigations.
Economics and Statistics Administration | Director, Statistics—United States of America.
| Deputy Director, Office of Policy Development.
Office of Policy Development | Senior Executive for Research.
Bureau of the Census | Assistant Director for Marketing and Customer Liaison.
| Chief, Human Resource Division
Office of the Director | Associate Director for Field Operations.
| Chief, Decennial System and Contracts Management Office.
| Principal Associate Director and Chief Financial Office.
| Principal Associate Director for Programs.
| Special Advisor to the Deputy Director.
| Chief, Policy and Strategic Planning Division.
| Assistant to the Director.
Administrative and Customer Services Division | Chief Administrator and Customer Services Division.
Associate Director for Information Technology | Assistant to the Director for Information Technology.
| Associate Director for Information Technology.
Data Preparation Division | Chief National Processing Center.
Associate Director for Economic Programs | Associate Director for Economic Programs.
| Assistant Director for Economic Programs.
Economic Planning and Coordination Division | Chief, Economic Planning and Coordination Division.
Economic Statistical Methods and Programming Division | Chief, Economic Statistical Methods and Programming Division.
Agriculture and Financial Statistics Division | Chief, Company Statistics Division.
Services Division | Chief, Service Sector Statistics Division.
Foreign Trade Division | Chief, Foreign Trade Division.
Governments Division | Chief, Government Division.
Manufacturing and Construction Division | Chief, Manufacturing and Construction Division.
Associate Director for Decennial Census | Associate Director for Decennial Census.
| Assistant to the Associate Director for Decennial Census.
| Assistant Director for Decennial Census.
Decennial Management Division | Chief, Decennial Management Division.
Geography Division | Chief, Geography Division
Decennial Statistical Studies Division | Chief, Decennial Statistical Studies Division.
Associate Director for Demographic Programs | Associate Director for Demographic Programs.
| Chief, Population Division.
| Chief, Surveys Division.
Housing and Household Economic Statistics Division | Chief, Housing and Household Economic Statistics Division.
Demographic Statistical Methods Division | Chief, Statistical Methods Division.
Associate Director for Methodology and Standards | Chief, Planning, Research, and Evaluation Division.
| Associate Director for Methodology and Standards.
Statistical Research Division | Chief, Statistical Research Division.
Bureau of Economic Analysis | Associate of Economic Analysis.
Office of the Director | Director.
| Deputy Director, Bureau of Economic Analysis.
| Chief Economist.
| Chief Statistician.
| Associate Director for Management and Chief Administrative Officer.
Associate Director for Regional Economics | Associate Director for Regional Economics.
Associate Director for International Economics | Associate Director for International Economics.
Associate Director for National Income, Expenditure and Wealth Accounts | Associate Director for National Income, Expenditure and Wealth Accounts.
| Chief, National Income and Wealth Division.
| Chief, International Investment Division.
| Chief, Computer Systems and Services Division.
Director of Administration | Director of Administration.
Office of the Assistant Secretary for Export Enforcement | Deputy Assistant Secretary for Export Enforcement.
| Director, Office of Export Enforcement.
Office of the Assistant Secretary for Economic Development | Chief Financial Officer/Chief Administrative Officer (Chief Financial Officer/Chief Administrative Officer).
International Trade Administration | Director, Office of Environmental Technologies Industries.
Office of the Under Secretary | Chief, Financial Officer and Director of Administration.
Office of the Director of Administration | Human Resources Manager.
Office of Consumer Goods | Director, Office of Consumer Goods.
Deputy Assistant Secretary for Market Access and Compliance | Director, Trade Compliance Center.
Market Access and Compliance | Director, Office of Eastern Europe, Russia, and Independent States.
| Director, Office of Multilateral Affairs.
Deputy Assistant Secretary for Agreement Compliance | Associate Director for Management.
National Oceanic and Atmospheric Administration | Chief Financial Officer/Chief Administrator Officer.
| Director, Staff Office for International Programs.
| Director, Office of Operations, Management and Information.
Office of International Affairs | Chief Financial Officer/Administrator Officer.
Office of Finance and Administration | Director, Budget Office.
| Director, Major Projects Office.
| Director for Human Resources Management.
| Director, Finance Office/Comptroller (Finance Office/Comptroller).
Office of High Performance Computing and Communications | Director for High Performance Computing and Communications.
Systems Acquisition Office | Chief Information Officer and Information Technology Acquisition Manager.
Office of Assistant Administrator, Ocean Services and Coastal Zone Management | Senior Ocean Policy Advisor.
National Ocean Service | Associate Assistant Administrator for Management and Chief Financial Officer/Chief Administrative Officer
| Director, National Centers for Coastal Ocean Science and Scientist for National Ocean Service.
| Deputy Director, National Centers for Coastal Ocean Science.
| Senior Scientist.
| Director, Office of National Geodetic Survey (National Geodetic Survey).
National Oceanic and Atmospheric Administration Coastal Services Center | Director, National Centers for Coastal Ocean Science.
Strategic Environmental Assessments Division | Chief, Strategic Environmental Assessments Division.
Coastal Monitoring and Bioeffects Assessment Division | Chief, Coastal Monitoring Bioeffects Assessment Division.
Hazardous Materials Response and Assessment Division | Chief, Hazardous Materials Response and Assessment Division.
Office of the Assistant Administrator for Weather Services | Senior Advisor. Director, Strategic Planning and Policy Office.
Office of the Chief Information Officer | Chief Information Officer.
Management and Budget Office | Deputy Chief Financial Office/Chief Administrator Officer.
Office—Federal Coordinator—Meteorology | Director, Office of the Federal Coordinator for Meteorology.
Office of Hydrologic Development | Director, Office of Hydrologic Development.
Hydrology Laboratory | Director, Hydrology Laboratory.
Office of Science and Technology | Chief, Programs and Plans Division.
| Director, Office of Science and Technology.
Meteorological Development Laboratory | Director, Meteorological Development Laboratory.
Systems Engineering Center | Director, Systems Engineering Center.
Office of Operational Systems | Director, Office of Operational Systems.
Field Systems Operations Center | Director, Field Systems Operations Center.
Telecommunications Operations Center | Chief, Telecommunications Operations Center.
Maintenance, Logistics, and Acquisition Division | Chief, Maintenance, Logistics, and Acquisition Division.
Radar Operations Center | Director, Nexrad Operational Support Facility.
National Data Buoy Center | Director, National Data Buoy Center.
Office of Climate, Water, and Weather Services | Director, Office of Climate, Water, and Weather Services.
| Chief, Meteorological Services Division.
Eastern Region | Director, Eastern Region National Weather Service.
Southern Region | Director, Southern Region, Fort Worth.
Central Region | Director, Central Region.
Western Region | Director, Salt Lake City Region.
Alaska Region | Director, Alaska Region, Anchorage.
National Centers for Environmental Prediction | Director, National Severe Storms Laboratory.
| Director, National Center for Environmental Prediction.
| Director, Environmental Modeling Center (Environmental Modeling Center) and Deputy Director for Science.
| Director, Aviation Weather Center.
National Centers for Environmental Prediction Central Operations | Director, Central Operations.
Hydrometeorological Prediction Center | Chief, Meteorological Operations Division.
Climate Prediction Center | Director, Climate Prediction Center (Climate Prediction Center).
Storm Prediction Center | Director, Storm Prediction Center.
Tropical Prediction Center | Director, Tropical Prediction Center/National Hurricane Center.
Office of Assistant Administrator for Fisheries | Director, Office of Management and Budget.
National Marine Fisheries Service | Director, Seafood Inspection Program.
| Director, Office of Sustainable Fisheries.
| Deputy Assistant Administrator for Regulatory Programs.
| Director, Office of Habitat Protection.
Office of Fisheries Conservation and Management | Chief, Intergovernmental and Recreational Fisheries and Management.
Office of Protected Resources | Director, Office of Science and Technology.
Northeast Fisheries Science Center | Science and Research Director, Northeast Region.
Southeast Fisheries Science Center | Science and Research Director.
Northwest Fisheries Science Center | Science and Research Director.
Southwest Fisheries Science Center | Science and Research Director, Southwest Region.
Alaska Fisheries Science Center | Science and Research Director.
Office of Assistant Administrator Satellite, Data Information Service | Chief, Financial Officer/Chief Administrative Officer.
| Senior Scientist for Environmental Satellite, Data and Information Services. (National Environmental Satellite, Data and Information Services).
Director, National Polar-Orbiting Operational Environmental Satellite System Integrated Program | Systems Program Director.
National Climatic Data Center | Director, National Climatic Data Center.
National Oceanographic Data Center | Director, National Oceanographic Data Center.
National Geophysical Data Center | Director, National Geophysical Data Center.
Office of Systems Development | Director, Requirements, Planning and System Integration Division.
| Director, Satellite and Ground Systems Program.
| Director, Office of Systems Development.
Office of Assistant Administrator, Ocean and Atmospheric Research | Program Director for Weather Research. Director, Weather and Air Quality Research.
| Chief Financial Officer/Chief Administrative Officer.
| Director, National Oceanic and Atmospheric Administration Climate Office.
| Deputy Assistant Administrator for Extramural Research.
National Sea Grant College Program | Director, National Sea Grant College Program.
Aeronomy Laboratory | Director, Aeronomy Laboratory.
Air Resources Laboratory | Director, Air Resources Laboratory.
Atlantic Ocean and Meterology Laboratory | Director, Atlantic Oceanographic and Meterological.
Geophysical Fluid Dynamics Laboratory | Director.
Great Lake Environmental Research Laboratory | Director, Great Lakes Environmental Research Laboratory.
Pacific Marine Environmental Research Laboratory | Director, Pacific Marine Environmental Laboratory.
Space Environment Center | Director, Space Environment Laboratory.
Environmental Technology Laboratory | Director.
Forecast Systems Laboratory | Director, Forecast Systems Laboratory.
Climate Monitoring and Diagnostics Laboratory | Director Climate Monitoring and Diagnostics Laboratory.
Institute for Telecommunication Sciences | Associate Administrator for Telecommunications Science.
Institute for Telecommunication Sciences, Systems and Networks Division | Deputy Director for Systems and Networks.
Patent and Trademark Office | Deputy Administrator for Legislative and International Affairs.
| Group Director.
| Group Director.
| Group Director.
| Deputy General Counsel for Intellectual Property and Solicitor.
| Patent Examining Group Director.
| Patent Examining Group Director.
Chemical Patent Examining Groups | Group Director 110.
| Group Director 120.
| Group Director 130.
| Group Director 150.
| Deputy Group Director 110. W> |  | Group Director 180.
| Deputy Group Director 150.
Office of Assistant Commissioner for Patents | Administrator for Search and Information Research.
| Deputy Assistant Commissioner for Patent Process Services.
| Deputy Group Director 1300.
Examining Group Directors | Group Director.
| Group Director.
| Group Director.
| Group Director.
| Group Director.
| Patent Examining Group Director.
| Patent Examining Group Director.
| Patent Examining Group Director.
Electrical Patent Examining Groups | Group Director 260.
| Group Director 210.
| Group Director 220.
| Group Director 230.
| Group Director 240.
| Group Director 250.
| Deputy Group Director 250.
| Deputy Group Director 260.
| Deputy Group Director 230.
Mechanical Patent Examining Groups | Group Director 310.
| Group Director 320.
| Group Director 330.
| Group Director 340.
| Group Director 350.
Office of Assistant Commissioner for Trademarks | Chairman, Trademark Trial and Appeal Board.
| Deputy Assistant Commissioner for Trademarks.
| Director, Trademark Examining Operation.
| Group Director, Trademark Law Offices.
| Group Director, Trademark Law Offices.
| Deputy Commissioner for Trademark Examination Policy.
| Group Director, Trademark Law Offices.
| Group Director, Trademark Law Offices.
National Institute of Standards and Technology | Deputy Director, National Institute of Standards and Technology.
| Center for Neutron Research.
| Chief, Optical Technology Division.
| Director, Information Technology and Applications Office.
Office of the Director, National Institute of Standards and Technology Director for Administration and Chief Financial Officer. Deputy Director for Management Services.
| Deputy Director for Safety and Facilities.
| Executive Director, Visiting Committee on Advanced Technology Program.
| Chief Information Officer.
| Director, Boulder Laboratories.
Office of Quality Programs | Director for Quality Programs.
| Deputy Director, Office of Quality Programs.
Program Office | Director, Program Office.
| Deputy Director, Information Technology Laboratory.
Office of International and Academic Affairs | Director, International and Academic Affairs.
| Chief Financial Officer.
Office of the Director for Technology Services | Deputy Director, Technology Services.
Manufacturing Extension Partnership Program | Associate Director for National Programs.
| Director, Manufacturing Extension Partnership Programs.
| Deputy Director, Manufacturing Extension Partnership Program.
Directors Office, Technology Innovation | Director, Office of Technology Evaluation and Assessment.
Directors Office, Advanced Technology Program | Director, Information Technology Laboratory.
| Associate Director for Policy and Operations.
| Deputy Director, Advanced Technology Program.
| Director, Advanced Technology Program.
| Director, Materials and Manufacturing Technology Office.
| Director, Electronics and Photonics Technology Office.
Economic Assessment Office | Director, Economic Assessment Office.
Electronics and Electrical Engineering Laboratory | Director, Electronics and Electrical Engineering Laboratory.
| Chief, Optoelectronics Division.
| Deputy Director.
| Director, Office of Microelectronics Programs.
Manufacturing Engineering Laboratory Office | Chief, Office of Manufacturing Programs.
| Deputy Director, Manufacturing Engineering Laboratory.
| Deputy Director, Manufacturing Engineering Laboratory.
Precision Engineering Division | Chief, Precision Engineering Division.
Intelligent Systems Division | Chief, Intelligent Systems Division.
Chemical Science and Technology Laboratory Office | Chief, Process Measurements Division.
| Director, Chemical Science and Technology Laboratory.
| Deputy Director, Chemical Scientist and Technology Laboratory.
Physical and Chemical Properties Division | Chief, Physical and Chemical Properties Division.
Analytical Chemistry Division | Chief, Analytical Chemistry Division.
Physics Laboratory Office | Manager, Fundamental Constants Data Center.
| Director, Physics Laboratory.
| Deputy Director, Physics Laboratory.
Electron and Optical Physics Division | Chief, Electron and Optical Physics Division.
Atomic Physics Division | Chief, Atomic Physics Division.
| Chief, Quantum Metrology Division.
Time and Frequency Division | Chief, Time and Frequency Division.
Quantum Physics Division | Senior Scientist and Fellow of Joint Institute for Laboratory Astrophysics.
| Senior Scientist and Fellow of Joint Institute for Laboratory Astrophysics.
| Chief, Quantum Physics Division.
Materials Science and Engineering Laboratory Office | Director, Materials Scientist and Engineering Laboratory.
Ceramics Division | Deputy Director, Materials Scientist and Engineering Laboratory.
| Chief, Ceramics Division.
Materials Reliability Division | Chief, Materials Reliability Division.
Reactor Radiation Division | Chief, Reactor Radiation Division.
| Group Leader Neutron Condensed Matter Science.
| Chief, Reactor Operations.
Building and Fire Research Laboratory | Chief, Fire Safety Engineering Division.
| Director, Building and Fire Research Laboratory.
| Deputy Director, Building and Fire Research Laboratory.
| Chief, Fire Safety Engineering Division.
Building Materials Division | Chief, Building Materials Division.
Building Environment Division | Chief, Building Environment Division.
Fire Science Division | Chief, Fire Science Division.
Computer System Laboratory Office | Associate Director For Program Implementation.
Advanced Network Technologies Division | Chief Advanced Network Technologies Division.
Computing and Applied Mathematics Laboratory Office | Associate Director For Computing.
| Chief High Perf Systems and Services Division.
National Technical Information Service | Deputy Director, National Technical Information Service.
Office Assistant Director for Financial and Administrative Management | Associate Director for Finance and Administration Comptroller.
Consumer Product Safety Commission:
Office of Executive Director | Assistant Executive Director for Compliance.
| Associate Executive Director for Field Operations.
| Assistant Executive Director for Information Services.
| Director, Office of International Programs and Intergovernmental Affairs.
Office of Hazard Identification and Reduction | Associate Executive Director for Engineering Sciences.
| Associate Executive Director for Economic Analysis.
| Assistant Executive Director for Hazard Identification and Reduction.
| Deputy Assistant Executive Director for Hazard Identification and Reduction.
| Associate Executive Director for Epidemiology.
Office of the Secretary of Defense:
Office of the Secretary | Assistant to the Secretary of Defense Intelligence Oversight.
| Deputy Assistant to the Secretary of Defense (Intelligence Oversight).
Office of the Assistant Secretary of Defense (International Security Policy) | Director for Nuclear Safety and Security North Atlantic Treaty Organization Policy.
Office of the Assistant Secretary of Defense (International Security Affairs) | Foreign Relations and Defense Policy Manager.
Office of the Assistant Secretary of Defense (Special Operations and Low Intensity Conflict) | Director for Programs, Resources and Assessments. Director Requirements and Technology and Acquisition.
| Director, Resources.
Director, Operational Test and Evaluation | Deputy Director for Live Fire Test and Evaluation.
Office of Inspector General | Assistant Inspector General for Administration and Information Management.
| Director, Audit Planning and Technical Support.
| Director, Contract Management.
| Director, Financial Management.
| Deputy Assistant Inspector General for Auditing
| Director, Acquisition Management Directorate.
| Deputy Assistant Inspector General for Criminal Investment Policy and Oversight.
| Director, Office of Departmental Inquiries.
| Director, Office of Intelligence Review.
| Director, Readiness and Logistics Support.
| Director for Audit Follow-up and Technical Support.
| Deputy Assistant Inspector General for Audit Policy and Oversight.
| Director, Office of Administration and Information Management.
| Director, Defense Criminal Investigative Service.
| Deputy Director, Defense Criminal Investigative Service.
| Assistant Inspector General for Inspections and Policy.
| Assistant Inspector General for Investigations.
| Assistant Inspector General for Auditing.
| Director of Program Integrity.
| Deputy Inspector General for Investigations.
| Deputy Inspector General for Auditing.
| Deputy Inspector General for Inspections and Policy.
| Deputy Assistant Inspector General for Audit Policy and Oversight.
| Deputy Inspector General for Intelligence.
| Assistant Inspector General for Intelligence.
| Deputy Inspector General for Intelligence.
Office of Assistant Secretary of Defense (Reserve Affairs) | Principal Director (Manpower and Personnel).
Office Deputy Assistant Secretary of Defense (Requirements and Resources) | Director, Program and Budget Coordination.
Department of Defense Education Activity | Associate Director for Management.
Office Assistant Secretary of Defense (Health Affairs) | Director Information Management Technical and Engineering.
| Director Acquisition Management and Support.
| General Counsel.
Office of Assistant Secretary of Defense for Public Affairs | Director Armed Forces Radio and Television Service.
| Deputy Director, American Forces Information Service.
| Special Assistant to the Assistant Secretary of Defense (Public Affairs).
Office of the Under Secretary of Defense (Comptroller) | Director, Program and Financial Control.
| Deputy Director for Program and Financial Control.
| Deputy Chief Financial Officer.
Office of Director of Administration and Management | Deputy Director, Pentagon Force Protection Agency.
Washington Headquarters Services | Director of Personnel and Security.
| Director, Freedom of Information and Security Review.
| Director Real Estate and Facilities.
| Deputy Director, Real Estate and Facilities.
| Deputy Director, Personnel and Security.
Office of the General Counsel | Deputy General Counsel (Inspector General).
| Director Defense Office of Hearings and Appeals.
Office of the Under Secretary of Defense (Acquisition, Technology, and Logistics) | Executive Director, Defense Science Board. Director, Pacific Armaments Cooperation.
| Director Planning and Analysis.
| Director, Acquisition Resources and Analysis.
| Deputy Director, Resource Analysis.
| Principal Deputy, Acquisition Resources and Analysis.
| Deputy Director, Office of the Secretary of Defense Studies and Federally Funded Research and Development Center Programs.
| Director, Environmental Readiness and Safety.
| Deputy Under Secretary of Defense (Acquisition and Technology) Deputy Director Naval Warfare.
| Deputy Director, Cost Pricing and Finance.
| Deputy Director Munitions.
| Senior Staff Special for Air Superiority Systems.
| Deputy Director, Contract Policy and Administration.
| Deputy Director Land Warfare.
| Deputy Director Electronic Warfare.
| Deputy Director, Foreign Contracting.
| Special Assistant Concepts and Plans.
| Principal Deputy Director, Strategies and Tactical Systems.
| Deputy Director Air Warfare.
| Deputy Director Arms Control Implementation Compliance.
| Deputy Director (Missile Warfare).
| Deputy Director, Developmental Test and Evaluation.
| Assistant Deputy Under Secretary of Defense (Acquisition Process and Policies).
| Principal Assistant Deputy Under Secretary of Defense (Acquisition Reform).
| Assistant Deputy Director, Air Warfare.
| Deputy Director, Acquisition Management.
| Deputy Director, Electronic Business.
| Deputy Director, Defense Acquisition Regulations System.
| Deputy Director, Defense Procurement Strategies.
| Deputy Director, Defense Procurement and Acquisition Policy.
| Deputy Director, Policy.
| Deputy Director, Program Acquisition and International Contracting.
| Deputy Director, Acquisition Workforce and Career Management.
| Deputy Director, Land Warfare and Munitions.
| Assistant Director, Land Systems.
| Deputy Director, Treaty Compliance.
| Deputy Director, Treaty Compliance.
| Assistant Director, Electronic Warfare.
| Assistant Director, Electronic Warfare.
| Assistant Director, Systems Engineering (Assessments and Support).
Assistant to the Secretary of Defense for Nuclear and Chemical and Biological Defense Programs | Deputy Assistant to the Under Secretary of Defense (Nuclear Treaty Programs).
| Deputy Assistant to the Under Secretary of Defense (Nuclear Matters).
| Deputy Assistant to the Under Secretary of Defense (Chemical and Bioloical Defense).
Office of the Director of Defense Research and Engineering | Director, Space and Sensor Technology.
| Director for Weapons Systems.
| Assistant Deputy Under Secretary of Defense (Full Dimensional Protection).
| Director for Biological Systems.
| Director for Science and Technology Plans and Programs.
| Director for Technology Transition.
| Director for Information Technologies.
| Director, Plans and Programs.
Office of Assistant Secretary (Networks and Information Integration) | Director, Program Analysis and Integration. Director, Technology and Evaluation.
| Director, Counterintelligence.
| Director, International Affairs.
Defense Advanced Research Projects Agency | Director, Contracts Management Office.
| Deputy Director, Defense Advanced Research Project Agency.
| Program Manager (Joint Applications Study Group).
| Deputy Director, Management Operations.
| Director, Microsystems Technology Office.
| Joint Applications Study Group Program Manager.
| Deputy Director, Advanced Technology Office.
| Deputy Director, Tactical Technology Office.
| Director, Special Projects Office.
Office of the Joint Chiefs of Staff | Deputy Director for Wargaming, Simulation and Analysis.
| Deputy Director for Wargaming, Simulation and Analysis.
Missile Defense Agency | Deputy for Program Operations.
| Director, Contracts Directorate.
| Deputy Chief Architect/Engineer.
| Executive Director.
| Deputy Program Manager, National Missile Defense Joint Program Office.
| National Missile Defense Technical Director (National Missile Defense Technical Director).
| Deputy for Program Integration.
| Director, Advanced Concepts.
| Deputy Director, Joint National Integration Center.
| Deputy for Systems Engineering and Integration.
| Deputy Program Director for Battle Management, Command and Control.
| Director, Combined Test Force, Ground-Based Midcourse Defense-Joint Program Office.
Defense Contract Audit Agency | Deputy Director, Defense Contract Audit Agency.
| Assistant Director, Operations.
| Assistant Director, Policy and Plans.
| Director, Field Detachment.
| Director, Defense Contract Audit Agency.
| Deputy Regional Director, Western Region.
Regional Managers | Regional Director, Eastern.
| Regional Director, Northeastern.
| Regional Director, Central.
| Regional Director, Western.
| Regional Director, Mid-Atlantic.
| Deputy Regional Director Eastern Region.
| Deputy Regional Director Northeastern Region.
| Deputy Regional Director Central Region.
| Deputy Regional Director Mid Atlantic Region.
Defense Logistics Agency | Chief Actuary.
| Director, Defense Manpower Data Center.
| Deputy Commander, Defense Construction Supply Center.
| Deputy Commander, Defense General Supply Center.
| Deputy Commander, Defense Personnel Support Center.
| Deputy Commander Defense Distribution Center Comptroller.
| Deputy Commander Defense Logistics Support Command.
| Executive Director, Resource, Planning and Performance Directorate.
| Director, Information Operations.
| Director, Civilian Personnel Management Service.
| Executive Director Human Resources.
| Director, Defense Energy Support Center.
| Executive Director, Electronic Business Office.
| Executive Director, Business Modernization.
| Executive Director, Acquisition, Technical and Supply.
| Program Executive Officer.
| Executive Director, Business Operations.
| Deputy Director, Information Operations/Chief Technical Officer.
| Deputy Director for Program Support.
| Deputy Director for Advisory Services, Defense Human Resources Activity.
| Executive Director, Enterprise Solutions.
Office of General Counsel | General Counsel, Defense Logistics Agency.
| Deputy General Counsel (Administration).
Defense Training and Performance Data Center | Deputy Director Defense Manpower Data Center.
Defense Contract Management Agency | Director, Defense Contract Management Agency—East.
| Director, Defense Contract Management Agency—West.
| Deputy Executive Director, Contract Management Operations.
| Executive Director, Contract Management Operations.
| Executive Director, Program Integration (Acquisition)
| Deputy Director, Defense Contract Management Agency.
| Executive Director, Financial and Business Operations and Comptroller.
| Chief Information Officer.
| General Counsel.
| Deputy General Counsel.
Defense Information Systems Agency | Comptroller.
| Chief Information Officer.
| Deputy Manager National Communication Systems.
| Director for Strategic Plans and Policy.
| Inspector General.
| Technical Director Advisor Information Technical Services Joint Programs.
| Chief, Satellite Communications Office.
| Special Assistant for Liaison Activities.
| Chief, Technology and Standards Division
| Principal Director for Interoperability.
| Director for Technical Integration Services.
| Director for Procurement and Logistics.
| Special Assistant/Infrastructure and Information Systems Security.
| Chief Engineer, Information Systems Security.
| Chief Spectrum Analysis and Management Division.
| Principal Director for Computing Services.
| Chief, Policy, Plans, and Appropriated Programs Division.
| Chief, Defense Computing Business Office.
| Chief Defense Information Systems Network Business Office.
| Assistant for Program Oversight.
| Director for Manpower, Personnel and Security.
| Principal Director for Applications Engineering.
| Deputy Comptroller.
| Chief, Plans, Concepts and Command/Control Applications Division.
| Assistant for Command, Control, Communications and Intelligence.
| Enterprise Program Integration.
| Chief Executive Engineer, Network Services Directorate.
| Chief, Center for Defense Information Systems Networks Services.
| Chief, Customer Focus Center.
| Chief Executive for Information Technology Systems and Programs.
| Chief Technology Officer, Defense Information Systems Agency Westhem.
| Principal Director for Network Services.
| Chief, Global Information Grid Network and Information Operations.
| Special Assistant to Chief Satellite Communications Division.
| Deputy Portfolio Manager, Global Information Grid Enterprise Services.
Defense Threat Reduction Agency | Staff Specialist for Special Technology Development Directorate.
| Chief, Weapons Lethality Division.
| Deputy Director, Operations Directorate.
| Director for Electronics and Systems.
| Chief, Simulation and Test Division.
| Director for Programs.
| Program Director, Special Programs Office.
| Director for Counterproliferation Programs.
| Comptroller.
| Deputy Director, On Site Inspection Plans and Resources.
| Director, Counterproliferation Support and Operations.
| Director, Acquisition Management.
| Deputy Director, Technology Security.
| Chief Scientist, Technology Development Directorate, Systems Application Division.
| Director, System Applications Division.
| Director, Chemical-Biological Defense.
Defense Security Cooperation Agency | Chief Information Officer.
Defense Finance and Accounting Service | Principal Deputy Director Defense Finance and Accounting Service.
| Accounting Requirements Officer.
Defense Security Service | Director, Defense Investigative Service.
| Deputy Director for Developmental Programs.
| Deputy Director for Security Programs.
| Deputy Director for Program Analysis and Evaluation.
| Deputy Director for Resources.
| Deputy Director, Defense Security Service.
Department of the Air Force:
Office of Administrative Assistant to the Secretary | Administrative Assistant.
| Deputy Administrator Assistant.
Office of Small and Disadvantaged Business Utilization | Director, Office of Small and Disadvantaged Business Utilization.
Auditor General | Auditor General of the Air Force.
Air Force Audit Agency (Filed Operating Agency) | Asst Aud Gen (Operations).
| Deputy Auditor General of the Air Force.
| Assistant Auditor General (Support and Personnel Audits).
| Assistant Auditor General (Acquisition and Logistics Audits).
| Assistant Auditor General (Financial and Systems Audits).
| Deputy Auditor General and Director of Operations.
Air Force Office of Special Investigations (Field Operating Agency) | Executive Director.
| Executive Director, Defense Cyber Crime Center (Defense Cyber Crime Center).
Office of the General Counsel | Deputy General Counsel (Dispute Resolution).
Office Deputy Assistant Secretary Budget | Chief, Budget Management Division.
| Deputy for Budget.
| Chief, Budget Investments Directorate.
Office Deputy Assistant Secretary Cost and Economics | Associate Deputy Assistant Secretary (Cost and Economics).
| Deputy Assistant Secretary (Cost and Economics).
Office Deputy Assistant Secretary Financial Operations | Associate Deputy Assistant Secretary (Financial Operations and Technology).
Office of Assistant Secretary Air Force for Acquisition | Director, Air Force Center for Acquisition Excellence.
| Director, Air Force Rapid Capabilities Office.
Office Deputy Assistant Secretary Science, Technology and Engineering | Deputy Assistant Secretary (Science, Technology and Engineering).
Office Deputy Assistant Secretary Management Policy and Program Integration | Deputy Assistant Secretary (Management Policy and Program Integration).
Office Deputy Assistant Secretary Contracting | Associate Deputy Assistant Secretary (Contracting).
Directorate of Space and Nuclear Deterrence | Deputy Director, Space and Nuclear Deterrence.
Air Force Program Executive Office (Field Operating Agency) | Deputy Program Executive Officer (Command and Control and Combat Support Systems).
| Air Force Program Executive Officer for Services.
Air Force Review Boards Agency (Air Force Review Boards Agency)—Field Operating Agency | Deputy for Air Force Review Boards.
Office of Assistant Secretary Air Force, Installations, Environment, and Logistics | Deputy Assistant Secretary for Basing and Infrastructure Analysis.
Air Force Base Conversion Agency (Field Operating Agency) | Director Air Force Base Conversion Agency.
Office of the Chief of Staff | Director, Air Force History Office.
Air Force Office of Safety and Air Force Safety Center (Field Operating Agency) | Deputy Chief of Safety.
Test and Evaluation | Deputy Director, Test and Evaluation.
Air Force Studies and Analyses Agency (Direct Reporting Unit (DRU)) | Director, Air Force Studies and Analyses Agency.
Deputy Chief of Staff, Warfighting Integration | Assistant Deputy Chief of Staff for Warfighting Integration.
| Director, Command and Control, Communications and Computers, Intelligence, Surveillance, and Reconnaissance Architecture and Assessment.
Air Force Command and Control and Intelligence Surveillance Reconnaissance Center (Field Operating Agency) | Senior Technical Director, Air Force Command and Control, Intelligence, Surveillance, and Reconnaissance Center (AFC2ISRC).
Deputy Chief of Staff, Installations and Logistics | Assistant Deputy Chief of Staff, Installation and Logistics.
Civil Engineer | Deputy Civil Engineer.
Services | Director of Services.
Maintenance | Deputy Director of Maintenance.
Logistics Readiness | Deputy Director of Logistics Readiness.
Resources | Chief, Aircraft/Missile Support Division.
| Deputy Director of Resources.
Communications Operations | Deputy Director of Communications Operations.
Innovation and Transformation | Director, Innovation and Transformation.
Air Force Center for Environmental Excellence (Field Operating Agency) | Director, Air Force Center for Environmental Excellence.
Programs | Associate Director of Programs and Evaluation.
Strategic Planning | Deputy Director of Strategic Planning.
Deputy Chief of Staff, Personnel | Assistant, Deputy Chief of Staff Personnel.
| Director, Palace Compass Program Management Office.
| Director, Strategic Plans and Future Systems.
| Deputy Director for Personnel Policy.
Deputy Chief of Staff, Air and Space Operations | Deputy Director of Operational Requirements.
| Associate Director, Nuclear Weapons and Counterproliferation.
| Associate Director for Ranges and Airspace
| Associate Director for Operations.
Air Force Operational Test and Evaluation Center (Direct Reporting Unit) | Scientific Advisor.
Air Force Materiel Command | Executive Director.
| Chief Technology Officer.
Personnel | Director, Personnel.
Contracting | Deputy Director Contracting.
| Director, Contracting.
Logistics | Deputy Director for Depot Maintenance.
| Deputy Director for Supply Management
Engineering and Technical Management | Director, Engineering and Technical Management.
Financial Management and Comptroller | Deputy Director, Financial Management and Comptroller.
Plans and Programs | Deputy Director, Plans and Programs.
| Director, Plans and Programs.
Requirements | Deputy Director, Requirements.
Operations Directorate | Deputy Director of Operations.
Directorate of Civil Engineer | Deputy Command Civil Engineer.
Information Technology | Director, Information Technology.
Mission Support Directorate | Command Civil Engineer.
Electronic Systems Center | Executive Director.
| Program Director Strategic and Nuclear Deterrence C2.
| Director, Materiel Systems Group.
| Director, Plans and Programs.
| Program Director, Defense Information Infrastructure—Air Force.
| Director, Contracting.
Standard Systems Center | Director, Standard Systems Center.
Aeronautical Systems Center | Executive Director.
| Director System Management.
| Director, Contracting.
| Director Financial Management and Comptroller.
Directors of Engineering | Director of Engineering F-22.
| Director of Engineering Joint Strike Fighter.
| Director of Engineering Propulsion.
Systems Program Offices | Program Director, Air Combat System Program Office.
| Program Director, Mobility System Program Office.
| Deputy Program Director, F/A-22 Systems Program Office (SPO).
Human Systems Center | Deputy Director.
Air Force Research Laboratory | Executive Director, Air Force Research Laboratory.
| Director, Plans and Programs.
| Associate Director for Investment Strategy.
| Director, Air Force Research Laboratory Washington Office.
Air Vehicles Directorate | Associate Director for Air Platforms.
Air Force Research Laboratory—Munitions Directorate | Associate Director for Weapons.
Space Vehicles Directorate | Associate Director for Space Technology.
Information Directorate | Director Information.
Directed Energy Directorate | Director, Directed Energy.
Materials and Manufacturing Directorate | Director, Materials and Manufacturing.
| Associate Director for Manufacturing Technology and Affordability.
Sensors Directorate | Director Sensors.
Human Effectiveness Directorate | Director, Human Effectiveness Directorate.
Arnold Engineering Development Center | Executive Director.
Air Force Flight Test Center | Executive Director.
Air Logistics Center, Oklahoma City | Director, Commodities Management.
| Executive Director.
| Product Group Manager, Propulsion Systems.
| Director, Logistics Management.
| Director, Engineering.
Air Logistics Center, Warner Robins | Executive Director.
| Director, Logistics Management.
| Director, Maintenance.
| Director, Engineering.
| Director, Contracting.
Air Logistics Center, Ogden | Executive Director.
| Director Commodities.
| Director Commodities.
| Director, Logistics Management.
| Director, Engineering.
| Director, Contracting.
Air Armament Center | Deputy for Acquisition.
| Executive Director.
| Director, Plans and Programs.
Air Armament Center—Systems Program Office | Director, Lethal Strike Joint Program Office.
| Program Director, Counterair Joint System Program Office.
Air Combat Command | Deputy For Maintenance and Logistics.
Air Mobility Command | Deputy Director of Logistics.
Air Education and Training Command | Director, Center for Systems Engineering.
Air Force Reserve Command | Air Commander 4th Air Force.
| Air Commander 10th Air Force.
| Air Commander 22nd Air Force.
| Assistant Vice Commander.
| Director, Plans.
| Director of Operations.
United States Central Command | Director of Resources, Requirements, Budget and Assessment.
United States Space Command | Director of Programs and Resources.
Space and Missile Systems Center | Director, Systems Acquisition.
| Executive Director.
| Director Contracting.
| Program Director, Military Satellite Communications Joint Program Office.
United States Strategic Command | Associate Director for Strategic Planning.
| Deputy Director, Command, Control, Communications, Computer, and Intelligence Systems.
| Associate Director, Resources and Requirements.
| Associate Director, Concepts and Assessments.
United States Transportation Command | Director, Program Analysis and Financial Management.
Department of the Army:
| DAS (Army Rev Brds/EEO Complaints).
| Assistant Deputy Chief of Staff for Personnel (Installation Management).
| Deputy Chief of Staff for Resource Management.
| Assistant Deputy Chief of Staff for Logistics (Readiness).
| Director of Modernization.
| Deputy Director, Logistics and Security Assistance.
Office of the Secretary | Interagency Coordinator of Military Support to Civil Authorities.
Office Deputy Under Secretary of Army (Operations Research) | Special Assistant for Air and Missile Defense.
| Special Assistant for Systems.
| Assistant Deputy Under Secretary of the Army for Operations Research.
| Director, Test and Evaluation Management Agency.
| Special Assistant for Systems.
Office Adminstrative Assistant to the Secretary of Army | Administrative Asst to the Secretary.
| Deputy Administrator Assistant to the Secretary of the Army.
| Director, Single Agency Manager for Pentagon Information.
| Technology Services.
Office of the General Counsel | Deputy General Counsel (Ethics and Fiscal).
Office Assistant Secretary Army (Civil Works) | Deputy Assistant Secretary of the Army (Management and Budget).
| Deputy Assistant Secretary of the Army (Policy and Legislation).
Office Assistant Secretary Army (Financial Management and Comptroller) | Assistant Deputy Assistant Secretary for Army Budget. Deputy for Cost Analysis.
| Director of Investment.
| Deputy Assistant Secretary of the Army (Financial Operations).
| Director for Business Resources.
| Director of Management and Control.
| Director of Business and Investments.
| Director, Programs and Strategy.
| Director of Operations and Support.
Office Assistant Secretary Army (Installations and Environment) | Program Manager for Chemical Demilitarization Operations).
| Deputy Program Manager for Chemical Demilitarization.
| Deputy Assistant Secretary of the Army (Infrastructure Analysis).
Office Assistant Secretary Army (Manpower and Reserve Affairs) | Director of Civilian Personnel Management.
| Director for Equal Employment Opportunity/Civil Rights.
Office Assistant Secretary Army (Acquisition, Logistice and Technology) | Deputy Assistant Secretary for Research and Technology/Chief Scientist.
| Deputy Assistant Secretary of the Army (Policy and Procurement)
| Deputy Assistant Secretary of the Army for Plans, Programs and Policy.
| Deputy Assistant Secretary of the Army (Defense Exports and Cooperation).
| Director for Research and Laboratory Management.
| Director of Technology.
| Director for Assessment and Evaluation.
| Director, Procurement Policy and Acquisition Reform.
| Program Manager for Chemical Demilitarization.
| Director, Army Contracting Agency.
| Deputy Assistant Secretary of the Army for Integrated Logistics Support.
Headquarters Department of the Army Acquisition Executive | Deputy Program Executive Officer, Armored Systems Modernization.
| Deputy Program Executive Officer, Command and Control Systems.
| Deputy Program Executive Office Communication Systems.
| Program Executive Officer Enterprise Information Structure.
| Deputy Program Executive Officer for Aviation.
| Deputy Program Executive Officer, Air and Missile Defense.
| Deputy Program Executive Officer, Tactical Missiles and Smart Munitions.
| Deputy Program Executive Officer for Fire Support Systems.
| Program Executive Officer, Intelligence, Electronic Warfare and Sensors.
| Program Manager, Joint Simulation Systems.
Chief Information Officer/G-6 | Deputy Chief Information Officer/G-6.
| Director for Enterprise Management.
Army Audit Agency | The Auditor General.
| Deputy Auditor General.
| Director, Logistical and Financial Audits.
| Director, Acquisition and Force Management.
| Director, Audit Policy, Plans and Resources.
Office, Chief of Staff | Director, Facilities, Housing and Environment.
| Director, Enterprise Systems Technology Activity.
Operations Test and Evaluation Command (Office of the Chief of Staff of the Army, Field Operating Agency) | Technical Director. Director, United States Army Evaluation Center.
Army Center of Military History (Office of the Chief of Staff of the Army, Field Operating Agency) | Chief Historian.
Office, Assistant Chief of Staff for Installation Management | Deputy Assistant Chief of Staff for Installation Management.
| Deputy, Installation Management Agency.
| Financial Manager.
| Regional Director (Northeast).
| Regional Director (Northwest).
| Regional Director (Southeast).
| Regional Director (Southwest).
| Regional Director (Europe).
| Regional Director (Pacific).
Office, Deputy Chief of Staff, G-4 | Associate Director, Force Projection and Distribution.
| Executive Director, Strategic Logistics Agency.
| Chief Aviation Logistics Office.
| Associate Director of Sustainment.
| Special Assistant to the Deputy Chief of Staff, G-4.
Office, Deputy Chief of Staff, G-8 | Assistant Deputy Chief of Staff, G-8.
| Assistant Deputy Chief of Staff, G-8.
| Assistant Deputy Chief of Staff, G-8.
Office, Deputy Chief of Staff, G-3 | Technical Advisor to the Deputy Chief of Staff, G-3.
| Director, Army Model and Simulation Office.
| Director, Requirements Directorate.
| Deputy Director of Training.
| Assistant Deputy Chief of Staff, G-3 Homeland Security, Training and Simulations.
Office, Deputy Chief of Staff, G-1 | Director, United States Army Research Institute and Chief Psychologist.
| Assistant G-1 for Civilian Personnel Policy.
| Director for Manprint Directorate.
| Chief, Policy and Program Development Division.
| Director of Plans, Resources and Operations.
| Director of Army Personnel Transformation.
Army Research Institute (Deputy Chief of Staff for Personnel, Field Operating Agency) | Director, Manpower and Personnel Research Laboratory and Associate.
| Director, Army Research Institute.
United States Total Army Personnel Command (Deputy Chief of Staff for Personnel, Field Operating Agency) | Director, Army Declassification Activity.
National Guard Bureau | Program Executive Officer for Information Systems and Chief Information Officer.
United States of America Space and Missile Defense Command | Principle Assistant Response for Contracting.
| Director, Advanced Technology Directorate.
| Director, Weapons Directorate.
| Director, Space and Missile Defense Battle Laboratory.
| Director, Integration and Interoperability for Missile Defense.
Training and Doctrine Command (Training and Doctrine Command) | Assistant Deputy Chief of Staff for Resources Management. Assistant Deputy Chief of Staff for Training Policy Plans and Programs.
| Deputy to the Commanding General, Combined Arms Support Command.
| Assistant Deputy Chief of Staff for Base Operations Support.
| Assistant Deputy Chief of Staff for Combat Development.
| Deputy Chief of Staff for Base Operations Support.
Training and Doctrine Command Analysis Center | Director of Operations.
| Director of Operations.
| Director.
United States Army Nuclear and Chemical Agency | Director, United States Army Nuclear and Chemical Agency.
Military Traffic Management Command | Special Assistant for Transportation Engineering.
| Deputy to the Commander.
United States Army Forces Command | Assistant Deputy Chief of Staff for Personnel and Installation Management.
| Assistant Deputy Chief of Staff for Logistics and Readiness.
United States Army Signal Command | Technical Director/Chief Engineer.
United States Army Corps of Engineers | Director of Real Estate.
| Director of Human Resources.
| Director of Resource Management.
| Principal Assistant Responsible for Contracting.
| Director of Corporate Information.
| Deputy Director Engineer Research and Development Center.
| Military and Technical Director.
| Technical Director.
Directorate of Research and Development | Director of Research and Development.
| Assistant Director for Research and Development (Civil Works Programs).
| Deputy Director.
Directorate of Civil Works | Chief, Programs Management Division.
| Principal Assistant for Civil Works.
| Chief, Engineering and Construction Division.
| Chief, Operating Division.
| Chief, Planning and Policy Division.
Directorate of Military Programs | Deputy Director, Military Programs.
| Chief, Programs Management Division.
| Chief, Environmental Division.
| Chief, Interagency and International Services Division.
| Chief, Installation Support Division.
Directors of Programs Management | Director, Programs Management, Mississippi Valley Division.
| Director, Programs Management, North Atlantic Division.
| Director of Programs Management.
| Director Programs Management.
| Director Programs Management, POD.
| Civil Works and Management Director, South Atlantic Division.
| Civil Works and Management Director, South Pacific Division.
| Civil Works and Management Director, Southwestern Division.
Directors of Engineering and Technical Services | Director of Engineering and Technical Services.
| Military and Technical Director, North Atlantic Division.
| Military and Technical Director, Great Lakes and Ohio River Division.
| Military and Technical Director, Northwestern Division.
| Civil Works and Technical Director, Pacific Ocean Division.
| Military and Technical Director, South Atlantic Division.
| Military and Technical Director, South Pacific Division.
| Military and Technical Director, Southwestern Division.
Engineer Research and Development Center | Director Environmental Laboratory.
| Director, Coastal and Hydraulics Laboratory.
| Director, Engineer Research and Development.
| Director, Information Technology Laboratory.
| Director Geotechnical and Structures Laboratory.
| Director Geotechnical and Structures Laboratory.
Engineer Topographic Laboratories, Center of Engineers | Director.
Construction Engineering Research Laboratory Champaign, Illinois | Director.
Cold Regions Research and Engineering Laboratory Hanover, New Hampshire | Director.
United States Army Materiel Command | Director for Contracting.
| Deputy Chief of Staff for Corporate Information/Chief Information Officer.
| Special Assistant to the Executive Deputy to the Commanding General for Army Materiel Command Transformation Integration.
| Deputy G-3 for Current Operations.
| Director, Simulation and Training Technology Center.
Office of Deputy Chief of Staff for Logistics and Operations | Assistant Deputy Chief of Staff for Logistics and Operations.
| Director Army Single Stock Fund/Director Army Material Command Logistics Systems and Processes.
Special Analysis Office | Chief, Strategic Analysis and Planning Office.
Office Deputy Commanding General | Principal Deputy for Logistics.
| Principal Deputy for Acquisition.
| Senior Advisor for Science and Technology.
Office of Deputy Chief of Staff for Research, Development and Acquisition | Assistant Deputy Chief of Staff for Research, Development and Acquisition Science Technology and Engineering.
| Assistant Deputy Chief of Staff for Research, Development and Acquisition—Business Operations/Director Army Material Command TOCR Program.
Office of Deputy Chief of Staff for Ammunition | Assistant Deputy Chief of Staff for Ammunition.
Office of Deputy Chief of Staff for Personnel | Deputy Chief of Staff for Personnel.
Office of the Deputy Chief of Staff for Research Management | Assistant Deputy Chief of Staff for Resource Management/Executive Director for Business.
| Deputy Chief of Staff for Resource Management.
United States of America Security Assistance Command | Deputy.
United States Army Operations Support Command | Deputy to the Commander.
Natick Soldier Center | Director, United States Army Natick Research, Development and Engineering Center.
United States Army Soldier and Biological Command (Soldier and Biological Command) | Director, Engineering Directorate. Technical Director.
| Deputy to the Commander.
| Director for Operations, Remediation and Restoration.
| Director, United States Army Robert Morris Acquisition Center.
United States Army Communications Election Command (Communication Election Command) | Director CECOM Acquisition Center.
| Associate Director, Communications Elect Command Acquisition Center—Washington Operations Office.
| Deputy to the Commander.
Communications Election Command Research, Development and Engineering Center | Director—Night Vision/Electromagnetics Sensors Directorate. Director, Space and Terrestrial Committee Directorate.
| Director, Intelligence and Information Warfare Directorate.
| Director, Software Engineering Directorate.
| Director/Army Systems Engineer.
| Director for Command, Control, Communications, Computers, Intelligence Logistics and Readiness Center.
| Associate Technical Director Research Development and Engineering Center.
| Director, Command, Control and System Integration Directorate.
United States Army Research Laboratory | Director, United States Army Research Laboratory.
| Associate Director for Plans, Programs and Budget.
| Deputy Director.
Survivability/Lethality Analysis Directorate Army Research Office | Director, Survivability/Lethality Analysis Directorate.
| Director.
| Director, Research and Technology Integration.
| Director, Engineering Sciences Directorate.
| Director, Physical Sciences Directorate.
Sensors and Electron Devices Directorate | Deputy Director and Director Electron Devices Research Director.
Computational and Information Sciences Directorate | Director.
| Deputy Director.
Weapons and Materiel Research Directorate | Deputy Director and Directorate Materials Research Director.
Human Research and Engineering Directorate (Army Research Laboratory) | Director, Human Research and Engineering Directorate.
United States Army Aviation and Missile Command (Army Materiel Command) | Executive Director, Acquisition Center. Director for Engineering.
| Executive Director, Integrated Materiel Management Center.
| Deputy Executive Director for Test, Measurement and Diagnostic Equipment.
| Deputy to the Commander.
| Deputy to the Commander.
| Executive Director Acquisition Center.
| Executive Director Integrated Material Management Center.
Missile Research Development and Engineering Center (Research Development and Engineering Center) | Director for Systems Simulation and Development.
| Technology Director for Missiles and Development, Research, Development and Engineering Center.
| Associate Director for Systems, Missiles.
| Director for Weapons Sciences.
| Director for Missile Guidance.
| Director for Propulsion and Structures.
Aviation Research, Development and Engineering Center | Technical Director (Aviation) and Ed—United States Army Aviation Research, Development and Engineering Center.
| Director for Aviation Engineering.
| Director for Aeroflight Dynamics.
| Director of Advanced Systems/Associate Director for Technology.
| Associate Director for Technical Applied/Director of Special Program.
Tank-Automotive and Armaments Command (Tank-Automotive and Armaments Command) | Director of Acquisition Center. Director, Integrated Materiel Management Center.
| Director, United States Army Armament and Chemical and Logistics Activity.
| Deputy to the Commander.
Tank-Automotive Research, Development and Engineering Center (Tank-Automotive Research, Development and Engineering Center) | Vice President for Research. President/Director. Vice President for Customer Engineering. Vice President for Product Development.
| Executive Vice President for Technology Transfer/Director, National Automotive Center.
United States Army Armament Research, Development and Engineering Center (Armament Research, Development and Engineering Center) | Technical Director for Armament. Assistant Technical Director (System Development and Engineering). Assistant Technical Directorate (Systems Concepts and Technology).
Warheads, Energetics and Combat Support Armaments Center | Director, Warheads Energetics and Combat Support Armaments Center.
Fire Support Armaments Centers | Senior Technical Executive for Fire Support.
Close Combat Armaments Center | Senior Technical Executive for Close Combat.
United States Army Simulation, Training and Instrumentation Command | Deputy to the Commander.
United States Army Test and Evaluation Command, (Test and Evaluation Command) | Technical Director and Chief Scientist. Director, Technical Mission.
| Director, Joint Program Office for Test and Evaluation.
United States Army Materiel Systems Analysis Activity | Director.
| Chief, Combat Integration Division.
Headquarters, United States Army, Europe | Assistant Deputy Chief of Staff, Personnel (Civilian Personnel).
| Assistant Deputy Chief of Staff Engineer for Engineering and Housing.
| Deputy Chief of Staff for Resource Management.
United States Army Military District of Washington | Director of Cemetery Operations.
| Deputy to the Commander for Installation Support.
United States Southern Command | Technical Advisor-Sustaining Base/Quality of Life.
Department of the Navy:
Office of the Secretary | Chief Information Officer.
| Director for Electronic Business and Security.
Office of the Under Secretary of the Navy | Assistant for Administration.
Office of the Naval Inspector General | Deputy Naval Inspector General.
Office of the Auditor General | Assistant Auditor General for Financial Management and Comptroller Audits.
| Assistant Auditor General for Manpower and Reserve Affairs Audits.
| Auditor General of the Navy.
| Deputy Auditor General of the Navy.
| Assistant Auditor General for Installation and Environment Audits.
| Assistant Auditor General for Research, Development and Acquisition Audits.
Office of the Assistant Secretary of Navy (Manpower and Research Affairs) | Assistant General Counsel (Manpower and Reserve Affairs). Assistant General Counsel (Manpower and Reserve Affairs).
| Deputy Assistant Secretary of the Navy (Civilian Human Resources).
Office of Civilian Human Resources | Director, Office of Civilian Human Resources.
| Director, Human Resource Policy and Program Department.
| Director, Human Resource Operations Department.
Office Assistant Secretary of Navy (Installations and Environment) | Assistant General Counsel (Installation and Environment).
Office Assistant Secretary of the Navy (Research, Development and Acquisition) | Director, Navy Acquisition Reform and Standards Improvement. Executive Director for Acquisition and Business Management. Head, Contract Policy.
| Assistant General Counsel (Research, Development and Acquisition).
| Director, Acquisition Career Management.
| Director, Program Analysis and Business Transformation.
| Executive Director, Navy International Programs Office.
Program Executive Officers | Deputy Chief Engineer.
| Executive Director, Combatants, Program Executive Office Ships.
| Deputy Program Executive Officers for Aircraft Carriers.
| Executive Director for Program Assessment and Integration/Deputy.
| Program Executive Officer for Command, Control, Communications, Computers and Intelligence and Space.
| Deputy Program Executive Officer for Unmanned Aerial Vehicles.
| Director for Integrated Combat Systems for Integrated Warfare Systems.
| Deputy Program Executive Officer for Strike Weapons.
| Executive Director, Program Executive Office Submarines.
| Deputy Program Executive Officer for Air ASW, Assault and Special Mission Programs.
| Deputy Program Executive Officer for Tactical Air Programs.
| Executive Director, Program Executive Officer Littoral and Mine Warfare.
| Program Executive Officer for Information Technology/Enterprise.
| Acquisition Manager for Information Technology.
| Executive Director, Fleet Support, Program Executive Office Ships.
| Program Executive Officer for Air ASW, Assault and Special Mission Programs.
| Deputy Program Executive Officers for Enterprise Solutions.
| Deputy Program Executive Officers for Information.
| Technology/Technical Director.
| Executive Director, Program Executive Office for Integrated Warfare Systems.
Strategic Systems Programs | Director, Plans and Programs Division.
| Chief Engineer.
| Assistant for Shipboard Systems.
| Branch Head, Reentry Systems Branch.
| Technical Plans Officer.
| Head, Resources Branch and Deputy Director, Plans and Program Division.
| Assistant for Missile Engineering Systems.
| Assistant for Systems Integration and Compatibility.
Office of the Assistant Secretary of Navy (Financial Management Comptroller) | Associate Director, Budget and Reports/Fiscal Management Division. Assistant General Counsel (Financial Management/Comptroller.
| Director, Investment and Development Division.
| Director, Financial Management Policy and Systems Division.
| Director, Program/Budget Coordination Division.
| Director, Resource Allocation and Analysis Division.
| Director, Naval Cost Analysis Division.
| Director, Business and Civilian Resources Division.
Naval Center for Cost Analysis | Dir Naval Center for Cost Analysis.
Office of the General Counsel | Special Counsel for Litigation.
Naval Criminal Investigative Service | Assistant Director for Criminal Investigations.
| Assistant Director for Counterterrorism.
| Director, Naval Criminal Investigative Service.
| Assistant Director of Counterintelligence.
| Special Agent-in-Charge, Norfolk Field Office.
| Special Agent-in-Charge, San Diego Field Office.
| Deputy Director, Naval Criminal Investigative Service.
Chief of Naval Operations | Assistant Deputy Chief of Naval Operations (Logistics).
| Deputy Director of Naval Training.
| Assistant Deputy Chief of Naval Operation (Resources, Warfare Requirements, and Assessments).
| Assistant Deputy Chief of Naval Operations (Manpower and Personnel).
| Assistant Deputy Chief of Naval Operations (Warfare Requirements and Programs).
| Director, Special Programs Division.
| Deputy Director, Warfare Integration and Assessment Division.
| Deputy Director for Networks Integration and Transformation/Associate Director, Navy Information Officer.
| Head, Readiness, Sustainability and Infrastructure Branch.
| Associate Director, Assessment Division.
| Technical Director, Submarine and Strategic Submarine Ballistic Nuclear Security Program.
| Technical Director, Oceanographer of the Navy.
| Deputy Director for Programming (N80) and Department of the Navy Program Information Center.
| Head, Force Structure and Analysis Branch.
| Associate Director, Expeditionary Warfare Division.
| Director, Logistics Planning and Innovation.
| Director Naval History/Director, Naval Historical Center.
| Deputy Director Environmental Protection Safety Occupational Health Division.
| Director Strategic Sealift Division.
Bureau of Naval Personnel | Assistant Chief of Naval Personnel for Military Personnel, Navy Financial Management.
| Deputy Commander, Navy Personnel Command.
Commander, Navy Installations | Deputy Commander, Navy Installations.
Bureau of Medicine and Surgery | Deputy Commander for Financial Management and Comptroller.
Military Sealift Command | Counsel.
| Comptroller.
| Executive Director.
Naval Meteorology and Oceanography Communications, Stennis Space Center, Mississippi | Technical/Deputy Director.
Office of Commander, United States Atlantic Fleet/Joint Forces Command | Director, Joint Training, Analysis, and Simulation Center. Deputy Director Fleet Maintenance.
| Director, Joint Battle Laboratory.
| Director, Command, Control, Communications and Computers Systems.
| Director, Joint Interoperability and Integration/Joint Battle.
| Management Command and Control.
| Deputy Director, Shore Activities Readiness.
Office of the Commander, United States Pacific Command | Chief Information Officer.
Office of the Commander, United States Pacific Fleet | Deputy Director Fleet Maintenance.
| Deputy Director Shore Installation Management.
| Executive Director, Planning and Resources.
| Executive Director, Total Force Management.
Naval Education and Training Command | Comptroller.
Naval Personnel Development Command | Executive Director.
Navy Reccruiting Command | Deputy Commander.
Naval Air Systems Command Headquarters | Program Director for Enterprise Solutions.
| Director, Strategic Business Operations.
| Deputy Commander for Acquisition and Operations.
| Deputy Assistant Commander for Logistics.
| Deputy Assistant Commander for Contracts.
| Deputy Comptroller.
| Counsel, Naval Air Systems Command.
| Director, Systems Engineering Department.
| Director, Avionics Department.
| Director, Air Vehicle Department.
| Director, Logistics Management Integration.
| Director, Tactical Aircraft and Missiles Contracts Department.
| Director, Cost Analysis Department.
| Deputy Acquisition Executive.
| Deputy Assistant Commander, Research and Engineering.
| Director Industrial Operations.
| Director, Warfare Analysis Department.
| Director, Propulsion and Power.
| Director, Air Platform Systems.
| Director, Integrated Systems Evaluation Experimentation and Test Department.
| Director, Logistics Systems and Analysis Department.
| Deputy Commander, Naval Air Systems Command.
| Director, Strike Weapons, Unmanned Aviation, Naval Air Programs Contracts Department.
| Director Budget Formulation Justification Executive Division.
| Executive Director, Office of Counsel.
| Deputy Assistant Commander for Aviation Depots.
| Director Naval Aviation Science and Technology Office.
| Assistant Commander for Corporate Operations.
| Director, Design Interface Maintenance Planning and Knowledge Requirements.
| Director, Air ASW, Assault and Special Mission Programs Contracts Department.
| Deputy Director for Navy Test and Evaluation and Technology Requirements.
Naval Air Warfare Center Aircraft Division | Deputy Assistant Commander for Test and Evaluation/Executive.
| Director, Naval Air Warfare Center Aircraft Division/Director, Test and Evaluation, NAWCAD.
| Director, Performance Based Logistics and Material Management Department.
| Director, Support Equipment/Aircraft Launch/Recovery Equipment.
| Director, Avionics Department.
| Director, Test and Experimentation Engineering.
| Director of Atlantic Ranges and Facilities Department.
Naval Air Warfare Center Weapons Division, China Lake, California | Assistant Director, NAVSTO/Research/Technology. Ast. Tec. Dir. for Tst. and Eval. and HD Tst: and Eval. DE.
| Director, Avionics Department.
| Director, Weapons/Mission Systems Integration Department.
| Director for Test and Evaluation.
| Director, Weapons and Targets Department.
| Executive Director, Naval Air Warfare Center Weapons.
| Division/Director, Research/Engineering.
| Director of Corporate Operations.
| Director, Threat/Target System Department.
Naval Air Warfare Center Training Systems Division | Executive Director.
| Director, Training and Simulation Systems Department.
Space and Naval Warfare Systems Command | Executive Director, Contracts.
| Deputy Comptroller.
| Counsel Space and Naval Warfare Systems Command.
| Executive Director, Space Technology Systems Program Directorate.
| Executive Director, Washington Operations.
| Program Director, Intelligence Surveillance and Reconnaissance Directorate.
| Program Director, Communications Systems Program Directorate.
| Deputy Chief Engineer for Integration and Interoperability.
| Director, Command, Control, Communications, Computers, Intelligence, Surveillance and Reconnaissance Installations and Logistics Directorate.
| Program Director, C2I and Combat Support Applications Directorate.
| Deputy Commander.
Space and Naval Warfare Systems Command | Deputy Chief Engineer.
| Director, Corporate Planning, Operations and Chief Information Officer.
| Program Director, Naval Networks and Information Assurance Program Directorate.
Space and Naval Warfare Systems Center | Head Intelligence, Surveillance, and Reconnaissance Department.
| Executive Director.
| Head Navigation and Applied Sciences Department.
| Head, Command and Control Department.
| Deputy Executive Director, Science, Technology and Engineering.
| Head Communication and Information System Department.
| Deputy Executive Director for Corporate Operations
Space and Naval Warfare Systems Center, Charleston | Executive Director.
Naval Facilities Engineering Command | Director Navy Crane Center.
| Director, Special Venture Acquisition.
| Counsel Naval Facilities Engineering Command. Did not find title for this position.
| Director for Contracts Support.
| Chief Engineer.
| Director of Real Estate Support.
| Director of Base Development.
| Director of Base Closure.
| Director of Environment.
| Executive Director.
Naval Sea Systems Command | Executive Director.
| Counsel, Naval Sea Systems Command.
| Executive Director for Contracts.
| Executive Director/Deputy Comptroller.
| Director, Reactor Materials Divisions.
| Deputy Director, Steam Generator Design/Development, Propulsion Plant Pumps.
| Head, Advanced Reactor Branch.
| Director for Hydrodynamics.
| Director for Surface Ship Design and Systems Engineering.
| Director Cost Engineering and Industrial Analysis.
| Director, Shipbuilding Contracts Division.
| Assistant Deputy Commander for Industrial Operations.
| Director, In-service Submarine Programs.
| Deputy for Weapons Safety.
| Deputy Director, Advanced Aircraft Carrier System Division.
| Executive Director, Warfare Systems Engineering/Battle Force Systems Engineer.
| Director, Corporate Operations Office.
| Chief Information Officer.
| Executive Director for Logistics, Maintenance and Industrial Operations Directorate.
| Deputy Program Manager/Technical Director, New Attack Submarines.
| Executive Director, Undersea Warfare Directorate.
| Technical Director, Program Executive Officer for Aircraft Carriers.
| Director, Reactor Plant Components Auxiliary Equipment Division.
| Deputy Director for Advanced Submarine Reactor Servicing and Spent Fuel Management.
| Director, Surface Ship Systems Division.
| Director, Reactor Safety and Analysis Division.
| Director for Ship Survivability and Structural Integrity.
| Director, Power Systems Group.
| Director, Materials and Assurance Engineering Office.
| Director for Submarine/Submersible Design and Systems Engineering.
| Executive Director, Ship Design and Engineering Directorate.
| Program Manager for Commissioned Submarines.
| Director, Surface Systems Contracts Division.
| Deputy Program Executive Officer (PEO), Expeditionary Warfare.
| Director, Office of Resource Management.
| Director, Reactor Refueling Division.
| Deputy Counsel, Naval Sea Systems Command.
| Director, Environmental Protection Office.
| Deputy Director, Environmental Health and Safety.
| Executive Director, Amphibious, Auxiliary and Sealift Ships, Program Executive Officer Ships.
| Assistant Deputy Commander, Fleet Maintenance Policy and Process Division.
| Assistant Deputy Commander, Fleet Logistics Support.
| Director, Fleet Readiness Division.
| Deputy Commander, Human Systems Integration Directorate.
Naval Shipyards | Nuclear Engineering and Planning Manager; Pearl Harbor Naval Shipyard.
| Nuclear Engineering and Planning Manager; Portsmouth Naval Shipyard.
| Nuclear Shipyard Nuclear Engineering and Planning Manager, Norfolk Naval Shipyard.
| Nuclear Engineering and Planning Manager, Puget Sound Naval Shipyard.
Naval Surface Warfare Center | Technical Director.
Naval Undersea Warfare Center | Technical Director.
Naval Surface Warfare Center, Crane Division | Executive Director.
Naval Undersea Warfare Center Division, Keyport, Washington | Executive Director.
Naval Surface Warfare Center, Port Hueneme Division | Executive Director.
Naval Surface Warfare Center, Indian Head Division | Executive Director.
Coastal Systems Station, Dahlgren Division; Panama City | Executive Director.
| Head, Coastal Warfare Systems Department.
Naval Surface Warfare Center, Carderock Division | Executive Director.
| Director for Ship Signatures.
| Executive Director for Naval Ship Systems Engineering.
| Station/Director for Machinery Engineering.
Naval Surface Warfare Center, Dahlgren Division | Head, Weapons Systems Department.
| Head, Combat Systems Department.
| Executive Director.
| Head, Strategic and Strike Systems Departments.
| Head, Systems Research and Technology Department.
| Head, Joint Warfare Applications Department.
| Head, Theater Warfare Systems Department.
Naval Undersea Warfare Center Division, Newport, Rhode Island | Head, Submarine Sonar Department.
| Executive Director.
| Head, Test and Evaluation Dept.
| Director for Submarine Combat Systems.
| Head, Missile and Platform Systems Department.
| Director, Surface Undersea Warfare.
| Head, Submarine Electromagnetic System Department.
| Head, Combat Control Systems Department.
| Head, Torpedo Systems Department.
Naval Supply Systems Command Headquarters | Assistant Deputy Commander for Financial Management/Comptroller.
| Director, Defense Technology Analysis Office.
| Counsel.
| Assistant Deputy Commander for Electronic Business.
| Executive Director Office of Special Projects.
| Command Information Officer.
| Assistant Commander for Fleet Logistics Operations.
| Executive Director.
Naval Inventory Control Point | Vice Commander.
Nanvy Supply Information Systems Activity | Executive Director.
Fleet and Industrial Supply Centers | Executive Director, Fleet and Industrial Supply Centers.
United States Marine Corps Headquarters Office | Deputy Director, Facilities and Services Division.
| Marine Corps Business Enterprise Director.
| Assistant Deputy Commandant for Installations and Logistics (Contracts).
| Counsel for the Commandant.
| Deputy Counsel for the Commandant.
| Assistant Deputy Commandant for Plans, Policies and Operations (Security).
| Assistant Deputy Commandant for Programs and Resources (Resources) and Director, Fiscal Division.
| Assistant Deputy Commandant, Installations and Logistics.
| Assistant Deputy Commandant for Manpower and Reserve Affairs.
| Assistant Deputy Commandant for Programs and Resources.
Marine Corps Systems Command | Deputy Commander, Command, Control, Communications, Computer, Intelligence, Surveillance and Reconnaissance.
| Deputy Commander.
| Deputy for Financial Management.
Marine Corps Materiel Command Albany, Georgia | Executive Director.
Office of Naval Research | Director, Ship Structures and Systems Science and Technology Division.
| Director, Mechanics and Energy Conversion Science and Technology Division.
| Director, Expeditionary Warfare Operations Technology Division.
| Director, Physical Sciences Science and Technology Division.
| Commercial Technology Transition Officer.
| Head, Naval Expeditionary Warfare Science and Technology Department.
| Executive Director for Acquisition Management.
| Did not find title for this position.
| Patent Counsel of the Navy.
| Counsel, Office of Naval Research.
| Head, Engineering, Materials and Physical Science and Technology Department.
| Director Strike Technology Division.
| Director, Mathematical, Computer, and Information Sciences Division.
| Director, Ocean, Atmosphere and Sciences Science and Technology Processes and Prediction Division.
| Director of Science and Technology.
| Director, Ocean, Atmosphere, and Space Science and Technology Sensing and Systems Division.
| Head, Industrial and Corporate Programs Department.
| Director, Cognitive, Neural and Bimolecular Science and Technology Division.
| Head, Human Systems Science and Technology (S&T) Department.
| Director, Biomolecular and Biosystems Science and Technology (S&T) Division.
| Head, Information, Electronics and Surveillance Science and Technology Department.
| Director, Surveillance, Communications and Electronics Combat Division.
| Director, Electronics Division.
| Head, Ocean, Atmosphere and Space Science and Technology Department.
| Associate Technical Director (Science and Technology (S&T) Programs).
| Director, Naval Fleet/Force Technology Innovation Office.
| Director, Materials Science and Technology Division.
| Associate for Integration, Ocean, Atmosphere and Space Science and Technology Sensing and Systems Division.
Naval Research Laboratory | Chief Scientist, Laboratory for Structure of Matter.
| Director of Research.
| Associate Director of Research for Material Science and Component Technology.
| Superintendent, Chemistry Division.
| Superintendent, Optical Sciences Division.
| Superintendent, Space Sciences Division.
| Superintendent, Radar Division.
| Superintendent, Materials Science and Technology Division.
| Superintendent, Acoustics Division.
| Superintendent, Plasma Physics Division.
| Superintendent, Electronics Technology Division.
| Superintendent, Information Technology Division.
| Superintendent, Tactical Electronic Warfare Division.
| Chief Scientist, Laboratory for Computational Physics and Fluid Dynamics.
| Superintendent, Remote Sensing Division.
| Associate Director of Research for Business Operations.
| Chief Scientist and Head, Beam Physics Program.
| Superintendent, Marine Meteorology Division.
| Manager, Joint Space Systems Technology Programs.
| Associate Director of Research for Ocean and Atmospheric Science and Technology.
| Superintendent, Center for Bio-Molecular Science and Engineering.
| Head, Electronic Warfare Strategic Planning Organization.
| Associate Director of Research for Warfare Systems and Sensors Research.
| Superintendent, Space System Development Department.
| Superintendent, Oceanography Division.
| Superintendent, Spacecraft Engineering Department.
| Director, Naval Center for Space Technology.
| Superintendent, Marine Geosciences Division.
Defense Nuclear Facilities Safety Board:
Defense Nuclear Facilities Safety Board | Deputy General Counsel.
| Deputy General Manager.
| Group Lead for Nuclear Facility Design and Infrastructure.
| Technical Advisor for Engineering Studies.
| Group Lead for Nuclear Programs and Analysis.
| Group Lead for Nuclear Weapon Programs.
| Group Lead for Nuclear Materials Processing and Stabilization.
| Group Lead for Nuclear Facility Design and Infrastructure.
Department of Education:
Office of the Chief Financial Officer | Deputy Chief Financial Officer.
| Director, Financial Management Operations.
| Director, Financial Improvement and Post Audit Operations.
| Director, Financial Improvement and Post Audit Operations.
Office of the Chief Information Officer | Deputy Chief Information Officer.
| Chief Information Officer.
| Chief Information Officer.
| Deputy Chief Information Officer (Operations Engineering).
| Deputy Chief Information Officer for Information Management.
| Deputy Chief Information Officer for Information Assurances.
| Deputy Chief Information Officer/Chief Technology Officer.
| Director, Contracts and Purchasing Operations.
Office of Management | Chairperson, Education Appeal Board.
| Director, Human Resources Services.
Office of Inspector General | Counsel to the Inspector General.
| Deputy Inspector General.
| Deputy Inspector General.
| Deputy Assistant Inspector General for Audit Services.
| Assistant Inspector General for Audit Services.
| Assistant Inspector General for Audit Services.
| Assistant Inspector General for Investigative Services.
| Assistant Inspector General for Information Technology Audits and Computer Crime Investigations.
Office of the General Counsel | Assistant General Counsel for Business and Administration Law.
| Assistant General Counsel for Educational Equity.
| Assistant General Counsel for Regulations.
| Assistant General Counsel for Division of Legislative Counsel.
| Assistant General Counsel for Postsecondary Education and Educational Resources.
Institute of Education Sciences | Associate Commissioner for Data Collection and Dissemination.
| Deputy Commissioner.
| Associate Commissioner for Assessment.
Federal Student Aid | Chief Financial Officer.
| Director, Collections.
| Director, Student Aid Awareness.
| Deputy Chief Financial Officer.
Department of Energy:
National Nuclear Security Administration | Chief of Defense Nuclear Counterintelligence.
Deputy Administrator for Naval Reactors | Director, Advanced Submarine Systems Division.
| Assistant Program Manager for Surface Ships.
| Deputy Director for Naval Reactors.
| Senior Naval Reactors Representative (Pearl Harbor).
| Director, Reactor Engineering Division.
| Deputy Director Reactor Materials Division.
| Director, Fiscal Division.
| Director, Nuclear Components Division.
| Senior Naval Reactors Representative.
| Program Manager Submarine Technology Develop.
| Director for Submarine Refueling.
| Senior Naval Reactors Representative.
| Deputy Program Manager for Commissioned Subs.
| Program Manager Prototype and Moored Training Ship Operations/Inactivation Programs.
| Director, Regulatory Affairs.
| Director, Instrumentation and Control Division.
| Chief Information Officer.
| Senior Technical Director, Regulatory Affairs.
| Senior Naval Reactors Representative.
Schenectady Naval Reactors | Nuclear Engineer.
Office of Management and Administration | Deputy Associate Administrator for Management and Administration.
National Nuclear Security Administration Field Site Offices | Chief Counsel.
| Manager, Savannah River Site Office.
| Manager, Sandia Site Office.
| Manager, Livermore Site Office.
| Manager, Nevada Site Office.
National Nuclear Security Administration Service Center | Director, Office of Field Financial Management.
Office of Security | Deputy Director, Office of Security Affairs.
Office of Independent Oversight and Performance Assurance | Director, Office of Safeguards and Security Evaluations.
Office of Safeguards and Security Evaluations | Director, Office of Independent Oversight and Performance Assurance.
| Deputy Director, Office of Independent Oversight and Performance.
Assistant Secretary for Energy Efficiency and Renewable Energy | Manager, Golden Field Office.
Assistant Secretary for Environment, Safety and Health | Director, Office of Nuclear Safety, Policy and Standards.
| Director, Office of Regulatory Liaison.
Energy Information Administration | Director, Office of Oil and Gas.
| Director, Office of Coal Nuclear Electrical and Alternate Fuels.
| Director, Office of Energy Markets and End Use.
| Director, Energy Markets and Contingency Infor Division.
| Director, Natural Gas Division.
| Director, Petroleum Division.
| Director, Office of Integration Analysis and Forecasting.
| Director, Coal and Electrical Power Division.
| Director, Electrical Power Division.
Office of Environmental Management | Director, Office of Budget.
| Science Advisor.
Office of Science | Director, High Energy Physics Division.
| Associate Director, Office of Resource Management.
| Director, Health Effects and Life Scientist Research Division.
| Director, Financial Management Division.
Office of Fossil Energy | Director, Materials Partnerships Research Center.
Albuqueque Operations Office | Director, Transportation Safeguards Division.
| Director, Weapons Programs Division.
| Assistant Manager for Management and Administration.
| Carlsbad Area Office Manager.
Chicago Operations Office | Acquisition and Assistant Group Manager.
| Area Manager, Fermi.
Idaho Operations Office | Assistant Manager for Administration.
| Assistant Manager, Office of Program Execution.
| Assistant Manager for Applied E and T Transfer.
Ohio Field Office | Manager, Ohio Field Office.
| Deputy Manager, Ohio Field Office.
| Director, Fernald Environmental Management Projects.
Oakland Operations Office | Associate Manager for Site Management.
Oak Ridge Operations Office | Assistant Manager for Administration.
| Chief Financial Officer.
Rocky Flats Office | Manager, Rocky Flats Field Office.
| Assistant Manager for Administration and Transition.
Savannah River Operations Office | Assistant Manager, Business and Logistics.
Office of Hearings and Appeals | Deputy Director for Legal Analysis.
| Deputy Director for Financial Analysis.
| Deputy Director for Econ Analysis.
Office of Inspector General | Assistant Inspector General for Investigations.
| Manager, Western Regional Audit Office.
| Director, Audit Policy, Plans and Programs.
| Manager, Eastern Regional Audit Office.
| Director, Capitol Regional Audit Office.
| Deputy Assistant Inspector General for National Nuclear Security.
| Administration and Other Departmental Investigations.
| Counsel to the Inspector General.
| Assistant Inspector General for Resource Management.
| Principal Deputy Inspector General.
| Deputy Inspector General for Inspections.
| Deputy Inspector General for Audits.
| Director for Financial Audits.
| Director for Performance Audits and Administration.
| Assistant Inspector General for Audit Services.
| Manager, Capital Regional Audit Office.
| Assistant Inspector General for Inspections.
| Principal Deputy Inspector General.
| Deputy Inspector General for Audit Services.
| Director of National Nuclear Security Administration Audits.
| Deputy Assistant Inspector General for Audit Services.
| Director for Planning and Administration.
| Director, Science, Energy, Technology and Financial Audits Division.
| Director, National Nuclear Security Administration Audits Division.
| Director, Environmental Audits Division.
| Assistant Inspector General for Audit Services.
| Deputy Inspector General for Investigations and Inspections.
Office of Nuclear Energy, Science and Technology | Associate Director, Isotope Production and Distribution.
Office of Management, Budget and Evaluation | Director, Office of Administration.
| Director, Office of Budget.
| Deputy Director OFC of Budget.
| Director, Headquarters and Executive Personnel Services.
| Deputy Director, Office of Management, Budget and Evaluation/DFCO.
Western Area Power Administration | Chief Program Support Officer.
| Chief Financial Officer.
Environmental Protection Agency:
Office of Homeland Security | Director, Office of Homeland Security.
Office of Executive Support | Director, Office of Executive Support.
Office of the Chief Financial Officer | Deputy Chief Financial Officer.
Office of Planning, Analysis and Accountability | Director, Office of Planning, Analysis and Accountability.
| Deputy Director, Office of Planning, Analysis and Accountability.
Office of the Comptroller | Comptroller.
| Deputy Comptroller.
| Director, Annual Planning and Budget Division.
Financial Management Division | Director, Financial Management Division.
Financial Services Division | Director, Financial Services Division.
Office of Environmental Information | Chief Technology Officer.
Office of Planning, Resources and Outreach | Director, Office of Planning, Resources and Outreach.
Office of Information Analysis and Access | Deputy Director, Office of Information Analysis and Access.
Office of Technical Operations and Planning | Director, Office of Technical Operations and Planning.
| Deputy Director, Office of Technical Operations and Planning.
National Technology Services Division | Director, National Technology Services Division.
Office of the Assistant Administrator for Administration and Resources Management | Director, Office of Policy and Resource Management. Deputy Assistant Administrator for Administration and Research Management.
| Senior Policy Advisor.
Office of Policy and Resource Management | Director, Office of Policy and Resource Management.
Office of Administration | Director, Office of Administration.
| Deputy Director, Office of Administration.
| Director, Facilities Management and Services Division.
| Director, Safety, Health and Environmental Management Division.
Office of Human Resources and Organizational Services | Director, Office of Human Resources and Organizational Services.
| Deputy Director, Office of Human Resources and Organizational Services.
| Associate Director for Reengineering and Automation.
| Director, Executive Resources and Special Programs Staff.
Office of Acquisition Management | Director, Superfund/Resource Conservation and Recovery Act.
| Regional Procurement Operations/Division.
| Director, Office of Acquisition Management.
| Deputy Director, Office of Acquisition Management.
Office of Grants and Debarment | Director, Grants Administration Division.
| Director, Office of Grants and Debarment.
| Associate Director for Competition and Strategic Planning.
Office of Administration and Resources Management—Cincinnati, Ohio | Director, Office of Administration and Resources Management.
Office of Administration and Resources Management—Research Triangle Park, North Carolina | Director, Office of Administration and Research Management Senior Advisor.
Federal Facilities Enforcement Office | Director, Federal Facilities Enforcement Office.
Office of Environmental Justice | Director, Office of Environmental Justice.
Office of Compliance | Director, Office of Compliance.
| Director, Enforcement Planning, Targeting and Data Division.
| Director, Compliance Assessment and Media Programs Division.
| Deputy Director, Office of Compliance.
| Director, Import-Export Program.
Office of Criminal Enforcement, Forensics and Training | Director, National Enforcement Training Institute.
| Director, Office of Criminal Enforcement, Forensics and Training.
| Director, Criminal Investigation Division.
| Deputy Director, Office of Criminal Enforcement, Forensics Training.
Office of Federal Activities | Director, International Enforcement Program Division.
Office of Regulatory Enforcement | Director, Office of Regulatory Enforcement.
| Deputy Director, Office of Regulatory Enforcement.
| Director, Air Enforcement Division.
Office of Site Remediation Enforcement | Director, Office of Site Remediation Enforcement.
| Deputy Director, Office of Site Remediation Enforcement.
Office of Western Hemisphere and Bilateral Affairs | Director, Western Hemisphere and Bilateral Affairs.
Office of the Inspector General | Senior Science Advisor.
| Deputy General Counsel.
Office of Counsel | Counsel to the Inspector General.
Office of Audit | Assistant Inspector General for Audit.
| Deputy Assistant Inspector General for External Audits.
| Deputy Assistant Inspector General for Internal Audits.
Office of Investigations | Assistant Inspector General for Investigations.
| Deputy Assistant Inspector General for Investigations.
Office of Program Evaluation | Assistant Inspector General for Program Evaluation.
Office of Human Capital | Assistant Inspector General for Human Capital.
Office of Mission Systems | Assistant Inspector General for Mission Systems.
Office of Planning, Analysis and Results | Assistant Inspector General for Planning, Analysis and Results.
Office of Congressional and Public Liaison | Assistant Inspector General for Congressional and Public Liaison.
Office of Management | Assistant Inspector General for Management.
Office of Ground Water and Drinking Water | Director, E and P Implementation Division.
| Director, Standards and Risk Management Division.
| Director, Drinking Water Protection Division.
Office of Science and Technology | Director, Standards and Applied Science Division.
| Director, Health and Ecological Criteria Division.
| Director, Engineering and Analysis Division.
Office of Wastewater Management | Director, Municipal Support Division.
| Deputy Director, Municipal Support Division.
| Director, Water Permits Division.
Office of Wetlands, Oceans and Watersheds | Director, Assessment and Watershed Protection Division.
| Director, Oceans and Coastal Protection Division.
| Director, Wetlands Division.
Office of the Assistant Administrator for Solid Waste and Emergency Response | Director, Outreach and Special Projects Staff Senior Advisor.
Federal Facilities Restoration and Reuse Office | Director, Federal Facilities Restoration and Reuse Office.
Office of Brownfields Cleanup and Redevelopment | Director, Office of Brownfields Cleanup and Redevelopment.
Office of Solid Waste | Director, Hazardous Waste Identification Division.
| Director, Hazardous Waste Minimization and Management Division.
| Director, Economics, Methods and Risk Analysis Division.
Office of the Assistant Administrator for Air and Radiation | Senior Advisor.
Office of Air Quality Planning and Standards—Research Triangle Park, North Carolina | Director, Emission Standards Division. Director, Air Quality Strategies and Standards Division.
| Director, Emissions Monitoring and Analysis Division.
| Director, Information Transfer and Program Integration Division.
| Deputy Director, Office of Air Quality Planning and Standards.
Office of Transportation and Air Quality | Director, Advanced Technology Division.
| Director, Transportation and Regional Programs Division.
| Director, Assessment and Standards Division.
| Director, Certification and Compliance Division.
Office of Radiation and Indoor Air | Director, Indoor Environments Division.
| Deputy Director, Office of Radiation and Indoor Air.
| Director, Radiation Protection Division.
Office of Atmospheric Programs | Director, Clean Air Markets Division.
| Director, Climate Protection Partnerships Division.
Office of the Assistant Administrator for Prevention Pesticides and Toxic Substances | Special Assistant to the Assistant Administrator for the Office of Pesticides and Toxic Substances.
Office of Program Management Operations | Associate Assistant Administrator (Management).
Office of Pesticide Programs | Director, Registration Division.
| Director, Biological and Economic Analysis Division.
| Director, Special Review and Reregistration Division.
| Director, Environmental Fate and Effects Division.
| Director, Health Effects Division.
| Director, Antimicrobials Division.
| Director, Field and External Affairs Division.
| Director, Information Resources and Services Division.
| Director, Biopesticides and Pollution Prevention Division.
| Deputy Director, Office of Pesticides Programs (Management).
Office of Pollution Prevention and Toxics | Director, Economics Exposure and Technology Division.
| Director, Chemical Control Division.
| Director, Information Management Division.
| Director, Pollution Prevention Division.
| Director, National Program Chemicals Division.
| Director, Risk Assessment Division.
| Director, Environmental Assistance Division.
Office of Science Coordination and Policy | Director, Office of Science Coordination and Policy.
Office of the Assistant Administrator for Research and Development | Director for Sustainable Development. Chief Scientist to the Science Advisor.
The National Home Security Research Center | Director, National Homeland Security Research Center.
Office of Resources Management and Administration | Director, Office of Resources Management and Administration.
Office of Science Policy | Director, Office of Science Policy.
National Health and Environmental Effects Research Laboratory (Research Triangle Park) | Director, National Health and Environmental Effects Research Laboratory.
| Associate Director for Health.
| Associate Director for Ecology.
| Deputy Director for Management.
Atlantic Ecology Division—Narragansett, Rhode Island | Director, Atlantic Ecology Division.
Western Ecology Division—Corvallis, Oregon | Director, Western Ecology Division Corvallis.
Gulf Ecology Division—Gulf Breeze, Florida | Director, Gulf Ecology Division.
Mid-Continent Ecology Division | Director, Mid-Continent Ecology Division.
Experimental Toxicology Division | Director, Experimental Toxicology Division.
National Exposure Research Laboratory (Research Triangle Park) | Director, National Exposure Research Laboratory—Research Triangle Park.
| Deputy Director for Management (National Exposure Research Laboratory)—Research Triangle Park.
| Associate Director for Ecology (National Exposure Research Laboratory)—Research Triangle Park.
Environmental Sciences Division—Las Vegas | Director Environmental Sciences Division.
Ecosystems Research Division—Athens | Director Ecosystems Research Division Athens.
Human Exposure and Atmospheric Science Division | Director, Human Exposure and Atmospheric Science Division.
National Risk Management Research Laboratory—Cincinnati, OH | Director, National Risk Management Research Laboratory—Cinncinati.
| Deputy Director for Management (National Risk Management Research Laboratory)—Cincinnati.
| Associate Director for Health (National Risk Management Research Laboratory)—Cincinnati.
| Director, Water Supply and Water Resources Division.
Air Pollution Prevention and Control Division—Research Triangle Park, NC | Director, Air Pollution Prevention and Control Division.
Ground Water and Ecosytems Restoration Division—Ada, OK | Director, Ground Water and Ecosytems Restoration Division.
National Center for Environmental assessment | Director, National Center for Environmental Assessment.
| Director, National Center for Environmental Assessment.
| Associate Director for Health (National Center for Environmental Assessment).
| Associate Director for Ecology (National Center for Environmental Assessment).
| Deputy Director for Management.
National Center for Environmental Assessment—Washington, DC | Director, National Center for Environmental Assessment.
National Center for Environmental Assessment—Research Triangle Park, NC | Director, National Center Environmental Assessment.
National Center for Environmental Assessment—Cincinnati, OH | Director, National Center for Environmental Assessment.
National Center for Environmental Research and Quality Assurance | Deputy Director for Management. Director, Environmental Engineer Research Division.
| Director, National Center for Environmental Research and Quality Assurance.
| Director, Environmental Sciences Research Division.
Region 1—Boston, MA | Director, Office of Ecosystem Protection.
| Director, Office of Site Remediation Restoration.
| Director, Office of Administration and Resources Management.
| Director, Office of Strategic Alignment.
| Director, Office of Environmental Stewardship.
Office of Regional Counsel. | Regional Counsel.
Region 2—New York, NY | Assistant Regional Administrator for Policy and Management.
| Director, Office of Emergency and Remedial Response.
| Director, Environmental Planning and Protection Division.
| Director, Division of Enforcement and Compliance Assistant.
| Director, Environmental Science and Assessment Division.
| Director, Caribbean Environmental Protection Division.
| Director, Enforcement and Compliance Assistance Division.
Office of Regional Counsel | Regional Counsel.
Region 3—Philadelphia, PA | Director, Water Protection Division.
| Director, Environmental Assessment and Innovation Division.
| Assistant Regional Administrator for Policy and Management.
| Director, Chesapeake Bay Program Office.
| Director, Air Protection Division.
| Director, Hazardous Site Cleanup Division.
| Director, Waste and Chemical Management Division.
Office of Regional Counsel | Regional Counsel.
Region 4—Atlanta, GA | Director, Water Management Division.
| Assistant Regional Administrator for Policy and Management.
| Director, Waste Management Division.
| Director, Science and Ecosystem Support Division.
| Director, Air, Pesticides and Toxics Management Division.
Office of Regional Counsel | Regional Counsel.
Region 5—Chicago, IL | Director, Air and Radiation Division.
| Director, Water Management Division.
| Director, Waste Management Division.
| Director, Great Lakes National Program Office.
| Director, Superfund Division.
| Assistant Regional Administrator for Resources Management.
Office of Regional Counsel | Regional Counsel.
Region 6—Dallas, TX | Assistant Regional Administration for Management.
| Director, Compliance and Enforcement Division.
| Director, Superfund Division.
| Director, Water Quality Protection Division.
| Director, Multimedia Planning and Permitting Division.
Office of Regional Counsel | Regional Counsel.
Region 7—Kansas City, KS | Assistant Regional Administrator for Policy and Management.
| Director, Superfund Division.
| Director, Air, RCRA and Toxics Division.
| Director, Water Wetlands and Pesticides Division.
| Director, Environmental Services Division.
Office of Regional Counsel | Regional Counsel.
Region 8—Denver, CO | Assistant Regional Administrator for Ecosystems Protection and Remediation.
| Assistant Regional Administrator for Office of Partnerships and Regulatory Assistance.
| Assistant Regional Administrator for Technical and Management Services.
Office of Regional Counsel | Regional Counsel.
Region 9—San Francisco, CA | Director, Water Management Division.
| Director, Air Division.
| Assistant Regional Administrator for Policy and Management.
| Director, Strategic Planning and Emerging Issues.
| Director, Superfund Division.
| Director, Cross Media Division.
| Regional Chief Information Officer (Senior Advisor).
Office of Regional Counsel | Regional Counsel.
Region 10—Seattle, WA | Assistant Regional Administrator for Management Programs.
| Assistant Regional Administrator for Water.
| Director, Office of Ecosystems and Communities.
| Director, Office of Environmental Cleanup.
Office of Regional Counsel | Regional Counsel.
Equal Employment Opportunity Commission:
Office of the Inspector General | Inspector General.
Office of Field Programs | District Director—(Baltimore).
| District Director—(New York).
| District Director—(Atlanta).
| District Director—(Houston).
| District Director (Detroit).
| District Director (San Francisco).
| District Director (Dallas).
| District Director (Chicago).
| District Director (St. Louis).
| District Director (Miami).
| District Director (Indianapolis).
| District Director (Memphis).
| District Director (Los Angeles).
| District Director (Denver).
| District Director (Birmingham).
| District Director (New Orleans).
| District Director (Phoenix).
| District Director (San Antonio).
| District Director (Charlotte).
| District Director (Seattle).
| District Director (Cleveland).
| District Director (Philadelphia).
| District Director (Milwaukee).
Field Management Programs | Director, Field Management Programs.
Field Coordination Programs | Director, Field Coordination Programs.
Federal Communications Commission:
Office of Inspector General | Inspector General.
Office of Engineering and Technology | Associate Office Chief.
| Assistant Bureau Chief for Technology.
Federal Emergency Management Agency:
Office of Inspector General | Deputy Inspector General.
| Assistant Inspector General for Auditing.
| Assistant Inspector General for Investigations.
Financial and Acquisition Management Division | Deputy Chief Financial Officer.
| Senior Procurement Executive.
| Chief Financial Officer.
Federal Insurance and Mitigation Administration | Deputy Administrator for Insurance.
| Deputy Administrator for Mitigation.
Hazard Mapping Division | Division Director.
Mitigation Planning and Delivery Division | Division Director.
Planning & Readiness Division | Division Director.
Recovery Division | Division Director.
Federal Energy Regulatory Commission:
Office of Energy Projects | Director, Division of Dam Safety and Inspections.
Office of the Executive Director | Director, Regulatory Accounting Policy.
| Deputy Executive Director and Chief Accountant.
Federal Labor Relations Authority:
Office of the Chairman | Solicitor.
| Director, Case Management.
| Chief Counsel.
| Senior Advisor.
Office of Member | Chief Counsel.
Office of Member | Chief Counsel.
Federal Service Impasses Panel | Executive Director, Federal Service Impasses Panel.
Office of the Executive Director | Executive Director.
Office of the General Counsel | Deputy General Counsel.
Regional Offices | Regional Director—Washington, D.C.
| Regional Director—Boston.
| Regional Director—Atlanta.
| Regional Director—Dallas.
| Regional Director—Chicago, Illinois.
| Regional Director—San Francisco.
| Regional Director—Denver.
Federal Maritime Commission:
Office of the Secretary | Secretary.
Office of the General Counsel | Deputy General Counsel for Reports, Opinions and Decisions.
Office of the Executive Director | Deputy Executive Director.
Bureau of Consumer Complaints and Licensing | Director, Bureau of Consumer Complaints and Licensing.
Bureau of Trade Analysis | Director, Bureau of Trade Analysis.
Bureau of Enforcement | Deputy Director, Bureau of Enforcement.
Federal Mediation and Conciliation Service:
Office of the Director | Chief of Staff.
Federal Retirement Thrift Investment Board:
Federal Retirement Thrift Investment Board | Director of Investments.
| Director of Contracts and Administration.
| Director of Automated Systems.
| Director of Accounting.
| Director of Communications.
| Associate General Counsel.
| Deputy Director of External Affairs.
| Deputy Director of Benefits and Investments.
| Director of the Office of Benefits and Investments.
Federal Trade Commission:
Office of the Inspector General | Inspector General.
Office of the General Counsel | Deputy General Counsel.
Office of Executive Director | Deputy Executive Director for Management.
| Chief Information Officer.
| Deputy Executive Director.
Bureau of Consumer Protection | Associate Director for International Division of Consumer Protection.
General Services Administration:
Office of Citizen Services and Communications | Director, Federal Citizen Information Center.
Office of the Chief People Officer | Chief People Officer.
| Director of Management Services.
| Chief Information Officer.
| Director of Human Resources.
| Deputy Chief Information Officer.
Office of Governmentwide Policy | Deputy Associate Administrator for Acquisition Policy.
| Deputy Associate Administrator for Real Property.
| Director of Intergovernmental Solutions.
| Deputy Associate Administrator for Transportation and Personal Property.
| Deputy Associate Administrator for Electronic Government and Technology.
Office of Inspector General | Assistant Inspector General for Auditing.
| Deputy Inspector General.
| Deputy Assistant Inspector General for Auditing.
| Counsel to the Inspector General.
| Assistant Inspector General for Investigations.
| Deputy Assistant Inspector General for Investigations.
Office of the Chief Financial Officer | Director of Finance.
| Director of Budget.
| Chief Financial Officer.
| Director of Financial Management Systems.
Public Buildings Service | Assistant Commissioner for Federal Protective Service.
| Assistant Commissioner for Portfolio Management.
| Assistant Commissioner for Property Disposal.
| Assistant Commissioner for Business Performance.
| Chief Financial Officer.
Federal Technology Service | Assistant Commissioner for Service Development.
| Assistant Commissioner for Service Delivery.
| Assistant Commissioner for Information Technology Integration.
| Assistant Commissioner for Regional Services.
| Assistant Commissioner for Acquisition.
| Assistant Commissioner for Information Security.
| Assistant Commissioner for Sales.
| Deputy Assistant Commissioner for Information Technology Integration, Federal Technology Service.
| Program Executive for E-Authentication.
Office of the Chief Information Officer | Director of Infrastructure Operations.
Federal Supply Service | Assistant Commissioner for Commercial Acquisition.
| Assistant Commissioner for Transportation and Property Management.
| Assistant Commissioner for Business Management and Marketing.
| Deputy Assistant Commissioner for Acquisition.
| Federal Supply Service Chief Information Officer.
| Assistant Commissioner for Vehicle Acquisition and Leasing Services.
| Assistant Commissioner for Supply.
| Assistant Commissioner for Enterprise Planning.
New England Region | Assistant Regional Administrator for Public Buildings Service.
Northeast and Caribbean Region | Assistant Regional Administrator for Public Buildings Service.
| Assistant Regional Administrator for Federal Supply Service.
Mid-Atlantic Region | Assistant Regional Administrator for Public Buildings Service.
| Assistant Regional Administrator for Federal Supply Service.
| Regional Counsel.
National Capital Region | Assistant Regional Administrator, Public Buildings Service, National Capital Region.
| Project Management Executive.
Southeast Sunbelt Region | Assistant Regional Administrator for Public Buildings Service.
| Assistant Regional Administrator for Federal Technology Service.
| Assistant Regional Administrator for Federal Supply and Services.
| Deputy Assistant Regional Administrator for Real Estate Design, Construction and Development.
Great Lakes Region | Assistant Regional Administrator for Public Buildings Service.
The Heartland Region | Assistant Regional Administrator for Public Buildings Service.
| Assistant Regional Administrator Federal for Technology Service, Region-6.
Greater Southwest Region | Assistant Regional Administrator for Public Buildings Service.
| Assistant Regional Administrator for Federal Technical Service.
| Assistant Regional Administrator for Federal Supply Service.
Rocky Mountain Region | Assistant Regional Administrator for Public Buildings Service.
Pacific Rim Region | Assistant Regional Administrator for Public Buildings Service.
| Assistant Regional Administrator for Federal Supply Service.
| Senior Advisor.
Northwest/Arctic Region | Assistant Regional Administrator, Public Buildings Service, Region 10.
Department of Health and Human Services:
Office of the Deputy Assistant Secretary for Budget | Director, Division of Integrity and Organ Review.
Office of the Deputy Assistant Secretary for Finance | Deputy Assistant Secretary, Finance.
| Director, Office of Financial Policy.
Office of the Deputy Assistant Secretary for Grants and Acquisition Management | Deputy Assistant Secretary, Office of Grants and Acquisition Management.
Office of the Assistant Secretary for Planning and Evaluation | Deputy Assistant Inspector General for Audit.
| Deputy to Deputy Assistant Secretary for Planning and Evaluation.
Office of the Assistant Secretary for Public Health and Science | Director, Division of Research Investigations.
| Director, Office of Human Immunodeficiency Virus and Acquired Immunodeficiency Virus Policy.
| Deputy Director, Office of Management.
| Regional Health Administrator.
| Director, Office of Research Integrity.
Associate General Counsel Divisions | Associate General Counsel, Business and Administrative Law Division.
| Deputy Associate General Counsel, Business and Administrative Law Division.
Office of the Inspector General | Principal Deputy Inspector General.
| Deputy Inspector General for Management and Policy.
| Deputy Inspector General for Legal Affairs.
Office of the Deputy Inspector General for Investigations | Deputy Inspector General for Investigations.
| Assistant Inspector General for Criminal Investigations.
| Assistant Inspector General for Civil and Administrative Remedies.
| Assistant Inspector General for Investigation Policy and Operations.
| Deputy Inspector General for Enforcement and Compliance.
Office of the Deputy Inspector General for Audit Services | Deputy Inspector General for Audit Services.
| Assistant Inspector General for Administration of Care/Financing and Aging Audits.
| Assistant Inspector General for Health Care Finance Audits.
| Assistant Inspector General for Audit Policy and Oversight.
| Assistant Inspector General for Public Health Service Audits.
| Deputy Inspector General for Investigations.
| Assistant Information for Audit Management Policy.
Office of the Deputy Inspector General for Evaluation and Inspections | Deputy Inspector General for Evaluation and Inspections.
Program Support Center | Director Program Support Center.
| Deputy Director of Operations.
| Deputy Assistant Secretary Program Support Center.
Office of Financial Management Service | Director, Financial Management Service.
Office of Program Support | Director, Office of Financial Management.
Centers for Medicare and Medicaid Services | Deputy Director (Technology).
Office of the Actuary | Director, Office of the Actuary (Chief Actuary).
| Director, Office of Medicare and Medicaid Cost Estimates.
Center for Beneficiary Choices | Deputy Director, Center for Beneficiary Services (Medicare Contractor Management).
| Associate Deputy Director, Center for Beneficiary Choices (Contract Management).
Office of Internal Customer Support | Director, Office of Internal Customer Support.
Office of Information Services | Director, Office of Information Services (Chief Information Officer).
| Deputy Director, Office of Information Services.
Office of Financial Management | Deputy Director, Office of Financial Management.
| Director, Office of Financing Management.
| Deputy Director, Office Financial Management.
| Director, Program Integrity Group.
| Director, Financial Services Group.
| Deputy Director, Chief Financial Officer Audit Internal Controls.
| Director, Financial Services Group.
Office of the Administrator | Associate Administrator for Policy and Programs Coordinator.
Center for Substance Abuse Prevention | Director, Division of State and Community Systems Development.
Center for Mental Health Services | Director, Center for Mental Health Services.
| Director, Division of State and Community Systems Development.
Centers for Disease Control and Prevention | Director, Financial Management Office.
| Director, Office of Facilities Planning and Management.
| Deputy Director for Finance and Accounting.
| Director, Division of Adult and Community Health.
National Institute for Occupational Safety and Health | Deputy Director for Management.
National Center for Chronic Disease Prevention and Health Promotion | Director, Office on Smoking and Health.
National Center for Human Immunodeficiency Virus, Sexually Transmitted Disease and Tuberculosis Prevention | Associate Director for Management and Operations.
Office of Chief Counsel | Deputy Chief Counsel for Program Review.
| Associate Deupty Chief Counsel for Drugs and Biologics.
| Associate Deputy Chief Counsel for Devices, Foods and Veterinary Medicine.
Office of Manage and Systems | Director, Office of Financial Management.
| Director, Office of Acquisitions and Grants Services.
Office of Regulatory Affairs | Associate Commissioner for Regulatory Affairs.
| Deputy Associate Commissioner for Regulatory Affairs.
| Regional Food and Drug Director, Northeast Region.
| Regional Food and Drug Director, Southeast Region.
| Regional Food and Drug Director, Southwest Region.
| Director, Office of Criminal Investigations.
| Regional Food and Drug Director, Central Region.
| District Food and Drug Director, New York District.
| Deputy Director for Investigations.
| District Food and Drug Director, Los Angeles District.
Center for Bologics Evaluation and Research | Associate Director for Compliance and Biologic Quality.
Center for Drug Evaluation and Research | Director, Office of Management.
| Director, Division of Medical Imaging Surgical and Dental Products.
| Director, Office of Generic Drugs.
| Director, Office of Epidemiology and Biostatistics.
| Director, Office of Compliance.
| Senior Advisor for Policy.
Center for Devices and Radiological Health | Director, Office of Compliance.
| Director, Office of Science and Technology.
| Director, Office of System and Management.
Center for Food Safety and Applied Nutrition | Director, Office of Seafood.
| Director, Office of Premarket Approval.
| Director, Office of Field Programs.
| Director, Office of Plant and Dairy Foods and Beverages.
| Director, Office of Regulations and Policy.
Center for Veterinary Medicine | Director, Office of Science.
| Director, Office of Surveillance and Compliance.
Office of Special Programs | Director, Office of Special Programs.
Human Immunodeficiency Virus and Acquired Immunodeficiency Syndrome Bureau | Director, Office of Science and Epidemiology.
Office of the Director | Director, Division of Financial Management.
| Director, Office of Contracts Management.
| Associate Director for Extramural Affairs.
| Associate Director for Disease Prevention.
| Director, Office of Medical Applications of Research.
| Associate Director for Administration.
| Director, Office of Policy for Extramural Research Administration.
| Senior Advisor for Policy.
| Director, Office of Reports and Analysis.
| Scientific Advisor for Capacity Development.
National Heart, Lung and Blood Institute | Director, Division of Heart and Vascular Diseases.
| Director, Division of Lung Diseases.
| Director, Division of Blood Diseases and Resources.
| Director, Division of Extramural Affairs.
| Associate Director for International Programs.
| Director, Office of Biostatistics Research.
| Deputy Director, Division of Heart Vascular Diseases.
| Deputy Director, Division of Epidemiology and Clinical Application.
| Director, Epidemiology and Biometry Program.
| Director, National Center for Sleep Disorders.
Intramural Research | Chief Laboratory of Biochemical Genetics.
| Chief, Laboratory of Biochemistry.
| Chief, Laboratory of Biophysical Chemistry.
| Chief, Macromolecules Section.
| Chief, Intermediary Metabolism and Bioenergetics Section.
| Chief, Laboratory of Kidney and Electrolyte Metabolism.
| Chief, Laboratory of Cardiac Energetics.
| Chief, Metabolic Regulation Section.
National Cancer Institute | Associate Director for Intramural Management.
| Associate Director for Intramural Management.
| Associate Director, Cancer Diagnosis Program.
| Associate Director for Financial Management.
| Deputy Director for Management.
| Associate Director, Referral Review and Program Coordination.
| Deputy Director for Administrative Operations.
Division of Cancer Biology, Diagnosis and Centers | Chief, Microbial Genetics and Biochemistry Section, Laboratory of Biochemistry.
| Chief, Laboratory of Biochemistry Intramural Research Program.
| Associate Director, Extramural Research Program.
| Deputy Director, Division of Cancer Biology Diagnosis and Centers.
| Chief, Dermatology Branch, Intramural Research Program.
| Chief, Cell Mediated Immunity Section.
| Chief, Laboratory of Tumor and Biological Immunology, Intramural Research programs.
| Director, Division of Cancer Biology Diagnosis and Centers.
| Associate Director, Centers Training and Resources Program.
Division of Cancer Etiology | Chief, Laboratory of Biology.
| Chief, Laboratory of Molecular Carcinogenesis.
| Chief, Laboratory of Experimental Pathology.
| Director, Division of Cancer Etiology.
Division of Cancer Prevention and Control | Deputy Director, Division of Cancer Prevention and Control.
| Associate Director, Surveillance Program, Division of Cancer Prevention and Control.
| Associate Director, Early Development and Oncology Program.
Division of Extramural Activities | Director, Division of Extramural Activities.
| Deputy Director, Division of Extramural Activities.
Division of Cancer Treatment | Chief-Radiation Oncology Branch.
| Associate Director, Cancer Therapy Evaluation Program.
National Institute of Diabetes and Digestive and Kidney Diseases | Director, Division Kidney Urologic and Hematologic Diseases.
| Director, Division of Extramural Activities.
| Chief, Laboratory of Molecular and Cellular Biology.
| Deputy Director for Management and Operations.
Intramural Research | Chief, Section on Biochemical Mechanisms.
| Chief, Section on Metabolic Enzymes.
| Chief, Section on Physical Chemistry.
| Chief, Section on Molecular Structure.
| Chief, Theoretical Biophysics Section.
| Chief, Laboratory of Bio-Organic Chemistry.
| Chief, Oxidation Mechanisms Section Laboratory of Bioorganic Biochemistry.
| Chief, Laboratory of Biochemistry and Metabolism.
| Clinical Director and Chief, Kidney Disease Section.
| Chief, Section on Molecular Biophysics.
| Chief, Section Carbohydrates Laboratory of Chemistry/National Institute of Diabetes and Digestive and Kidney Diseases.
| Chief, Laboratory of Neuroscience, National Institute of Diabetes and Digestive and Kidney Diseases.
| Chief, Laboratory of Medicinal Chemistry.
| Chief, Morphogenesis Section.
National Institutes of Arthritis and Musculoskeletal and Skin Diseases | Director, Extramural Program. Deputy Director.
| Associate Director for Management and Operations.
National Library of Medicine | Deputy Director, National Library of Medicine.
| Deputy Director for Research and Education.
| Associate Director for Library Operations.
| Associate Director for Extramural Programs.
| Director, Lister Hill National Center for Biomedical Community.
| Deputy Director, Lister Hill National Center for Biomedical Commissioners.
| Director, Information Systems.
| Director, National Center for Biotechnology Information.
| Associate Director for Health and Information Program Development.
| Associate Director for Administrative Management.
National Institutes of Allergy and Infectious Diseases | Director, Division of Allergy/Immunology/Transplantation.
| Chief, Laboratory of Parasitic Diseases.
| Director, Division of Microbiology/Infectious Diseases.
| Chief, Laboratory of Immunogenetics.
| Director, Division of Extramural Activities.
| Chief, Laboratory of Microbial Structure and Function.
| Chief, Laboratory of Molecular Microbiology.
| Director, Division Acquired Immuniodeficiency Syndrome.
| Chief, Biological Resources Branch.
| Head, Lymphocyte Biology Section.
| Chief, Laboratory of Infectious Diseases.
| Deputy Director, Division of Acquired Immunodeficiency.
| Head, Epidemiology Section.
| Chief, Laboratory of Malaria Research.
| Director, Division of Intramural Research.
| Deputy Chief, Laboratory of Immunology and Head, Lymphocyte Biology Section.
National Institutes on Aging | Scientific Director, Gerontology Research Center.
| Clinical Director and Chief, Clinical Physiology Branch.
| Associate Director for Behavioral Sciences Research.
| Associate Director, Biology of Aging Program.
| Associate Director, Office of Extramural Affairs.
| Associate Director, Epidemiology, Demography, and Biometry Program.
| Associate Director, Office of Planning, Analysis and International Activities.
| Associate Director, Neuroscience and Neuropsychologist of Aging Programs.
| Associate Director for Administration.
National Institutes of Child Health and Human Development | Chief, Laboratory of Molecular Genetics
| Chief, Endocrinology and Reproduction Research Branch.
| Director, Center for Research for Mothers and Children.
| Director, Center for Population Research.
| Chief, Section on Growth Factors.
| Associate Director for Prevention Research.
| Chief, Laboratory of Mamalian Genes and Development.
| Chief, Section on Molecular Endocrinology.
| Chief, Section Neuroendocrinology.
| Chief, Section on Microbial Genetics.
| Chief, Laboratory of Comparative Ethology.
| Associate Director for Administration.
| Director, National Center for Medical Rehabilitation Research.
National Institute of Dental and Craniofacial Research | Chief, Laboratory of Immunology.
| Director, Extramural Program.
| Associate Director for International Health.
| Associate Director for Management.
| Associate Director for Program Development.
National Institutes of Environmental Health Sciences | Chief, Laboratory of Pulmonary Pathobiology.
| Head, Mutagenesis Section.
| Head, Mammalian Mutagenesis Section.
| Senior Scientific Advisor.
| Associate Director for Management.
| Chief, Laboratory of Molecular Carcinogenesis.
| Director, National Institute of Environmental Health Science.
| Director, Environmental Toxicology Program.
National Institutes of General Medical Sciences | Director, Genetics Program.
| Associate Director for Extramural Activities.
| Director, Division of Pharmacology, Physiology, and Biological Chemistry.
| Director, Biophysics Physiological Sciences Program Branch.
| Deputy Director, National Institute of General Medical Sciences.
| Director, Minority Opportunities in Research Program Branch.
| Associate Director for Administration and Operations.
National Institutes of Neurological Disorders and Stroke | Director, Division of Fundamental Neurosciences.
| Associate Director for Administration.
| Director, Basic Neuroscientist Program/Chief/Laboratory of Neurochemist.
| Chief, Laboratory of Molecular and Cellular Neurobiology.
Intramural Research | Chief Laboratory of Central Nervous System Studies.
| Chief, Development and Metabolic Neurology Branch.
| Deputy Chief, Laboratory of Central Nervous System Studies.
| Chief, Neuroimaging Branch.
| Chief, Laboratory of Neurobiology.
| Chief, Laboratory of Neural Control.
| Chief, Brain Structural Plasticity Section.
| Chief, Stroke Branch.
National Eye Institute | Chief, Laboratory of Retinal Cell and Molecular Biology.
| Chief, Laboratory of Molecular and Development Biology.
| Chief, Laboratory of Sensorimotor Research.
National Institutes on Deafness and Other Communication Disorders | Director, Division of Human Communication. Chief, Laboratory of Cellular Biology.
| Associate Director for Administration.
| Director, Division of Extramural Research.
National Institutes of Health Clinical Center | Associate Director for Planning.
| Associate Chief, Positron Emission Tomography and Radiochemistry.
| Deputy Director for Management and Operations.
| Chief Financial Officer.
| Chief Operating Officer.
Center for Information Technology | Chief, Computer Center Branch.
| Deputy Director.
| Associate Director Office of Computing Resources Services.
| Senior Advisor to Director, Center for Information Technology.
John E. Fogarty International Center | Deputy Director, Fogarty International Center.
| Associate Director for International Advanced Studies.
National Center for Research Resources | Director, National Center for Research Resources.
| Director, General Clinical Research Center for Research Resources.
| Deputy Director, National Center for Research Resources.
| Associate Director for Biomedical Technology.
| Associate Director for Comparative Medicine.
| Associate Director for Research Infrastructure.
Center for Scientific Review | Associate Director for Referral and Review.
| Associate Director for Statistics and Analysis.
| Director, Division of Molecular and Cellular Mechanisms.
| Director, Division of Physiological Systems.
| Director, Division of Clinical and Population-Based Studies.
| Director, Division of Biologic Basis of Disease.
National Institute of Nursing Research | Director, National Center for Nursing Research.
| Deputy Director/Director, Division of Extramural Activities.
National Human Genome Research Institute | Deputy Director.
| Director Division of Intramural Research National Center Human Genome Research.
| Chief, Diagnosis Development Branch National Center Human Genome Research Institute.
| Chief, Laboratory of Genetic Disease Research National Center for Human Genome Research Institute.
| Associate Director for Management.
National Institute on Drug Abuse | Associate Director for Planning and Resources Management.
| Director, Office of Extramural Program Review.
| Director, Division of Clinical Research.
| Director, Medications Development Division.
| Chief, Neuroscience Research Branch.
| Associate Director for Clinical Neuroscience and Medical Affairs, Division of Treatment Research and Development.
National Institute of Mental Health | Deputy Director, National Institute of Mental Health.
| Associate Director for Special Populations.
| Associate Director for Prevention.
| Executive Officer, National Institute of Mental Health.
| Director, Office of Legislative Analysis and Coordinator.
| Director, Division of Neuroscience and Behavioral Scientist.
| Chief, Neuropsychiatry Branch.
| Chief, Child Psychiatry Branch.
| Chief, Biological Psychiatry Branch.
| Chief, Laboratory of Clinical Science.
| Chief, Section on Histopharmacology.
| Director, Office on Acquired Immunodeficiency Syndrome.
| Chief, Section on Clinical and Experimental Neuropsychology.
| Director, Division of Mental Disorders, Behavioral Research and Acquired Immunodeficiency Syndrome.
| Director, Division of Services and Intervention Research.
| Chief, Section on Cognitive Neuroscience.
National Institute on Alcohol Abuse and Alcoholism | Director, Division of Basic Research.
| Associate Director for Administration.
Agency for Healthcare Research and Quality | Director Center for Outcomes and Effectiveness Research.
| Executive Officer.
| Director, Office of Research Review, Education, and Policy.
Department of Homeland Security:
Department of Homeland Security | Director, Departmental Human Resources Policy.
| Director, Departmental Budget.
| Senior Director, Office of Information Plans and Programs (Chief Information Officer).
| Director, Program Analysis and Evaluation.
| Director, Counternarcotics Policies and Programs.
| Director, Financial Management.
Bureau of Citizenship and Immigration Services | Senior Management Consultant.
| Associate Commissioner, Policy and Planning.
| Director, Asylum.
| District Director.
| Deputy Executive Associate Commissioners, Field Operations.
| Associate Commissioner, Service Center Operations 1.
| Associate Commissioner, Field Services Operations.
| Senior Management Consultant.
| Assistant Deputy Executive Associate Commissioner for ISD.
| Assistant Commissioner, Adjudication and Naturalization.
United States Secret Service | Special Agent in Charge, Intelligence Division.
| Deputy Special Agent in Charge, Presidential Protective Division.
| Deputy Assistant Director.
| Deputy Assistant Director.
| Director of the Secret Service.
| Deputy Director.
| Assistant Director, Investigations.
| Assistant Director, Protective Operations.
| Assistant Director, Protective Research.
| Assistant Director—Administration/Chief Financial Officer.
| Assistant Director, Inspection.
| Deputy Assistant Director, Protective Operations.
| Special Agent in Charge—Presidential Protective Division.
| Special Agent in Charge—New York Field Office.
| Assistant Director—Human Resources and Training.
| Assistant Director—Government and Public Affairs.
| Special Agent in Charge—Vice Presidential Protective Division.
| Special Agent in Charge—Technical Security Division.
| Special Agent in Charge—Philadelphia Field Office.
| Assistant Director—Homeland Security.
| Chief Counsel.
| Special Agent in Charge—San Francisco Field Office.
| Special Agent in Charge—Dallas Field Office.
| Deputy Chief Counsel.
| Deputy Special Agent in Charge—Presidential Protective Division.
| Deputy Assistant Director—Administration.
| Special Agent in Charge—Washington Field Office.
| Deputy Special Agent in Charge—Presidential Protective Division.
| Deputy Assistant Director—Human Resources and Training.
| Deputy Assistant Director—Investigations.
| Special Agent in Charge—Houston Field Office.
| Deputy Assistant Director—Rowley Training Center.
| Deputy Assistant Director—Technology (Chief Technology, Officer)/Protective Research.
| Special Agent in Charge—Miami Field Office.
| Chief, Information Resources Management Division/Chief Information Officer.
| Deputy Assistant Director—Government and Public Affairs.
| Special Agent in Charge—Atlanta Field Office.
| Chief of Staff.
| Deputy Assistant Director—Protective Operations.
| Special Agent in Charge—Honolulu Field Office.
United States Coast Guard | Director of Finance, Procurement and Security.
| Deputy Program Executive Officer.
Office of the Inspector General | Assistant Inspector General for Information Technology.
Bureau of Immigration and Customs Enforcement | Chief of Staff.
| Assistant Commissioner, Internal Affairs.
| Assistant Commissioner, Federal Protective Service.
| Special Agent in Charge, Miami.
| Special Agent in Charge, Los Angeles.
| Deputy Assistant Commissioner, Internal Affairs.
| Regional Special Agent in Charge, El Paso.
| Deputy Assistant Commissioner, Investigations.
| Special Agent in Charge, New Orleans.
| Director, Terrorist Financial Investigations.
| Executive Director, Air and Marine Interdiction.
| Special Agent in Charge, San Juan .
| Special Agent in Charge, Houston.
| Special Agent in Charge, Chicago.
| Special Agent in Charge, San Diego.
| Regional Special Agent in Charge, Plantation.
| Assistant Commissioner, Human Resources and Development.
| Executive Director, Support Operations.
| District Director, New York.
| Assistant Commissioner for Investigations.
| Chief Information Officer.
| Regional Director.
| Executive Associate Commissioner for Management.
| Director of Internal Audit.
| Regional Director.
| Executive Associate Commissioner, Field Operations.
| Assistant Commissioner for Administration.
| Deputy General Counsel.
| Deputy Executive Associate Commissioner, Detention and Removal.
| Senior Management Advisor.
| Regional Counsel.
| Executive Director, Investigative Programs.
| Executive Director Central.
| Special Agent in Charge, El Paso.
Bureau of Customs and Border Protection | Special Agent in Charge, Tucson.
| Special Agent in Charge, San Juan.
| Special Agent in Charge, San Antonio.
| Special Agent in Charge, El Paso.
| Area Director, JFK Airport.
| Executive Director, Field Operations.
| Deputy Chief Counsel.
| Director, Field Operations (Detroit).
| Director, Field Operations (Seattle).
| Director, Field Operations (Buffalo).
| Director, Field Operations (Tucson).
| Director, Field Operations (Boston).
| Deputy Chief Counsel.
| Associate Chief Counsel—Administration.
| Associate Chief Counsel—Southeast.
| Associate Chief Counsel—North Central.
| Associate Chief Counsel—New York.
| Assistant Deputy Administrator, Agriculture Quarantine Inspection.
| Director, Regulatory Audit.
| Associate Chief Counsel—Enforcement.
| Associate Chief Counsel—Trade.
| Associate Chief Counsel—Southwest.
| Deputy Assistant Commissioner, Human Resources Management.
| Executive Director, Communications Management.
| Executive Director, Asset Acquisition Management.
| Executive Director, Labor and Employee Relations.
| Director, International Trade Compliance.
| Director, Customs Modernization.
| Director, Field Operations (New York).
| Area Director, Newark.
| Assistant Commissioner, Field Operations.
| Assistant Commissioner, Regulations and Rulings.
| Director, Strategic Trade Center (Chicago).
| Associate Chief Counsel—Pacific.
| Area Director, JFK Airport.
| Assistant Commissioner, Information and Technology.
| Assistant Commissioner, Public Affairs.
| Director, Laboratories and Scientific Services.
| Director, Trade Programs.
| Deputy Assistant Commissioner, Field Operations.
| Director, Field Operations (El Paso).
| Executive Director, Passenger Services.
| Director, Field Operations (Houston).
| Executive Director, Enforcement Planning.
| Assistant Commissioner, Finance.
| Director, Field Operations (Miami).
| Director, Academy, Glynco.
| Director, Field Operations (San Diego).
| Executive Director, Budget.
| Executive Director, Field Operations.
| Director, Field Operations (Chicago).
| Executive Director, Southwest Border.
| Director, Field Operations (Los Angeles).
| Director, Field Operations (Laredo).
| Assistant Commissioner, Strategic Trade.
| Assistant Commissioner, Human Resources.
| Port Director, Miami International Airport.
| Assistant Commissioner, Training and Development.
| Assistant Commissioner, Policy and Inspection.
| Assistant Commissioner, Border Patrol.
| District Director, San Diego.
| District Director, El Paso.
| Chief Patrol Agent (San Diego).
| Chief Patrol Agent (El Paso).
| Chief Patrol Agent (McAllen).
| Chief Patrol Agent (Tucson).
| Executive Director, Infrastructure Services.
| Deputy Chief Financial Officer.
Federal Law Enforcement Training Center—Treasury | Deputy Director, Federal Law Enforcement Training Center.
| Director, Federal Law Enforcement Training Center.
| Senior Assistant Director, Washington Operations.
| Assistant Director, Training Directorate.
| Assistant Director, Administration.
| Assistant Director, Field Training.
Federal Emergency Management Agency | Division Director.
| Deputy Administrator for Insurance.
| Deputy Chief Financial Officer.
| Deputy Administrator for Mitigation.
| Senior Procurement Executive.
| Division Director.
| Division Director.
| Deputy Inspector General.
| Assistant Inspector General for Auditing.
| Assistant Inspector General for Investigations.
Office of the Under Secretary for Management | Director of Asset Management.
Department of Housing and Urban Development:
Office of the General Counsel | Deputy Director, Departmental Enforcement Center.
| Associate General Counsel for Program Enforcement.
Office of the Inspector General | Assistant Inspector General for Investigations.
| Assistant Inspector General for Audit.
| Deputy Inspector General.
| Assistant Inspector General for Management and Policy.
| Deputy Assistant Inspector for Investigation.
| Deputy Assistant Inspector General for Audit.
| Deputy Assistant Inspector General for Investigation.
| Counsel to the Inspector General.
| Deputy Assistant Inspector General for Management and Policy.
Office of the Chief Financial Officer | Assistant Chief Financial Officer for Budget.
| Deputy Chief Financial Officer.
| Assistant Chief Financial Officer for Financial Management.
| Assistant Chief Financial Officer for Accounting.
Office of the Chief Procurement Officer | Deputy Chief Procurement Officer.
Departmental Enforcement Center | Chief Counsel.
| Associate Director, Departmental Enforcement Center.
| Director, Departmental Enforcement Center.
Assistant Secretary for Administration | Director, Office of Procurement and Contracts.
| Director, Grants Management Center.
| Senior Advisor for Procurement Planning and Program Liaison.
Office of the Chief Information Officer | Information Technology Advisor.
| Deputy Chief Information Officer for Information Technology Reform.
Assistant Secretary for Housing | Housing/Federal Housing Administration Comptroller.
| Housing—Family Housing Authority Deputy Comptroller.
| Director, Office of Asset Management.
| Director, Office of Program Systems Management.
| Deputy Assistant Secretary for Finance and Budget.
Assistant Secretary for Fair Housing and Equal Opportunity | Director, Office of Enforcement.
Office of Departmental Equal Employment Opportunity | Director, Office of Departmental Equal Employment Opportunity.
Assistant Secretary for Community Planning and Development | Director, Office of Community Viability.
| Comptroller.
Government National Mortgage Association | Senior Vice President Office of Capital Markets and Policy.
| Senior Vice President, Office of Finance.
| Senior Vice President, Office of Multifamily Programs.
| Senior Vice President, Office of Program Operations and Support.
| Senior Vice President, Office of Management and Communication.
| Senior Vice President, Office of Management Operations.
| Senior Vice President, Office of Program Operations.
| Senior Advisor to the President, Government National Mortgage Association.
Assistant Secretary for Public and Indian Housing | General Deputy Assistant Secretary for Public and Indian Housing.
| Deputy Public and Indian Housing Comptroller.
| Director, Office of Public Housing Partnership.
| Deputy Assistant Secretary, Office of Troubled Agency Recovery.
| Deputy Director for Finance.
| Comptroller, Real Estate Assessment Center.
| Director, Real Estate Assessment Center.
| Director, Administrative Operations.
| Deputy Assistant Secretary for Administrator and Budget/Chief Financial Officer.
Department of the Interior:
Office of the Inspector General | Assistant Inspector General for Auditing.
| Assistant Inspector General for Investigations.
| Assistant Inspector General for Management and Policy.
| Assistant Inspector General for Strategic Initiatives.
| Assistant Inspector General for Program Integrity.
| Chief of Staff.
| Assistant Inspector General for Administrative Services and Information Management.
| Assistant Inspector General for Human Capital Management.
| Deputy Assistant Inspector General for Investigations.
| Deputy Assistant Inspector General for Administrative Services and Information Management.
| General Counsel.
| Deputy Assistant Inspector General for Audits.
| Deputy Assistant Inspector General for Audits.
Office of the Solicitor | Deputy Associate Solicitor, General Law.
| Deputy Associate Solicitor, Division of Parks and Wildlife.
| Deputy Associate Solicitor—Mineral Resources.
| Associate Solicitor for Administration.
| Deputy Associate Solicitor, Division of Land and Water Resources.
Assistant Secretary—Policy, Management and Budget | Assistant Director for Economics.
| Manager, Science and Engineering.
| Designated Agency Ethics Official.
| Deputy Assistant Secretary—Law Enforcement and Security.
| Associate Director for Financial Policy and Operations.
| Deputy Assistant Secretary Budget and Finance.
| Director, Office of Financial Management and Deputy Chief Financial Officer.
| Chief Division of Budget and Program Review.
| Deputy Agency Ethics Staff Officer.
Assistant Secretary—Fish and Wildlife and Parks | Director for Everglades Restoration.
National Park Service | Financial Advisor (Comptroller).
| Park Manager—Grand Canyon.
Field Offices | Park Manager—Yosemite (Superintendent).
| Park Manager—Everglades.
| Park Manager—Yellowstone (Superintendent).
| Assistant Director, Design and Construction (Manager).
| Park Manager—Independence National Historic Park.
United States Fish and Wildlife Service | Executive Director—Regional Ecosystem Office.
Field Offices | Director, Technical Services Center.
| Director, Management Services Office.
United States Geological Survey | Regional Geographer, Western Region.
| Regional Hydrologist, Western Region.
| Chief Scientist for Hydrology.
Directors Office | Geographic Information Officer.
| Deputy Director, United States Geological Survey.
| Regional Director, Eastern Region.
| Regional Director, Western Region.
| Physical Scientist.
| Chief, Office of Administrative Policy and Services.
| Associate Director for Geography.
National Mapping Division | Associate Division Chief for Operations.
Field Offices | Chief, EROS Data Center.
| Regional Geographer, Eastern Region.
Water Resources Division | Associate Division Chief for Water.
| Associate Chief Hydrologist for Program Operations.
| Assistant Chief Hydrologic for Research.
Field Offices | Regional Hydrologist, Central Region.
| Regional Hydrologist, Southeastern Region.
| Regional Hydrologist, Western Region.
| Regional Hydrologist, Northeastern Region.
Geologic Division | Associate Director for Geology.
| Regional Geologist, Western Region.
| Regional Geologist, Eastern Region.
| Chief Scientist for Geology.
Biological Resources Division | Associate Chief Biologist for Information.
Field Offices | Regional Chief Biologist, Eastern Region.
| Regional Biologist, Western Region.
Field Offices | Regional Director.
| Regional Director.
| Regional Director.
Minerals Management Service | Associate Director for Policy and Management Improvement.
Field Offices | Regional Director, Gulf of Mexico Outer Continental Shelf Region.
| Assistant Program Director for Offshore Compliance and Asset Management.
| Assistant Program Director for Onshore Compliance and Asset Management.
| Regional Director, Alaska Outer Continental Shelf Region.
| Regional Director, Pacific Outer Continental Shelf Region.
| Deputy Associate Director for Minerals Revenue Management.
Assistant Secretary—Indian Affairs | Chief Financial Officer.
| Director, Planning and Policy Analysis.
Bureau of Indian Affairs | Deputy Director, Field Operations.
| Deputy Director, Office of Indian Education Programs.
Office of Hearings and Appeals | Director, Office of Hearings and Appeals.
Department of Justice:
Office of the Legal Counsel | Special Counsel.
| Special Counsel.
Office of Intelligence Policy and Review | Deputy Counsel for Intelligence Law.
Office of the Inspector General | Assistant Inspector General, Evaluation and Inspections Division.
| Assistant Inspector General for Audit.
| Assistant Inspector General for Investigation.
| Assistant Inspector General for Management and Planning.
| Deputy Inspector General.
| General Counsel.
| Director, Office of Oversight and Review.
Office of Professional Responsibility | Counsel on Professional Responsibility.
| Deputy Counsel on Professional Responsibility.
Justice Management Division | Assistant Attorney General for Administration.
| Deputy Assistant Attorney General, Policy, Management, and Planning.
| Director, Human Resources.
| Director, Security and Emergency Planning Staff.
| Director, Computer Services Staff.
| Director Finance Staff.
| Deputy Assistant Attorney General Controller.
| Deputy Assistant Attorney General Human Resources/Administration.
| Director Library Staff.
| Director, Systems Policy Staff.
| Director, Facilities and Administrative Services Staff.
| Director, Office of Attorney Personnel Management.
| Director Telecommunications Services Staff.
| Information Technology Project Manager.
| Information Technology Security Project Manager.
| Chief of Staff.
| Director, Operations Services Staff.
| Information Technology Policy and Planning Manager.
| Director Management and Planning Staff.
| Director, Budget Staff.
| Director, Debt Collection Management Staff.
| Assistant Director, Management and Planning Staff.
| Senior Policy Advisor.
| Chief Information Officer.
| Director Procurement Services Staff.
| Director, Systems Technology Staff.
| General Counsel.
| Director, Equal Employment Opportunity Staff.
| Senior Counsel.
| Director, Department of Ethics Office.
| Deputy Director, Budget Staff.
| Director, Systems Engineering and Development Staff.
| Senior Program Manager.
Professional Responsibility Advisory Office | Director, Professional Responsibility Advisory Office.
Office of Federal Detention Trustee | Federal Detention Trustee.
Executive Office for United States Trustees | Executive Officer.
Executive Office for Immigration Review | Chief Immigration Judge.
| Assistant to the Director.
| Chairman, Board of Immigration Appeals.
| General Counsel.
| Attorney-Examiner (Immigration).
| Chief Administrator Hearing Officer.
Antitrust Division | Deputy Director of Operations.
| Chief, Competition Policy Section.
| Senior Litigator.
| Executive Officer.
| Chief Computers and Finance Section.
| Senior Litigator.
| Senior Litigator, Atlanta Field Office.
| Deputy Chief, Litigation II Section.
Civil Division | Special Litigation Counsel (Foreign Litigation).
| Special Litigation Counsel.
| Special Litigation Counsel.
| Special Litigation Counsel (Federal Programs).
| Special Litigation Counsel, Commercial Litigation Branch.
| Deputy Branch Director.
| Deputy Branch Director/Commercial Litigation.
| Deputy Branch Director.
| Director of Management Programs.
| Deputy Branch Director.
| Deputy Branch Director Civil Frauds.
| Deputy Branch Director.
| Director Office of Consumer Litigation.
| Deputy Director, Commercial Litigation Branch.
| Appellate Litigation Counsel.
| Deputy Branch Director.
| Deputy Director, Tobacco Litigation Team.
| Deputy Director, Appellate Staff.
Civil Rights Divisions. | Special Litigation Counsel.
| Executive Officer.
Environment and Natural Resources Division | Senior Litigation Counsel.
| Deputy Chief, Environmental Enforcement Section.
| Executive Officer.
| Principal Deputy Chief Environment Enforcement Section.
| Supervisory Trial Attorney.
Tax Division | Special Litigation Counsel.
| South Region Trial Attorney.
| Special Litigation Counsel.
| Special Litigation Counsel.
| Chief Civil Trial Section Southwestern Region.
| Executive Officer.
Immigration and Naturalization Service | Assistant Commissioner for Border Patrol.
| Director of Internal Audit.
| Regional Director Central Region.
| Assistant Commissioner Administration.
| Chief Patrol Agent.
| District Director, Western Region, Phoenix District.
| Chief Patrol Agent, El Paso, Texas.
| Deputy Executive Associate Commissioner for Detention and Removals.
| Associate Commissioner, Field Services Operations.
Associate Commissioner for Examinations | Assistant Commissioner for Inspections.
Associate Commissioner for Enforcement | Assistant Commissioner for Investigations.
| Assistant Deputy Executive Associate Commissioner, Field Operations.
Executive Associate Commissioner for Management | Assistant Commissioner, Human Resources and Development
Regional Offices—Immigration and Naturalization Service | District Director, Newark, District
| Chief Patrol Agent, McAllen, Texas.
| Chief Patrol Agent, Tucson, Arizona.
| Regional Counsel, Western Region.
Office of the Associate Attorney General | Deputy Director for Support Services.
Executive Office for United States Attorneys | Promis Project Manager.
| Director, Office of Administration and Review.
| Deputy Director for Operations.
| Executive Officer (Principal Associate Director)
| Director, Office of Legal Education.
| Deputy Director, Financial Management Staff.
Criminal Division | Senior Counsel to the Assistant Attorney General.
| Director, Organized Crime Drug Enforcement Task Forces.
| Deputy Chief, Fraud Section.
| Chief, Asset Forfeiture and Money Laundering Section.
| Senior Appellate Counsel.
| Senior Counsel.
| Executive Officer.
| Director International Criminal Investigative Training Assistance Program.
| Chief, General Litigation and Legal Advice Section.
| Senior Counsel for National Security Matters.
| Deputy Chief Terrorism and Violent Crime Section.
| Deputy Chief, Computer Crime and Intellectual Property Section.
| Chief of International Training and Development Programs.
| Senior Counsel to the Assistant Attorney General.
| Principal Deputy Chief, Narcotic and Dangerous Drug Section.
| Director, Office of Overseas Prosecutorial Development, Assistance, and Training.
| Chief, Asset Forfeiture Office.
| Senior Counsel for National Security Matters.
Office of Senior Counsels | Senior Counsel for Litigation.
Office of Deputy Assistant Attorney General I | Counsel to the Office Fraud Section.
Office of Deputy Assistant Attorney General II | Chief Public Integrity Section.
| Deputy Chief Public Integrity Section.
Federal Bureau of Prisons | Assistant Director for Administration.
| General Counsel.
| Associate Commissioner, Federal Prisons Industries, Unicore.
| Deputy Associate Commissioner Federal Prison Industries.
| Warden Fort Worth Texas.
| Warden Marianna Florida.
| Assistant Director for Human Resources Management.
| (Warden) Miami, Florida.
| Senior Deputy Assistant Director Health Services Division.
| Regional Director Middle Atlantic Division.
| Assistant Director, Community Corrections and Detention.
| Assistant Director, Information, Policy, and Public Affairs Division.
| Warden Talladega, Alabama.
| General Counsel, Federal Prison Industries (UNICOR).
| Warden, Allenwood, Pennsylvania.
| Senior Management Counsel, (Federal Bureau of Prisons).
| (Warden) Fort Dix, New Jersey.
| (Warden) Federal Correctional Complex, Floren, Colorado
| Correctional Institution Administrator (Assistant Regional Director) South Central Region, Dallas, Texas.
| Correctional Institution Administrator (Senior Deputy Assistant Director) Community Corrections and Detention Division, Washington, District of Columbia.
| Warden, United States Penitentiary, Florence, Colorado.
| Central Intelligence Agency (Warden) Federal Medical Center.
| Carswell, Texas.
| CIA (Warden) United States Penitentiary, Allenwood, Pennsylvania.
| (Warden) Federal Transfer Center, Oklahoma City, Oklahoma.
| Senior Deputy Assistant Director (Administration).
| Correctional Institution Administrator (Warden) Federal Correctional Institute/EL Reno, Oklahoma.
| Correctional Institution Administrator (Warden) Federal Medical Center/Miami, Florida.
| Correctional Program Officer/Senior Deputy Regional Director.
| Correctional Institution Administrator (Warden) Federal Correctional Institution.
| Correctional Program Officer/Senior Deputy Assistant Director.
| Program Review Division.
| Correctional Program Officer.
| Correctional Program Officer (Warden Federal Correctional Institution, Estill, South Carolina).
| Correctional Program Officer (Warden Federal Correctional Institution, South Carolina).
| Correctional Institution Administrator (Warden, Federal Medical Center, Federal Transfer Center, Massachusetts).
| Correctional Institution Administrator.
| Correctional Institution Administrator (Warden).
| Correctional Institution Administrator (Warden, United States Penitentiary, Beaumont, Texas).
| Assistant Director, Health Services Division.
| Deputy Assistant Director for Administration.
| Correctional Program Officer.
| Warden.
| Correctional Institution Administrator (Warden).
| Correctional Institution Administrator (Warden).
| Correction Program Officer (Senior Deputy Assistant Director).
| Budget Officer.
| Warden.
| Warden.
| Warden, United States Penitentiary, Lee, Virginia.
| Warden, Federal Correctional Institution.
| Senior Counsel.
| Correctional Institution Administrator (Warden, United States Penitentiary Victorville, California).
| Correctional Institution Administrator (Warden, United States Penitentiary McCreary, Kentucky).
Office of Correctional Programs | Assistant Director Correctional Programs Division.
Northeast Region | Regional Director, Northeast Region.
| Warden, Lewisburg, Pennsylvania.
| Warden, McKean, Pennsylvania.
| (Warden), Oakdale, Louisiana.
| Warden, Federal Correctional Institution, Fairton, New Jersey.
| Warden.
| Warden, Federal Correctional Institution, McKean, Pennsylvania.
| Correctional Institution Administrator (Warden).
| Correctional Institution Administrator (Warden).
| Warden, Federal Detention Center, Philadelphia, Pennsylvania.
| Correctional Institution Administrator (Warden).
Southeast Region | Regional Director, Southeast Region.
| Warden Atlanta.
| Warden, Lexington Kentucky.
| Warden Butner North Carolina.
| Correctional Institution Administrator (Warden).
| Warden, Federal Correctional Institution, Jesup, Georgia.
| Correctional Institution Administrator (Warden).
| Warden, Federal Correction Institution, Petersburg, Virginia.
| Warden, United States Penitentiary, Big Sandy, Kentucky.
North Central Region | Regional Director, North Central Region.
| Warden Leavenworth Kansas.
| Warden Springfield Missouri.
| Warden Marion Illinois.
| Warden Terre Haute, Indiana.
| Correctional Institution Administrator (Warden, Federal Medical Center, Rochester, Minnesota).
| Correctional Institution Administrator (Warden).
| Correctional Institution Administrator (Warden).
| Correctional Institution Administrator (Warden).
| Correctional Institution Administrator (Warden).
South Central Region | Regional Director, South Central Region.
| Warden El Reno Oklahoma.
| Warden, Federal Correctional Institution, Medium, Beaumont, Texas.
| Warden, Federal Correctional Institution, Three Rivers, Texas.
Western Region | Regional Director, Western Region.
| Warden, Lompoc, California.
| Warden Phoenix, Arizona.
| Warden Federal Correctional Institution.
| Correctional Institution Administrator (Warden).
| Correctional Institution Administrator (Warden).
| Correctional Institution Administrator (Warden).
Office of Justice Programs | Director of Administration.
| Deputy Director, National Institute of Justice.
| Comptroller.
| Budget Officer.
| Deputy Director, Office for Victims of Crime (Policy and International Programs).
| Assistant Director, Office of Administration.
| Principal Deputy Director, Office of Victims of Crime.
| Senior Counsel.
Office of Juvenile Justice and Delinquency Prevention | Deputy Administrator, Office Discretionary Grants Special Advisor.
| Special Advisor.
National Institute of Justice | Special Advisor.
| Assistant Director.
Bureau of Justice Statistics | Supervisory Statistician.
United States Marshals Service | Assistant Director for Operations Support.
| Assistant Director for Human Resources.
| Associate Director for Operational Support.
| Senior Management Advisor.
| Assistant Director for Prisoner Services.
| Assistant Director for Business Services.
| Assistant Director for Management and Budget.
| Assistant Director for Executive Service.
| Assistant Director for Investigative Service.
| Assistant Director for Judicial Security.
| Assistant Director for Organizational Development.
| Assistant Director for Training.
| Assistant Director, Justice Prisoner and Alien Transportation System.
| Assistant Director, for Investigative Services.
Community Oriented Policing Services | Deputy Director, Office of Community Policing Development.
Office of the Alcohol, Tobacco, Firearms and Explosives | Deputy Director.
| Assistant Director (Liaison and Public Information).
| Assistant Director (Field Operations).
| Assistant Director (Field Operations).
| Deputy Assistant Director (Criminal Enforcement Field Operations—Central).
| Assistant Director (Firearms, Explosives and Arson).
| Deputy Assistant Director (Firearms, Explosives and Arson).
| Assistant Director (Inspection).
| Deputy Assistant Director (Recruitment and Hiring).
| Chair, Professional Review Board.
| Deputy Assistant Director (Science and Technology).
| Assistant Director (Science and Technology).
| Director, Laboratory Services.
| Associate Chief Counsel (Administration and Ethics).
| Deputy Assistant Director (Field Operations—West).
| Division Director/Special-Agent-In-Charge, Los Angeles.
| Division Director/Special-Agent-In-Charge, Phoenix.
| Division Director/Special-Agent-In-Charge, Chicago.
| Division Director/Special-Agent-In-Charge, New York.
| Division Director/Special-Agent-In-Charge, Washington.
| Division Director/Special Agent In Charge.
Department of Labor:
Office of the Inspector General | Deputy Inspector General.
| Assistant Inspector General for Investigations.
| Assistant Inspector General for Audit.
| Assistant Inspector General for Labor Racketeering.
| Assistant Inspector General for Management and Counsel.
| Assistant Inspector General/Analysis Complaints/Evaluation.
| Assistant Inspector General for Analysis, Complaints and Evaluations.
| Assistant Inspector General for Communications, Inspections and Evaluations.
| Counsel to the Inspector General.
| Assistant Inspector General for Management and Policy.
| Deputy Assistant Inspector General for Audit.
Bureau of International Labor Affairs | Associate Deputy Under Secretary.
Office of the Solicitor | Associate Solicitor for Labor-Management Laws.
| Associate Solicitor for Plan Benefits Security.
| Regional Solicitor Chicago.
| Associate Solicitor for Civil Rights.
| Associate Solicitor for Occupational Safety and Health.
| Associate Solicitor for Mine Safety and Health.
| Associate Solicitor for Fair Labor Standards.
| Regional Solicitor Atlanta.
| Associate Solicitor for Employee Benefits.
| Regional Solicitor Boston.
| Regional Solicitor New York.
| Regional Solicitor Philadelphia.
| Regional Solicitor Dallas.
| Regional Solicitor Kansas City.
| Regional Solicitor San Francisco.
| Deputy Solicitor (Regional Operations).
| Associate Solicitor For Special Appeal and Supreme Court Litigation.
| Deputy Solicitor for Planning and Coordination.
| Associate Solicitor for Black Lung Benefits.
Office of Chief Financial Officer | Deputy Chief Financial Officer.
| Associate Deputy Chief Financial Officer.
Office of the Assistant Secretary for Administration and Management | Director of Human Resources. Deputy Director, Information Technology Center.
| Director, Office of Budget.
| Director, Business Operations Center.
| Director of Civil Rights.
| Director, Management Systems Development and Innovation.
| Director of Safety and Health.
| Director of Information Technology Operations.
| Deputy Assistant Secretary for Budget and Strategic and Performance Planning.
| Deputy Assistant Secretary for Operations.
| Director, Program Planning and Results Center.
| Deputy Assistant Secretary for Security and Emergency Management.
Employment Standards Administration | Director, Office of Management, Administration and Planning.
Office of Federal Contract Compliance Programs | Director, Division of Programs Operations.
Wage and Hour Division | Deputy, National Office Program Administration.
| Deputy, Wage and Hour Administrator (Operations).
| Principal Deputy, Wage and Hour Administrator.
Office of Workers Compensation Programs | Director, Federal Employees Compensation.
| Director, Coal Mine Workers Compensation.
Office of Labor-Management Standards | Deputy Director, Employment Standards Administration.
Employee Benefits Security Administration | Director of Regulations and Interpretations.
| Deputy Assistant Secretary for Program Operations.
| Director of Exemption Determinations.
| Senior Policy Advisor.
| Regional Director—Boston.
| Regional Director—Atlanta.
| Regional Director—Kansas City.
| Regional Director—San Francisco.
| Director of Enforcement.
| Director of Health Plan Standards Compliance and Assistance.
| Director of Participant Assistance and Communications.
| Director of Information Management.
| Chief Accountant.
Bureau of Labor Statistics | Associate Commissioner for Field Operations.
| Associate Commissioner for Field Operations.
| Associate Commissioner for Administration.
| Associate Commissioner for Employment Projections.
| Associate Commissioner for Prices and Living Conditions.
| Associate Commissioner Productivity and Technology.
| Deputy Commissioner.
| Associate Commissioner/Survey Methods Research.
| Associate Commissioner for Employment and Unemployment Statistics.
| Assistant Commissioner for Industry Prices and Price Indexes.
| Director of Survey Processing.
| Director of Technology and Computing Services.
| Assistant Commission for Current Employee Analysis.
| Associate Commissioner for Technology and Survey Processing.
| Assistant Commission for Compensation Levels and Trends.
| Assistant Commissioner for Safety, Health and Working Conditions.
| Associate Commissioner Compensation and Working Conditions.
| Assistant Commissioner for International Prices.
| Associate Commissioner for Publication and Special Studies.
| Assistant Commissioner for Consumer Prices/Price Indexes.
| Assistant Commissioner for Federal/State Cooperative Statistics Programs.
Employment and Training Administration | Administrator, Office of Financial and Administrative Management.
| Director, Office of Career Transition Assistance.
| Administrator, Office of National Programs.
| Administrator, Office of Workforce Investment.
| Administrator, Office of National Response.
| Administrator, Office of Performance Results.
| Administrator, Office of Workforce Security.
| Director, Office of Adult Services.
| Director, Office of Youth Services.
Occupational Safety and Health Administration | Director, Directorate of Science, Technology and Medicine.
| Director, Safety Standards Programs.
| Director, Directorate of Cooperative and State Programs.
| Director, Health Standards Programs.
| Director, Administrator Programs.
| Director, Directorate of Standards and Guidance.
| Senior Safety and Health Advisor.
Mine Safety and Health Administration | Director of Administration and Management.
| Director of Technical Support.
| Director of Program Evaluation and Information Resources.
Veterans Employment and Training Service | Director of Resource Management.
| Director of Operations and Programs.
Office of Disability Employment Policy | Director, Office of Policy and Research.
| Director, Office of Operations.
Merit Systems Protection Board:
Office of the Clerk of the Board | Clerk of the Board.
Office of Financial and Administrative Management | Director, Financial and Administrative Management.
Office of Policy and Evaluation | Director, Office of Policy and Evaluation.
Office of Information Resources Management | Director, Information Resources Management.
Office of Regional Operations | Director, Office of Regional Operations.
Atlanta Regional Office | Regional Director, Atlanta.
Central Region, Chicago Regional Office | Regional Director, Chicago.
Northeast Region, Philadelphia Regional Office | Regional Director, Philadelphia.
Western Region, San Francisco Regional Office | Regional Director, San Francisco.
Washington, DC Region, Washington Regional Office | Regional Director, Washington, D.C.
National Aeronautics and Space Administration:
National Aeronautics and Space Administration | Senior Program Executive, Advanced Technology Program Management.
| Senior Systems Engineer.
Office of the Administrator | Associate Administrator for Education.
Office of the Chief Financial Officer/Comptroller | Deputy Chief Financial Officer.
| Director, Financial Management Division.
| Director, Resources Analysis Division.
| Associate Chief Financial Officer for Integrated Financial Management Program.
| Special Assistant.
| Director, Strategic Management and Planning.
Office of Equal Opportunity Programs | Director, Discrimination Complaints Division.
Office of Human Resources and Education | Director, Management System Division.
| Assistant Administrator for Human Resources and Education.
| Director, Education Division.
| Director, Personnel Division.
| Director, Management Systems Division.
| Director, Training and Development Division.
Office of Procurement | Associate Administrator for Procurement.
| Director, Program Operations Division.
| Director, Contract Management Division.
| Director Analysis Division.
Office of External Relations | Deputy Associate Administrator for External Relations (Space Flight).
| Manager, International Technology Transfer Policy.
| Director, Space Flight Division.
| Director, Research Division.
| Director, Earth Science Division.
| Director, Space Science and Aeronautics Division.
| Manager, International Technology Transfer Policy.
Space Flight | Program Executive Officer for Human Space Flight.
Office of Management Systems and Facilities | Director, Facilities Engineering Division.
| Director Environmental Management Division.
Information Resources Management | Director, Information Resources Mgmt Division.
Office of Small and Disadvantaged Business Utilization | Associate Administrator for Small and Disadvantaged Business Utilization.
Office of Legislative Affairs | Deputy Associate Administrator.
| Deputy Associate Administrator for Programs.
| Director, Liaison Division.
Office of Space Flight | Deputy Chief.
| Director, Advanced Project Office.
| Deputy Associate Administrator for Business Management.
| Deputy Associate Administrator for Space Operations.
| Special Assistant to the Associate Administrator.
Institutions | Deputy Associate Administrator for Interagency Enterprise
Space Flight Development | Deputy Associate Administrator for Space Development.
Johnson Space Center | Chief Financial Officer.
| Director of Human Resources.
| Director of Technical Transfer and Commercialization.
| Chief Information Officer.
| Deputy Chief Information Officer.
| Associate Director (Technical).
| Assistant Director, Space Operations.
| Manager Advanced Communications Operations.
| Associate Director (Management).
| Assistant Director for University Research and Affairs.
| Director, Public Affairs Office.
| Manager for International Operations.
| Chief Engineer.
| Associate Director (Space Development and Commerce).
Space Operations Office | Manager, Space Operation Management Office.
| Manager, Space Operations Engineering Office.
| Director, Space Operations Office.
| Deputy Director, Space Operations Office.
| Director Space Operations.
| Space Operations Commercialization Manager.
| National Aeronautics and Space Administration Representative to Headquarters, Air Force Space Command.
Space Station Program Office | Space Stations Vehicle Manager.
| Director, Management Operations.
| Deputy Space Station Vehicle Manager.
| Manager International Partners Office.
| Technical Assistant to the Manager, Space Station Program.
| Deputy Program Manager for Business Management.
| Deputy Program Manager for Technical Development.
| Manager, Research Programs.
| Technical Assistant for External Reviews.
| Business Manager.
| Manager, Space Station Payloads Office.
| Space Station Program Manager.
| Deputy Manager, International Space Station Program.
| Manager, Avionics and Software Office.
| Manager, Program Integration Office.
| Manager, Mission Integration and Operations Office.
| Manager for Commercialization.
| Manager for Commercialization.
Space Shuttle Program Office | Manager, Space Shuttle Vehicle Engineer Office.
| Manager, Shuttle Projects Office (Marshall Space Flight Center).
| Manager, Launch Integration (Kennedy Space Center).
| Manager, Space Shuttle Business Office.
| Assistant Manager Space Shuttle Program.
| Manager for Space Shuttle Program Development.
| Manager, Space Shuttle Program Integration.
Mission Operations | Director, Mission Operations.
| Chief Flight Director Office.
| Deputy Director, Mission Operations.
| Assistant Director for Operations.
| Chief Engineer, Mission Operations Directorate.
| Chief Flight Director Office.
| Chief, Advanced Operations and Development Division.
Flight Crew Operations | Chief, Aircraft Operations Division.
| Deputy Director, Flight Crew Operations.
| Manager, Phase One Program Office.
| Assistant Chief, Aircraft Operations Division.
| Chief Astronaut Office.
Engineering | Chief Structures and Mechanics Division.
| Chief, Crew and Thermal Systems Division.
| Deputy Director, Engineering.
| Chief, Automation, Robotics and Simulation Division.
| Director, Engineering.
| Chief Engineer Space Station Program.
| Chief Avionic Systems Division.
| Assistant to the Director, Engineering.
| Deputy Chief, Avionic Systems Division.
| Chief, Aeroscience and Flight Mechanics Division.
| Manager, Advanced Development Office.
| Deputy Manager, Advanced Development Office.
| Assistant Manager, Advanced Development Office.
| Deputy Manager for Exploration.
| Chief Energy Systems Division.
| Chief, Manufacturing, Materials, and Process Technical Division.
| Deputy Director of Engineering for Flight.
| Assistant to the Director.
Space and Life Sciences | Chief, Medical Sciences Division.
| Assistant Director for Engineering.
| Assistant to the Director for Russian Programs.
| Chief, Flight Crew Support Division.
| Associate Director, Space and Life Sciences.
| Chief, Solar System Exploration Division.
| Deputy Director, Space and Life Sciences.
| Assistant Director for Flight Programs.
| Assistant Director for Space Medicine.
| Assistant Director, Space and Life Sciences.
| Deputy Director, Astromaterials Research and Exploration Science.
| Associate Director, Technical.
Information System | Deputy Director, Information System.
| Director, Information Systems.
| Deputy Director, Information Systems.
| Assistant to the Director.
Office of Procurement | Procurement Officer.
| Assistant Director, Business and Information Systems.
| Special Assistant to the Director.
| Manager, Space Station Business Office.
| Assistant Director, Business Management.
| Deputy Director, Business Management.
Center Operations | Director, Center Operations.
| Deputy Director, Center Operations.
Safety, Reliability and Quality Assurance | Director, Safety, Reliability, and Quality Assurance.
| Deputy Director for Russian Projects.
| Deputy Director, Safety, Reliability and Quality Assurance.
| Assistant Director for Space Flight Awareness.
White Sands Test Facility | Manager, National Aeronautics and Space Administration, White Sands, Test Facility.
EVA Project Office | Manager EVA Project Office.
Kennedy Space Center | Director, Space Station Hardware Integration Office.
| Director, Safety Assurance.
| Deputy Director for Planning and Projects.
| Manager, Launch Integration (KSC).
| Deputy Manager, Elevation and Payload Carriers Program Office.
| Director, John F. Kennedy Space Center.
| Associate Director, John F. Kennedy Space Center.
| Director, Workforce and Diversity Management.
| Chief Financial Officer.
| Executive Director, Joint Performance Management Office.
| Director, Procurement Office.
| Deputy Director of Safety, Health and Independent Assessment.
| Director, External Relations and Business Development.
| Special Assistant to the Director.
Shuttle Processing | Director of Shuttle Processing.
| Deputy Director of Shuttle Processing.
Safety, Health and Independent Assessment | Director of Safety, Health and Independent Assessment.
| Associate Director for Agency Occupational Health Program.
| Associate Director for Safety and Mission Assurance.
| Associate Director for Systems Management.
| Associate Director for Management Systems.
Spaceport Engineering and Technology | Deputy Director of Spaceport Engineering and Technology.
| Associate Director for Advanced Space Transportation Support.
| Associate Director for Spaceport Technology Projects.
Spaceport Services | Director, Installation Operations.
| Deputy Director of Installation Management and Operations.
| Director of Spaceport Services.
| Deputy Director of Spaceport Services and Chief Information Officer.
| Associate Director of Spaceport Services and Chief Medical Officer.
International Space Station and Payload Processing | Director of International Space Station/Payload Processing.
| Deputy Director, International Space Station/Payload Processing.
Procurement | Director, Procurement.
External Relations and Business Development | Director, Biomedical Office.
| Deputy Director, External Relations and Business Development.
| Associate Director, External Relations and Business Development.
| Associate Director, External Relations and Business Development (Washington, DC).
| Associate Director, External Relations and Business Development and Senior Public Communications Officer.
Expendable Launch Vehicle and Payload Carriers Program | Director of Expendable Launch Vehicle and Payload Carriers Program.
| Deputy Director of Expendable Launch Vehicle and Payload Carries Program.
| Director, Expendable Launch Vehicle Launch Services.
Marshall Space Flight Center | Chief Financial Officer.
| Director, Safety and Mission Assurance Office.
| Associate Director.
| Deputy Manager, Space Shuttle Projects Office.
| Integrated Financial Management Program Administrative Systems Implementation Manager.
| Integrated Financial Management Program Competency Center Manager.
| Deputy Chief Financial Officer.
| Special Assistant to the National Aeronautics and Space Administration Associate Administrator for Education.
| Manager, Space Shuttle Propulsion Office.
| Business Integration Executive.
Science Directorate | Deputy for Management.
| Deputy Director, Science.
| Manager, Microgravity Science and Applications Department.
| Chief Operating Officer, National Space Science and Technology Center.
| Manager, Gravity Probe-B Program Office.
Engineering Directorate | Manager, Engineering Systems Department.
| Manager, Avionics Department.
| Director Structures Dynamics Laboratory.
| Chief Engineer Space Shuttle Maintainence Engineering Project.
| Assistant to the Director, Engineering.
| Deputy Director, Engineering.
| Deputy Manager, Materials, Processes and Manufacturing Department.
| Deputy Manager, Structures, Mechanics and Thermal Department.
Avionics Department | Deputy Manager, Avionics Department.
Center Operations Directorate | Director, Information Systems Services Office.
| Director, Procurement Office.
| Director Environmental Engineering and Management Office.
| Director Center Operations.
| Deputy Director, Center Operations.
| Manager, Information Services Department.
Space Shuttle Projects | Manager, External Tank Project.
| Manager Solid Rocket Booster Project.
| Manager Space Shuttle Maintenance Engineering Projects.
| Manager, Reusable Solid Rocket Motor Project.
| Chief, Engineer Space Shuttle Maintainence Engineering Program.
Safety and Mission Assurance Office | Director, Safety and Assurance Requirements Division.
| Director, Review and Assessment Division.
Global Hydrology Research Office | Manager, Materials, Processes, and Manufacturing Department.
| Manager Microgravity Research Program Office.
Flight Projects Directorate | Deputy Director, Flight Projects.
| Deputy Associate Director for Earth Observing Systems (Earth, Observing Systems) Development.
| Manager, Payload Operations and Integration Department.
| Chief Engineer.
| Manager, Ground Systems Department.
| Manager, Flight Systems Department.
Space Transportation Directorate | Director, Advanced Transportation System Office.
| Manager, Vehicles and Systems Development Department.
| Manager, Test And Evaluation Department.
| Manager, Second Generation Reusable Launch Vehicle Program Office.
| Manager, Subsystem and Components Development Department.
| Deputy Director, Space Transportation Directorate.
| Chief Engineer, Space Transportation.
| Manager, Propulsion Research Center.
Customer and Employee Relations Directorate | Director, Customer and Employee Relations.
| Deputy Director, Customer and Employee Relations.
Stennis Space Center | Deputy Director, National Aeronautics and Space Administration, Stennis Space Center.
| Director, Propulsion Test Directorate.
| Deputy Director, Propulsion Test Directorate.
| Chief Financial Officer.
| Special Assistant to the Director.
| Director, Center Operations and Support Directorate.
| Manager, Propulsion Test Program Office.
| Assistant to the Director.
| Director, Earth Science Applications Directorate.
Office of Public Affairs | Director of Program Operations.
Office of Safety and Mission Assurance | Deputy Associate Administrator for Safety and Mission Quality.
| Director, Enterprise Safety and Mission Assurance.
Safety and Risk Management | Director, Safety and Risk Management Division.
Office of Aerospace Technology | Director, Commercial Development and Technology Transfer.
| Senior Engineer.
| Director, Research Support Division.
| Director, Goals Division.
| Deputy Assistant Administrator for Aerospace Technology (Space Transportation).
Resources and Management Systems | Director, Resources Management Office.
Ames Research Center | Chief Financial Officer.
| Deputy Director, Information Science and Technology.
| Deputy Director, Ames Research Center.
| Assistant Director for Information Technology.
| Director, Office of Safety, Environment and Mission Assurance, Assistant to the Director.
| Chief, Computational Sciences Division.
| Associate Director for Astrobiology and Space Programs.
| Chief Counsel.
| Associate Director for Systems Management and Planning.
| Special Assistant for Software Integration.
Aerospace | Deputy Director Flight Projects Office.
| Chief, Space Technology Division.
| Chief, Aviation Systems Research Technology and Simulation.
| Chief, Army/National Aeronautics and Space Administration Rotorcraft Division.
| Deputy Director of Aerospace.
Aerophysics | Chief, National Aeronautics and Space Administration Systems Division
Astrobiology and Space Research | Director of Astrobiology and Space Research.
| Chief, Life Sciences Division.
| Deputy Director of Astrobiology and Space Research.
Center Operations | Deputy Director, Center Operations.
Research and Development Services | Chief Systems Engineering Division.
| Chief, Wind Tunnel Operations Division.
| Director, Research and Development Services.
| Deputy Director, Research and Development Services.
Information Sciences and Technology | Chief, Human Factors Research and Technology Division.
Dryden Flight Research Center | Aerospace Engineer (Chief Engineer).
| Director, Research Facilities Directorate.
| Chief Financial Officer (Financial Manager).
| Director, Flight OPS Directorate.
| Chief Information Officer.
| Director, Aerospace Project Directorate.
| Deputy Director, Aerospace Projects.
| Associate Director for Planning.
Langley Research Center | Chief, Atmospheric Sciences Division.
| Facility Group Director for the Aerospace Technology Enterprise.
| Director, Independent Program Assess Office.
| Director of Education Programs.
| Assistant Director for Planning.
| Assistant Director for Planning.
| Director, Research Facilities Management Office.
| Special Assistant for Outreach.
| Manager, Hyper-X Phase One Program.
| Deputy Director, Independent Program Assessment Office.
| Director, Airborne Systems.
| Director.
| Associate Director for Business Management.
| Deputy Director, Structures and Materials Competency.
| Director, Space Access and Exploration Program Office.
| Deputy Director, Airborne Systems Competency.
| Special Assistant to the Director.
| Director, NASA Engineering and Safety Center.
| Director, Airspace Systems Program Office.
| Manager, Business Management and Support Office.
| Director, Project Implementation Office.
| Director, Aviation Safety Program Office.
| Associate Director for Program Integration.
| Director, Earth and Space Science Program Office.
| Director, Aerodynamics, Aerothermodynamic, and Aeropropulsion Facility Group.
| Deputy Director, Facilities and Test Techniques, AAAC.
| Deputy Director, Independent Program Assessment Office.
Aeronautics | Deputy Director, Airframe Systems Prog Office.
Space and Atmospheric Sciences | Deputy Director, Space and Atmospheric Sciences Program Group.
| Director, Aerospace Transportation Program Office.
| Chief, Space Systems and Concepts Division.
Research and Technology Competencies | Director.
| Chief, Information and Electromagnetic Tech.
| Chief, Flight Dynamics and Controls Division.
| Deputy Director, Research and Technology Group.
| Director, Research and Technology Group.
| Chief, Aero and Gas Dynamics Division.
| Chief, Materials Division.
Internal Operations | Chief, Aerospace Mechanical Systems Division.
| Chief, Experimental Testing Technology Division.
| Procurement Officer.
| Chief, Simulation and Research Aircraft Division.
High-Speed Research Project | Director for High-Speed Research Project Office.
| Chief Engineer, High-Speed Research.
Aerospace Vehicle Systems Technology Program Office | Deputy Director, Aerospace Transportation Technology Office.
| Deputy Director, Aerospace Transportation Technology Office.
| Director, Aerospace Transport Technology Office.
Safety and Mission Assurance | Director, Office of Safety and Mission Assurance.
Comptroller | Chief Financial Officer.
Glenn Research Center | Chief Financial Officer.
| Deputy Director for Operations.
| Assistant Deputy Director for Policy.
| Chief, Engineering Design and Analysis Division.
| Director, Systems Management Office.
| Chief, Space Transportation Office.
| Chief, Systems Engineering Division.
| Chief, Aeropropulsion Project Office.
Aeronautics | Deputy Director of Aeronautics.
| Chief, Ultra Efficient Engine Technology Office.
Research and Technology | Chief, Turbomachinery and Propulsion System Division.
National Aeronautics and Space Administration:
Research and Technology | Chief, Materials Division.
| Chief, Structures and Acoustics Division.
| Chief, Power and On-Board Propulsion Technical Division.
Space | Chief Microgravity Division.
| Deputy Director of Space.
| Chief Power Systems Project Office.
Engineering and Technical Services | Chief, Computer Services Division.
| Director of Engineering and Technical Services.
| Deputy Director of Engineering and Technical Services.
| Chief, Systems Engineering Division.
External Programs | Director, External Programs.
Mission Safety and Assurance | Director, Office of Safety, Environmental and Mission Assurance.
Office of Space Science | Director, Research Program Management.
| Technical Assistant to the Director, Office of Space Science.
| Science Program Director.
| Director, Administration and Resource Management Division.
| Senior Program Executive, Space Science Program Management.
| Deputy Director, Research Program Management Division.
| Deputy Director, Flight Program Division.
| Senior Program Executive for Decadal Planning Team (Science).
| Associate Director, Sun-Earth Connection Division.
Solar System Exploration | Science Program Director.
| Director, Mission and Payload Development Division.
| Director, Advanced Technology and Mission Studies Division.
Space Physics | Science Program Director, Sun-Earth Connection.
| Senior Scientist Program Executive for Review and Evaluation.
Technology and Information Systems | Director, Headquarters Information, Technology and Comm Division.
| Senior Scientist Program Executive for Information Systems.
Astrophysics | Science Program Director, Galaxy and Universe.
| Assistant Associate Administrator for Education and Outreach.
| Science Program Director, Origins and Planetary Systems.
Office of Biological and Physical Research | Chief, Advanced Plans Office (Staff).
| Manager, Life Sciences and Technology.
| Director, Life and Biomedical Science and Applications Division.
| Director, Microgravity Sciences and Applications Division.
| Director, Space Processing Division.
| Director, Space Utilization and Product Development Division.
Office of Inspector General | Assistant Inspector General for Audits.
| Assistant Inspector General for Investigation.
| Assistant Inspector General for Inspections, Administrative Investigations, and Assessments.
| Counsel to the Inspector General.
| Assistant Inspector General, Network and Advanced Technology Protections Office.
| Director, Technical Services Office.
| Director, Computer and Technology Crimes Office.
Office of Earth Science | Senior Engineer, Program Integration.
| Director, Business Division.
| Manager, Earth Sciences Department.
| Deputy Associate Administrator, Advanced Planning.
| Deputy Associate Administrator for Mission to Planet Earth.
| Assistant Associate Administrator for Office of Earth Science.
Goddard Space Flight Center | Director of University Programs.
| Chief, National Aeronautics and Space Administration Space Operations Management Office, Mission Services Offices.
| Associate Director/Program Manager for Explorers.
| Deputy Associate Director for Earth Observing System—Goddard Development.
| Associate Director/Program Manager for the Hubble Space Telescope (Hubble Space Telescope).
| Deputy Associate Director for Hubble Space Telescope (Hubble Space Telescope) Development.
| Deputy Director for Systems Management.
| Deputy Director of Applied Engineering and Technology for Planning and Development.
Human Resources | Director of Human Resources.
Comptroller | Chief Financial Officer/Comptroller.
Management Operations | Deputy Director of Management Operations.
| Associate Director for Acquisition.
Flight Assurance | Director of Flight Assurance. Deputy Director of Flight Assurance.
Flight Projects | Deputy Director of Flight Projects.
| Project Manager, Operations and Ground System.
| Project Manager, Earth Observing Systems Morning Crossing (Descending) Mission Project.
| Geostationary Operational Environmental Satellite Afternoon Crossing (Ascending) Mission PM.
| Director of Flight Project.
| Tracking and Data Relay Satellite Project Manager.
| Associate Director for Earth Scientist Data and Information System.
| Project Manager, Earth Observing System—Afternoon Crossing (Ascending) Mission Project Flight Proj Direct.
| Deputy Director Flight Projects for Plan and Business Management.
| Project Manager, Polar Operational Environmental Satellite Program.
| Associate Director of Flight Projects for EOS.
| Associate Director/Program Manager for the Earth Explorers Program Office.
| Associate Director/Program Manager for the Sun-Earth Connection Program Office.
Applied Engineering and Technology Directorate | Deputy Associate Director of Flight Project Cornet and Mission Service Project.
| Associate Director of Flight Project for Network and Mission Service Project.
| Deputy Director of Applied Engineering and Technology.
| Chief Information Systems Center.
| Chief, Electrical Systems Center.
| Chief, Instrument Systems and Technology Center.
| Chief, Mission Engineering and Systems Analysis Division.
Systems, Technology and Advanced Concepts | Deputy Director of Systems, Technology and Advanced Concepts.
Space Sciences | Chief, Laboratory for Astronomy and Solar Physics.
| Chiefs, Laboratory for Extraterrestrial Physics.
| Director of Space Sciences.
| Chief, Goddard Institute for Space Studies.
| Chief Laboratory for High Energy Astrophysics.
| Deputy Director of Space Sciences.
Engineering | Chief Engineer.
| Associate Director of Flight Projects.
| Chief, Mechanical System Center.
| Chief, Systems Engineering Division.
| Chief Technology Commercialization Office.
Earth Sciences | Chief Laboratory for Hydrospheric Processes.
| Assistant Director of Earth Scientist for Projects Engineering.
| Chief, Laboratory for Atmospheres.
| Deputy Director for Earth Sciences.
| Director for Earth Sciences.
| Chief Laboratory for Terrestrial Physics.
| Assistant Director of Mission to Planet Earth Program for Globe.
| Chief, Earth and Space Data Computing Division.
| Globe Project Manager.
Office of Policy and Plans | Director of Special Studies.
Chief Information Officer | Deputy Chief Information Officer.
National Archives and Records Administration:
Archivist of United States and Deputy Archivist of the United States/Chief of Staff | Deputy Archivist of the United States.
Office of Administrative Services | Assistant Archivist for Administrative Services.
Office of the Federal Register | Director of the Federal Register.
Office of Regional Records Services | Assistant Archivist for Regional Records Services.
Office of Human Resources and Information Services | Assistant Archivist for Human Resources and Information Services.
Office of Records Services—Washington, DC | Assistant Archivist for Records Services.
Office Presidential Libraries | Assistant Archivist for Presidential Libraries.
National Capital Planning Commission:
National Capital Planning Commission Staff | Executive Director.
| Assistant Executive Director (Management).
| Deputy Executive Director.
| Chief Operating Officer.
| General Counsel.
| Deputy Executive Director.
National Endowment for the Arts:
National Endowment for the Arts | Deputy Chairman for Guidelines, Panel and Council Operations.
| Deputy Chairman for Management and Budget.
| Deputy Chairman for Guidelines and Panel Operations.
| Chief Information Officer.
National Endowment for the Humanities:
National Endowment for the Humanities | Assistant Chairman for Planning and Operations.
National Labor Relations Board:
Office of the Board Members | Executive Secretary.
| Deputy Executive Secretary.
| Inspector General.
Division of Enforcement Litigation | Deputy Associate General Counsel, Appellate Court Branch.
| Director, Office of Appeals.
Division of Advice | Associate General Counsel, Division of Advice.
| Deputy Associate General Counsel, Division of Advice.
Division of Administration | Director, Division of Administration.
| Deputy Director, Division of Administration.
| Chief, Information Technology Branch.
Division of Operations Management | Associate General Counsel, Division of Operations-Management.
| Deputy Associate General Counsel, Division of Operations-Management.
| Assistant General Counsel.
| Assistant General Counsel.
| Assistant General Counsel.
| Assistant General Counsel.
| Assistant General Counsel.
| Assistant to General Counsel.
Regional Offices | Regional Director, Region 1, Boston, Massachusetts.
| Regional Director, Region 2, New York.
| Regional Director, Region 3, Buffalo, New York.
| Regional Director, Region 4, Philadelphia, Pennsylvania.
| Regional Director, Region 5, Baltimore, Maryland.
| Regional Director, Region 6, Pittsburgh, Pennsylvania.
| Regional Director, Region 7, Detroit, Michigan.
| Regional Director, Region 8, Cleveland, Ohio.
| Regional Director, Region 9, Cincinnati, Ohio.
| Regional Director, Region 10, Atlanta, Georgia.
| Regional Director, Region 11, Winston Salem, North Carolina.
| Regional Director, Region 12, Tampa, Florida.
| Regional Director, Region 13, Chicago, Illinois.
| Regional Director, Region 14, Saint Louis, Missouri.
| Regional Director, Region 15, New Orleans, Louisiana.
| Regional Director, Region 16, Fort Worth, Texas.
| Regional Director, Region 17, Kansas City, Kansas.
| Regional Director, Region 18, Minneapolis, Minnesota.
| Regional Director, Region 19, Seattle, Washington.
| Regional Director, Region 20, San Francisco, California.
| Regional Director, Region 21, Los Angeles, California.
| Regional Director, Region 22, Newark, New Jersey.
| Regional Director, Region 24, Hato Rey, Puerto Rico.
| Regional Director, Region 25, Indianapolis, Indiana.
| Regional Director, Region 26, Memphis, Tennessee.
| Regional Director, Region 27, Denver, Colorado.
| Regional Director, Region 28, Phoenix, Arizona.
| Regional Director, Region 29, Brooklyn, New York.
| Regional Director, Region 30, Milwaukee, Wisconsin.
| Regional Director, Region 31, Los Angeles, California.
| Regional Director, Region 32, Oakland, California.
| Regional Director, Region 33, Peoria, Illinois.
| Regional Director, Region 34, Hartford, Connecticut.
National Science Foundation:
Office of the Director | Senior Advisor.
| Senior Advisor.
| Senior Staff Associate.
| Senior Advisor.
| Senior Advisor.
Office of Integrative Activities | Senior Scientist.
| Senior Advisor.
Office of the General Counsel | Deputy General Counsel.
Office of Polar Programs | Head Polar Research Support Section.
Office of the Inspector General | Inspector General.
| Deputy Inspector General.
| Associate Inspector General for Audit.
| Associate Inspector General for Investigations.
National Science Board | Senior Policy Officer.
Division of Atmospheric Sciences | Head, Upper Atmosphere Section.
| Section Head, Lower Atmosphere Research Section.
| Section Head, Lower Atmosphere Research Section.
| Section Head, Lower Atmosphere Research Section.
Division of Earth Sciences | Section Head, Special Projects Section.
| Head, Research Grants Section.
Division of Ocean Sciences | Head, Oceans Section.
| Senior Scientist/Section Head.
Directorate for Engineering | Senior Advisor.
Division of Engineering Education and Centers | Deputy Division Director (Education).
| Senior Staff Associate.
Division of Design, Manufacture and Industrial Innovation | Senior Advisor, Technology Integration.
| Senior Advisor.
Directorate for Biological Sciences | Deputy Assistant Director.
| Executive Officer.
Division of Environmental Biology | Deputy Division Director.
Division of Integrative Biology and Neurosciences | Deputy Division Director.
Directorate for Mathematical and Physical Sciences | Executive Officer.
| Senior Science Associate.
| Senior Science Advisor.
| Senior Advisor.
Division of Physics | Executive Officer.
Division of Mathematical Sciences | Executive Officer.
Division of Materials Research | Executive Officer.
Directorate for Education and Human Resources | Deputy Assistant Director.
| Deputy Assistant Director for Integrative Activities.
Division of Research, Evaluation and Communication | Senior Advisor for Research.
Office of International Science and Engineering | Deputy Division Director.
| Senior Staff Associate.
| Senior Advisor.
| Senior Staff Associate.
Directorate for Computer and Information Science and Engineering | Executive Officer.
| Deputy Assistant Director.
Office of Budget, Finance and Award Management | Director, Budget, Finance and Award and Chief Financial Officer.
| Deputy Director—Management, Operations and Policy.
| Deputy Director—Planning, Coordination and Analysis.
| Senior Advisor.
Budget Division | Division Director.
| Senior Staff Associate.
Division of Financial Management | Division Director and Deputy Chief Financial Officer.
| Deputy Division Director, Division of Financial Management.
Division of Grants and Agreements | Division Director.
Division of Acquisition and Cost Support | Division Director.
Office of Information and Resource Management | Deputy Director.
Division of Information Systems | Deputy Division Director.
Division of Human Resource Management | Division Director.
Nuclear Regulatory Commission:
Office of the Chief Financial Officer | Director, Division of Financial Management.
Office of the Inspector General | Assistant Inspector General for Audits.
| Deputy Inspector General.
| Assistant Inspector General for Investigations.
Associate General Counsel for Licensing and Regulation | Deputy Assistant General Counsel-Legislative Counsel.
Associate General Counsel for Hearings, Enforcement and Administration | Deputy Assistant General Counsel for Administration.
Office of Commission Appellate Adjudication | Director, Office of Commission Appellate Adjudication.
Office of Administration | Director, Division of Contracts.
| Director, Division of Administrative Services.
| Director, Division of Facilities and Security.
Office of Nuclear Security and Incident Response | Director, Division of Incident Response Operations.
| Deputy Director, Division of Incident Response Operations.
| Deputy Director, Office of Nuclear Security and Incident Response.
| Director, Division of Nuclear Security.
| Deputy Director, Division of Nuclear Security.
| Project Director, Nuclear Security Policy.
| Project Director, Nuclear Security Operations.
| Director, Program Management, Policy Development, and Analysis Staff.
Office of Investigations | Deputy Director, Office of Investigations.
Office of Small Business and Civil Rights | Director, Office of Small Business and Civil Rights.
Office of Nuclear Reactor Regulation | Director, Program Management, Policy Development and Planning Staff.
| Director, Work Planning Center.
Division of Licensing Project Management | Project Director, Project Directorate I.
| Project Director, Project Directorate II.
| Project Director, Project Directorate IV.
| Project Director, Project Directorate III.
Associate Director for Inspection and Programs | Director, New Reactor Licensing Project Office.
Division of Inspection Program Management | Chief, Emergency Preparedness and Plant Support Branch.
| Chief, Reactor Safeguards, Radiation Safety and Emergency Preparedness.
| Chief, Inspection Program Branch.
| Chief, Reactor Operations Branch.
Division of Regulatory Improvement Programs | Chief, License Renewal and Standardization Branch.
| Chief, Events Assessment, Generic Communications and Non-Power Reactors Branch.
| Chief, Generic Issues, Envir, Financial and Rulemaking Branch.
| Chief, Technical Specifications Branch.
| Program Director, Operating Reactors Improvement Program.
| Program Director, License Renewal and Environmental Impacts Program.
| Program Director, Policy and Rulemaking Program.
| Program Director, New, Research, and Test Reactor Programs.
Division of Engineering | Chief, Materials and Chemical Engineering Branch.
| Chief, Mechanical and Civil Engineering Branch.
| Chief, Electrical and Instrumentation and Controls Branch.
Division of Systems Safety and Analysis | Chief, Plant Systems Branch.
| Chief, Reactor Systems Branch.
| Chief, Probablistic Safety Assessment Branch.
| Chief, Containment System and Severe Accident Branch.
Office of Nuclear Material Safety and Safeguards | Director, High-Level Waste Business and Program Integration Staff.
Division of Fuel Cycle Safety and Safeguards | Chief, Fuel Cycle Licensing Branch.
| Chief, Special Projects.
| Chief, Safety and Safeguards Support Branch.
Division of Industrial and Medical Nuclear Safety | Chief, Operations Branch.
| Chief, Medical, Academic and Commercial Use Safety Branch.
| Chief, Rulemaking and Guidance Branch.
| Chief, Materials Safety and Inspection Branch.
Division of Waste Management | Chief, Engineering and Geosciences Branch.
| Chief, Decommissioning Branch.
| Chief, High-Level Waste Branch.
| Chief, Environmental and Performance Asssessment Branch.
Spent Fuel Project Office | Deputy Director, Licensing and Inspection Directorate.
| Deputy Director, Technical Review Directorate.
Office of Nuclear Regulatory Research | Director, Program Management, Policy Development and Analysis Staff.
Division of Engineering Technology | Chief, Generic Safety Issues Branch.
| Chief, Electrical, Mechanical and Materials Engineering Branch.
| Chief, Structural and Geological Engineering Branch.
| Chief, Materials Engineering Branch.
| Chief, Engineering Research Applications Branch.
Division of Systems Analysis and Regulatory Effectiveness | Chief, Regulatory Effectiveness and Human Factors Branch.
| Chief, Safety Margins and Systems Analysis Branch.
| Chief, Radiation Protection, Environmental Risk and Waste Management Branch.
| Deputy Director, Division of Systems Analysis and Regulatory Effectiveness.
Division of Risk Analysis and Application | Chief, Operating Experience Risk Analysis Branch.
| Chief, Probabilistic Risk Analysis Branch.
Region I | Deputy Regional Administrator.
| Director, Division of Nuclear Materials Safety.
| Deputy Director, Division of Reactor Safety.
| Director, Division of Reactor Safety.
| Director, Division of Reactor Projects.
| Deputy Director, Division of Reactor Projects.
| Deputy Director, Division of Nuclear Materials Safety.
Region II | Deputy Regional Administrator Region II.
| Director, Division of Nuclear Materials Safety.
| Deputy Director, Division of Reactor Projects.
| Director, Division of Reactor Projects.
| Director, Division of Reactor Safety.
| Deputy Director, Division of Reactor Safety.
Region III | Director, Division of Reactor Safety.
| Director, Division of Reactor Projects.
| Deputy Regional Administrator Region III.
| Director, Division of Nuclear Materials Safety.
| Deputy Director, Division of Nuclear Materials Safety.
| Deputy Director, Division of Projects.
| Deputy Director, Division of Reactor Safety.
Region IV | Deputy Regional Administrator Region IV.
| Deputy Director, Division of Reactor Projects.
| Director, Division of Reactor Projects.
| Director, Division of Nuclear Materials Safety.
| Director, Division of Reactor Safety.
| Deputy Director, Division of Reactor Safety.
Office of Government Ethics:
Office of Government Ethics | Deputy Director.
| Deputy Director for Government Relations and Special Projects.
| Senior Associate Director for Agency Programs.
Office of Management and Budget:
Office of the Director | Deputy Assistant Director for Management.
| Deputy Associate Director for Economic Policy.
| Senior Advisor to the Deputy Director for Management.
| Deputy Associate Director for Legislative Affairs.
| Deputy Assistant Director for Administration.
Legislative Reference Division | Assistant Director Legislative Reference.
| Chief, Economics, Science and Government Branch.
| Chief, Resources-Defense-International Branch.
| Chief, Labor, Welfare, Personnel Branch.
Office of Federal Procurement Policy | Associate Administrator for Procurement Law and Legislation.
| Associate Administrator for Acquisition Implementation.
| Associate Administrator (Acquisition Policy).
General Counsel | Associate General Counsel for Budget.
Office of Information and Regulatory Affairs | Chief, Information Policy and Technology Branch.
| (Did not find title for this position).
| Chief Statistical Policy Branch.
| Counselor to the Deputy Director for Management.
| Senior Advisor.
| Senior Advisor.
| Chief, Natural Resources, Energy and Agriculture Branch.
| Chief, Health, Transportation and General Government.
Office of E-Government and Information Technology | Chief Architect.
Office of Federal Financial Management | Chief, Financial Standards, Reporting and Management Integrity Branch.
| Deputy Controller.
| Chief Federal Financial Systems Branch.
| Senior Advisor to the Director.
Budget Review | Deputy Assistant Director for Budget Review and Concepts.
| Deputy Chief, Budget Analysis Branch.
| Chief, Budget Analysis Branch.
| Assistant Director for Budget Review.
| Deputy Assistant Director for Budget Analysis and Systems.
| Chief, Budget Concepts Branch.
| Chief, Budget Systems Branch.
| Chief, Budget Review Branch.
International Affairs Division | Chief, State/United States International Affairs Branch.
| Chief, Economic Affairs Branch.
| Deputy Associate Director for International Affairs.
National Security Division | Chief, Command, Control, Communications, and Intelligence Branch.
| Chief, Force Structure and Investment Branch.
| Chief, Veteran Affairs Branch.
| Deputy Associate Director for National Security.
| Chief, Operations and Support Branch.
Human Resource Programs | Chief, Labor Branch.
| Chief, Education Branch.
| Deputy Associate Director for Education, Income Maintenance and Labor.
| Chief, Income Maintenance Branch.
| Chief, Personnel Policy Branch.
| Senior Advisor.
Health Division | Deputy Associate Director for Health.
| Chief, Health and Financing Branch.
Office of Personnel Management:
Center for Retirement and Insurance Services | Assistant Director for Retirement Services.
Center for Merit System Compliance | Deputy Associate Director for Merit System Compliance.
Division for Management and Chief Financial Officer | Associate Director for Management and Chief Financial Officer.
Center for Financial Services and Deputy Chief Financial Officer | Deputy Associate Director and Deputy Chief Financial Officer.
| Assistant Director for Business Control Units and Financial Services.
| Chief, Deputy Associate Director for Financial Services and Deputy Chief Financial Officer.
Center for Management Services and Chief Human Capital Officer | Assistant Director for Contracting, Facilities, and Administrative Services.
Center for Information Services and Chief Information Officer | Deputy Associate Director and Chief Information Officer.
Center for Security and Emergency Actions | Deputy Associate Director for Security and Emergency Actions.
Center for Workforce Planning and Policy Analysis | Deputy Associate Director for Workforce Planning and Policy Analysis.
Center for Workforce Relations and Accountability Policy | Deputy Associate Director for Workforce Relations and Accountability Policy.
Office of Workforce Relations | Director, Office of Workforce Relations.
Investigations Service | Assistant Director for Operations.
Office of Contracting and Administrative Services | Director of Contracting and Administrative Services.
Office of Special Counsel:
Headquarters, Office of Special Counsel | Associate Special Counsel for Investigation and Prosecution Division I.
| Associate Special Counsel for Investigation and Prosecution Division II.
| Associate Special Counsel for Investigation and Prosecution Division III.
| Associate Special Counsel for Complaints and Disclosure Analysis.
| Director for Management.
| Associate Special Counsel for Planning and Oversight.
| Associate Special Counsel for Legal Counsel and Policy.
Railroad Retirement Board:
Board Staff | Chief of Technology Service.
| Director of Hearings and Appeals.
| Chief Actuary.
| Director of Field Service.
| Director of Administration.
| Deputy General Counsel.
| Assistant Inspector General for Investigations.
| Chief Financial Officer.
| Assistant Inspector General for Audit.
| Director of Taxation.
| General Counsel.
| Director of Programs.
| Chief Information Officer.
| Director of Operations.
| Director of Policy and Systems.
| Director of Fiscal Operations.
Selective Service System:
Office of the Director | Director for Operations.
Small Business Administration:
Office of the Inspector General | Assistant Inspector General for Auditing.
| Assistant Inspector General for Investigations.
| Counsel to the Inspector General.
| Deputy Inspector General.
| Assistant Inspector General for Inspections and Evaluation.
| Assistant Inspector General for Management and Legal Counsel.
| Assistant Inspector General for Inspections and Evaluation.
Office of the General Counsel | Associate General Counsel for General Law.
| Associate General Counsel Litigation.
| Associate General Counsel for Procurement Law.
Office of Field Operations | District Director.
| District Director.
| District Director.
| District Director.
| District Director.
| District Director.
| District Director.
| District Director.
Office of Equal Employment Opportunity and Civil Rights Compliance | Assistant Administrator for Equal Employment Opportunity and Civil Rights Compliance.
Office of Hearings and Appeals | Assistant Administrator for Hearings and Appeals.
Office of the Chief Financial Officer | Deputy Chief Financial Officer.
| Deputy Chief Financial Officer.
| Chief Financial Officer.
Office of Capital Access | Deputy to the Associate Deputy Administrator for Capital Access.
Office of Financial Assistance | Associate Administrator for Financial Assistance.
| Deputy Associate Administrator for Financial Assistance.
| Assistant Administrator for Portfolio Management.
Office of Surety Guarantees | Associate Administrator for Surety Guarantees.
Office of Entrepreneurial Development | Deputy to the Associate Deputy Administrator for Entrepreneurial Development.
Office of the Chief Information Officer | Chief Information Officer.
Office of Human Resources | Chief Human Capital Officer.
Office of Government Contracting and Business Development | Associate Administrator for Business Development.
Office of Business Development | Associate Administrator for Business Development.
Office of Policy, Planning and Liaison | Associate Administrator for Procurement Policy and Liaison.
Social Security Administration:
Office of the Chief Information Officer | Director, Office of Information Technology Systems Review.
Office of Chief Strategic Officer | Chief Strategic Officer.
Office of the Inspector General | Deputy Inspector General.
| Counsel to the Inspector General.
Office of Investigations | Assistant Inspector General for Investigations.
| Deputy Assistant Inspector General for Investigations.
| Deputy Assistant Inspector General for Investigations (Field Operations).
| Deputy Assistant Inspector General for Investigations (National Investigative Operations).
Office of Audits | Assistant Inspector General for Audits.
| Deputy Assistant Inspector General for Audits.
Office of Executive Operations | Assistant Inspector General for Executive Operations.
Office of Disability Determinations | Associate Commissioner for Disability Determinations.
| Deputy Associate Commissioner for Disability Determinations.
Office of Hearings and Appeals | Associate Commissioner for Hearing and Appeals.
| Deputy Associate Commissioner for Hearings and Appeals (Field Operations).
| Executive Director, Office of Appellate Operations.
Office of Actuary | Chief Actuary.
| Deputy Chief Actuary (Long-Range).
| Deputy Chief Actuary (Short-Range).
Office of Civil Rights and Equal Opportunity | Deputy Associate Commissioner for Civil Rights and Equal Opportunity.
Office of Labor-Management and Employee Relations | Associate Commissioner for Labor-Management and Employment Relations.
Office of Finance, Assessment and Management | Senior Financial Executive.
Office of Financial Policy and Operations | Associate Commissioner, Office of Finance Policy and Operations.
| Deputy Associate Commissioner Financial Policy and Operations.
Office of Quality Assurance and Performance Assessment | Associate Commissioner for Quality Assurance and Performance Assessment.
| Deputy Associate Commissioner for Quality Assurance and Performance Assessment.
Office of Acquisition and Grants | Associate Commissioner for Acquisition and Grants.
Office of Telecommunications and Systems Operations | Associate Commissioner for Telecommunications and Systems Operations.
| Deputy Associate Commissioner for Telecommunications and Systems Operations (Systems Operations).
| Deputy Associate Commissioner for Telecommunications and Systems Operations (Telecommunications).
Office of General Law | Associate General Counsel for General Law.
| Deputy Associate General Counsel for General Law.
Office of Public Disclosure | Executive Director for Public Disclosure.
Department of State: |
Office of the Inspector General | Assistant Inspector General for Audits.
| Assistant Inspector General for Investigations.
| Counsel to the Inspector General.
| Deputy Assistant Inspector General for Audits.
| Deputy Assistant Inspector General for Inspections.
| Deputy Inspector General.
| Assistant Inspector General for Security Oversight.
| Senior Inspector—Thematic Review.
| Assistant Inspector General for Audits.
Bureau of Intelligence and Research | Executive Director.
Bureau of International Organizational Affairs | Director, Office of International Conferences.
Office of Under Secretary for Management | Principal Deputy Assistant Secretary.
Bureau of Administration | Director, Office of Acquisitions.
Bureau of Personnel | Human Resources Officer, Long Term Training.
Bureau of Arms Control | Office Director.
| Office Director.
| Office Director.
| Office Director.
| Deputy Assistant Secretary.
| Director, Office of Strategic Negotiations and Implementation.
Bureau of Nonproliferation | Office Director.
Department of Transportation: |
Office of Environment, Energy and Safety | Director.
Assistant Secretary for Budget and Programs | Deputy Chief Financial Officer.
Assistant Secretary for Administration | Assistant Secretary for Administration.
Office of the Senior Procurement Executive | Senior Procurement Executive.
Office of Inspector General | Deputy Inspector General.
| Assistant Inspector General for Legal, Legislative and External Affairs.
Principal Assistant Inspector General for Auditing and Evaluation | Principal Assistant Inspector General for Auditing and Evaluation.
| Deputy Assistant Inspector General for Auditing.
Assistant Inspector General for Financial and Information Technology Audits | Assistant Inspector General for Financial and Information Technology Audits.
| Director for Information Technology and Computer Security.
Assistant Inspector General for Aviation Audits | Assistant Inspector General for Aviation Audits.
Assistant Inspector General for Investigations | Assistant Inspector General for Investigations.
| Deputy Assistant Inspector General for Investigations.
Assistant Inspector General for Highway Infrastructure and Safety Programs | Assistant Inspector General for Highway Infrastructure and Safety Programs.
Assistant Inspector General for Transit, Rail Safety and Maritime Programs | Assistant Inspector General for Transit, Rail Safety and Maritime Programs.
Assistant Inspector General for Competition and Economic Analysis | Assistant Inspector General for Competition and Economic analysis.
Associate Administrator for Safety | Associate Administrator for Safety.
Office of Safety Assurance and Compliance | Director, Office of Safety Assurance and Compliance.
Associate Administrator for Pipeline Safety | Associate Administrator for Pipeline Safety.
Associate Administrator for Ship Analysis and Cargo Preference | Associate Administrator for Ship Analysis and Cargo Preference.
Associate Administrator for Shipbuilding | Director, Office of Shipbuilding and Marine Technology.
Administrator | Executive Director.
Office of Real Estate Services | Director, Office of Real Estate Services.
Safety | Associate Administrator for Safety.
Office of Budget and Finance | Director, Office of Budget and Finance.
Office of Acquisition Management | Director, Office of Acquisition Management.
Office of Safety Research and Development | Director, Office of Safety Research and Development.
Administrator | Assistant Administrator/Chief Safety Officer.
Office of Bus and Truck Standards and Operations | Director, Office of Bus and Truck Standards and Operations.
Office of Enforcement and Compliance | Director, Office of Enforcement and Compliance.
Associate Administrator for Enforcement | Associate Administrator for Enforcement.
| Director, Office of Defects Investigation.
| Director, Office of Vehicle Safety Compliance.
Chief of Staff | Director of Finance and Procurement.
Deepwater Program Executive Office | Deputy Program Executive Officer.
Office of the Assistant Commandant for Acquisition | Deputy Assistant Commandant for Acquisition.
Proceedings | Deputy Director—Legal Analysis.
Economic Environmental Analysis and Administration | Director of Economics, Environmental Analysis and Administration.
Office of the Administrator | Senior Advisor.
Department of the Treasury:
Under Secretary for Domestic Finance | Director, Office of Procurement.
Fiscal Assistant Secretary | Fiscal Assistant Secretary.
| Deputy Assistant Secretary for Fiscal Operations and Policy.
| Deputy Assistant Secretary (Accounting Policy).
Financial Management Service | Director, Regional Financial Center (San Francisco).
| Director, Regional Financial Center (Austin).
| Director, Platform Services Directorate.
| Assistant Commissioner, Governmentwide Accounting.
| Director, Regional Financial Center (Kansas City).
| Commissioner, Financial Management Service.
| Assistant Commissioner, Information Resources.
| Assistant Commissioner, Federal Finance.
| Director, Operations Group.
| Deputy Commissioner, Financial Management Service.
| Director, Cash Management Directorate.
| Director, Birmingham Debt Management Operations Center.
| Assistant Commissioner, Regional Operations.
| Assistant Commissioner, Management (Chief Financial Officer).
| Director, Systems Management Directorate.
| Assistant Commissioner (Agency Services).
| Assistant Commissioner, Financial Operations.
| Deputy Director, Operations Directorate.
| Director, Asset Management Directorate.
| Assistant Commissioner, Governmentwide Accounting Operations.
| Assistant Commissioner, Debt Management Services.
Bureau of the Public Debt | Commissioner of the Public Debt.
| Deputy Commissioner of the Public Debt.
| Assistant Commissioner (Financing).
| Executive Director (Administrative Resource Center).
| Executive Director, Government Securities Regulations.
| Assistant Commissioner, Office of Securities Operatiions.
| Assistant Commissioner, Office of Investor Services.
| Assistant Commissioner (Office of Information Technology).
| Deputy Executive Director (Administrative Resource Center).
| Executive Director, Marketing.
| Executive Director (Investor Education and Communication Staff).
| Assistant Commissioner (Public Debt Accounting).
Assistant Secretary (Enforcement) | Director, Executive Office of Foreign Asset Forfeiture.
Bureau of Alcohol, Tobacco and Firearms | Special Agent in Charge (NY Field Division).
| Special Agent in Charge (Washington Field Division).
| Assistant Director (Inspection).
| Deputy Assistant Director (Liaison and Public Information).
| Division Director/Special Agent in Charge.
| Division Director/Special Agent in Charge.
| Division Director/SAC, Atlanta.
| Dep. Assoc. Dir. Reg. Enforcement Field Operation.
| Deputy Assistant Director (Inspection).
| Division Director/Special Agent in Charge.
| Deputy Assistant Director (CE Field Operations)—East.
| Deputy Assistant Director (CE Field Operations)—Central.
| Assistant Director (Science and Technology).
| Assistant Director (Field Operations).
| Associate Chief Counsel (Administrator and Ethics).
| Deputy Assistant Director (CE Field Operations)—West.
| Deputy Asst. Dir. (Science and Technology).
| Director, Laboratory Services.
| Deputy Director.
| Division Director—Special Agent in Charge—Chicago.
| Assistant Director (Alcohol and Tobacco).
| Deputy Assistant Director (Recruitment/Hiring).
| Deputy Assistant Director (Firearms explosives Arson).
| Assistant Director (Firearms, Explosives, and Arson).
| Assistant Director (Liaison and Public Information).
| Chair, Professional Review Board.
| Division/Special Agent in Charge, New York.
United States Customs Service | Assistant Commissioner for Internal Affairs.
| Associate Chief Counsel (Miami).
| Associate Chief Counsel (Chicago).
| Associate Chief Counsel (New York).
| Director, Office of Regulatory Audit.
| Special Agent in Charge, Miami.
| Associate Chief Counsel Enforcement.
| Associate Chief Counsel (Trade Tariff and Leg).
| Associate Chief Counsel (Houston).
| Director, Applied Technology.
| Special Agent in Charge—New York.
| Special Agent in Charge—Los Angeles.
| Deputy Assistant Commissioner, Human Resources.
| Deputy Assistant Commissioner, International Affairs.
| Regional Special Agent in Charge (Special Agent in Charge).
| Regional Special Agent in Charge (Special Agent in Charge).
| Regional Special Agent in Charge (Special Agent in Charge).
| Deputy Assistant Commissioner, Office of Training and Development.
| Executive Director, Communications Management.
| Director, Asset Acquisition and Management.
| Executive Director, Labor and Employee Relations.
| Director, Office of Trade Compliance.
| Director, Field Operations, New York.
| Area Dir., Newark.
| Director, Customs Management Center North Atlantic.
| Assistant Commissioner, Field Operations.
| Assistant Commissioner, Regulations and Rulings.
| Director, Strategic Trade Center Chicago.
| Deputy Assistant Commissioner (Investigations).
| Associate Chief Counsel (Administration).
| Associate Chief Counsel (Los Angeles).
| Assistant Commissioner Chief Information Officer.
| Special Agent in Charge (New Orleans).
| Assistant Commissioner, Public Affairs.
| Director, Strategic Trade Center—Plantation.
| Director, Laboratories and Scientific Services.
| Project Executive.
| Deputy Assistant Commissioner, Field Operations.
| Director, Field Operations, El Paso.
| Director, Passenger Programs.
| Director, Field Operations—Houston.
| Executive Director, Field Programs.
| Executive Director, Mission Support Service.
| Dir. Tariff Classification, Appeals Division.
| Dir. Strategic Trade Center, Long Beach.
| Director, Field Operations—Miami.
| Deputy Assistant Commissioner, International Affairs.
| Director, United States Customs Academy.
| Director, Terrorist Financial Investigations.
| Director, Office of Air Interdiction.
| Director, Customs Management Center—Southern California.
| Director, Strategic Trade Center Operations.
| Director, Intelligence and Communications Division.
| Director, Software Development.
| Director, Budget Division.
Secret Service | Assistant Director—Government Liaison and Public Affairs.
| Special Agent in Charge—Vice President Protect Division.
| Special Agent in Charge—Technology Section Division.
| Special Agent in Charge—Washington Field Office
| Special Agent in Charge—Philadelphia Field Office.
| Special Agent in Charge—San Francisco Office.
| Special Agent in Charge—Dallas Field Office.
| Deputy Chief Counsel.
| Deputy Assistant Director, Government Liaison and Public Affairs.
| 2002 Winter Olympics Coordinator.
| Deputy Special Agent in Charge, Protective Operations (Tactical Operations).
| Deputy Assistant Director—Administration.
| Executive Assistant to the Director.
| Deputy Special Agent in Charge—Presidential Projective Division.
| Deputy Assistant Director (Uniformed Forces, Firearms and Employee Development).
| Deputy Special Agent in Charge—PPD White House.
| Deputy Assistant Director—Investigations.
| Special Agent in Charge—Houston Field Office.
| Deputy Assistant Director, Rowley Training Center.
| Special Agent in Charge, Paris.
| Deputy Assistant Director (Chief Technology Officer).
| Special Asst to the Director.
| Special Asst to the Director.
| Special Agent in Charge—Miami Field Office.
| Deputy Special Agency in Charge—Vice President Protect Division.
| Deputy Assistant Director, Protective Operations.
| Chief, Information Resources Management Division.
| Deputy Assistant Director (Homeland Security).
| Special Agent in Charge—Atlanta Field Office.
| Chief of Staff.
| Deputy Assistant Director, Protective Operations.
| Special Agent in Charge.
Financial Crimes Enforcement Network | Deputy Director, Financial Crimes Enforcement Network.
| Director, Financial Crimes Enforcement Network.
| Executive Assistant Director, Financial Crimes Enforcement Network.
| Chief Counsel, Financial Crimes Enforcement Network.
| Deputy Director, Administration.
| Executive Associate Director, Regulatory Programs.
| Deputy Director, Operations.
Office of the Inspector General | Deputy Assistant Inspector General for Audit (Financial Management).
| Deputy Assistant Inspector General for Investigations.
| Counsel to the Inspector General.
| Assistant Inspector General for Management Services.
| Assistant Inspector General for Audit.
| Deputy Assistant Inspector General for Audit (Program Audits).
| Assistant Inspector General for Investigations.
Inspector General for Tax Administration | Deputy Assistant Inspector General for Investigations.
| Assistant Inspector General for Management Services.
| Deputy Inspector General for Investigations.
| Assistant Inspector General for Audit (Headquarters Operations).
| Counsel to the Treasury Inspector General for Tax Administration.
| Assistant Inspector General for Audit (Wage and Investment).
| Assistant Inspector General for Audit (Small Business and Corporate Entities).
| Assistant Inspector General for Audit (Information Systems Programs).
| Deputy Inspector General for Audit.
| Assistant Inspector General for Information Technology.
| Assistant Inspector General for Investigation (Investigative Support).
| Assistant Inspector General for Investigations (Field Operations).
Assistant Secretary (Economic Policy) | SR Economist.
Assistant Secretary (Tax Policy) | Director, Economic Modeling and Computer Applications.
Alcohol and Tobacco Tax and Trade Bureau | Deputy Administrator, Alcohol and Tobacco Tax and Trade Bureau.
| Deputy Assistant Director (Alcohol and Tobacco).
Assistant Secrtary (Management) | Deputy Chief Financial Officer.
United States Mint | Associate Director, Information Resources/Chief Information Officer.
| Associate Director for Circulations.
| Associate Director for Sales and Marketing.
| Associate Director for Sales and Marketing.
| Associate Director for Policy and Management/Chief Financial Officer.
Internal Revenue Service | Chief, Equal Employment Opportunity and Diversity.
| Director, Technical Contract Management Division.
| Director, Submission Processing Division.
| Director, Complaint Processing and Analysis Group.
| Assistant to the Commissioner.
| Director, Workforce Relations.
| Director of Research.
| Director, Compliance.
| Director of Compliance, Atlanta—Wage and Investment.
| Deputy Director, General Appeals.
| Area Director, Stakeholder, Partnership, Education and Communication.
| Compliance Services Field Director.
| Director, Leadership and Organizational Development—National Headquarters.
| Director, National Customer Research Study.
| Deputy Chief Financial Officer (Finance).
| Special Agent in Charge, New York.
| Special Agent in Charge, Chicago.
| Deputy Director, Personnel Services.
| Director, Field Operations—Finance Service and Healthcare.
| Director, Centralized Workload Selection and Delivery—Small Business and Self Employed.
| Director, Compliance, Los Angeles Area Office—Small Business and Self Employed.
| Director, Compliance, New York Area Office—Small Business and Self Employed.
| Director, Human Resources—Small Business and Self Employed.
| Director, Filing and Payment Compliance—Small Business and Self Employed.
| Director, Business Systems Planning.
| Accounts Management Field Director, Atlanta, Wage and Investment.
| Area Director, Field Assistance (San Francisco)—Wage and Investment.
| Transition Executive for Strategy, Criminal Investigation.
| Transition Executive for Operations, Criminal Investigation.
| Project Manager, Service Center Transition—Wage and Investment.
| Director, Competitive Sourcing.
| Director, Communications—Small Business and Self Employed.
| Director, Organizational Performance.
| Commissioner, Tax Exempt and Government Entities Division.
| Director, Exempt Organizations Examinations.
| Director, Facilities Operations—Agencywide Shared Services.
| Director, Customer Support—Agencywide Shared Services.
| Director, Compliance Area, Laguna Niguel—Small Business and Self Employed.
| Director, Retailers, Food, Pharmaceuticals, and Health Care.
| Director, Taxpayer Education Area, Brooklyn—Small Business and Self Employed.
| Director, Compliance Area.
| Director, Revenue Accounting.
| Director, Legislative Affairs Division.
| Director, Statistics of Income.
| Director, Electronic Tax Administration—Wage and Investment.
| Submission Processing Field Director, Memphis.
| Deputy Division Commissioner, Large and Mid-Size Business.
| Director, Government Entities.
| Director, Field Assistance Area (Greensboro) Wage and Investment.
| Director, Taxpayer Education Area, Nashville—Small Business and Self Employed.
| Compliance Service Field Director, Austin—Wage and Investment.
| Director, Management and Finance, SBSE.
| Division Information Officer—Small Business and Self Employed.
| Special Agent in Charge, Los Angeles.
| Director, Field Assistance Area (Phoenix)—Wage and Investment.
| Deputy Director, Strategic Human Resources.
| Project Director.
| Deputy Director, International.
| Director, Field Assistance Area, Hartford—Wages and Investments.
| Privacy Advocate.
| Director, Taxpayer Education Area, Baltimore—SBSE.
| Director, Enterprise Operations.
| National Director of Appeals.
| Director, Appeals—Large and Mid-Size Business.
| Area Director of Information Technology—Western.
| Director of Investigations, Central Area of Operations.
| Project Manager.
| Chief Communications and Liaison.
| Project Director.
| Director, Technical Services, Appeals.
| Director, Tax Administration Modernization.
| Accounts Management Field Director, Fresno—Wage and Investment.
| Project Director, Wage and Investment.
| Director, Strategic Planning—Wage and Investment.
| Director, Reporting Compliance.
| Director of Finance—Small Business and Self-Employed.
| Assistant Deputy Director Compliance Field Operations.
| Director, Strategy, Research, and Program Planning—Large and Mid-Size Business.
| Project Director.
| Deputy Associate Commissioner (Business Integration).
| Privacy Advocate.
| Director, Customer Applications Development Management Division.
| Deputy Commissioner (Operations).
| Director, Compliance Area, Baltimore—Small Business and Self Employed.
| Director, Stakeholder, Partnership, Education and Communication—Wage and Investment.
| Director, Employee Plans.
| Director, Electronic Crimes Program Office.
| Deputy National Taxpayer Advocate.
| Director, Learning and Education.
| Chief, Criminal Investigation.
| Director, Systems Engineering and Integration.
| Deputy Commissioner, Operations Support.
| Director, Statistics.
| Area Director, Stakeholder, Partnership, Education, and Communication, Hartford—Wage and Investment.
| Director of Research, Wages and Investments.
| Deputy Chief, Information Technology Services.
| Director, Field Assistance—Wage and Investment.
| Director, Submission Processing (Cincinnati)—Wage and Investment.
| Area Director, Stakeholder, Partnership, Education and Communication—Wage and Investment.
| Director, Submission Processing Center, Fresno.
| Accounts Management Field Director, Cincinnati.
| Accounts Management Field Director—Ogden.
| Accounts Management Field Director, Austin—Wage and Investment.
| Area Director Information System Technology (Southeast).
| Commissioner, Large and Mid-Sized Business Division.
| Deputy Chief, Appeals.
| Project Director.
| Area Director, Stakeholder Partnership Education and Communication.
| Compliance Services Field Director.
| Director, Joint Operations Center.
| Director, Field Operations.
| Director, Field Operations.
| Director, Compliance Area, Chicago—Small Business and Self Employed.
| Director, Examining, Strategy and Selection—Wages and Investments.
| Director, Media and Publications Publishing Division.
| Deputy Chief, Criminal Investigation.
| Deputy Director, Field Specialists—Large and Mid-Sized Business.
| Submission Processing Field Director—Fresno, California.
| Deputy Director, Accounts Management.
| Project Director.
| Director, Compliance Area, Oakland—Small Business and Self-Employed.
| Director, Field Operations West, Appeals.
| Deputy Director, End User Equipment and Services.
| Director, Operations Policy and Support—Criminal Investigations.
| Director, Tennessee Computing Center.
| Director of Field Operations (Pacific Area)—Criminal Investigations.
| Director, Refund Crimes.
| Associate Director, Facilities Operations.
| District Director, S. Florida.
| Director, Natural Resources Industry Group.
| Director, Compliance Area, Philadelphia—Small Business and Self Employed.
| Director, Field Operations, Communications, Technology and Media—Large and Mid-Size Business.
| Deputy Director, Compliance Services—Small Business.
| Director, Field Operations (Natural Resources), Houston.
| Director of Field Operations (Midstates Area)—Criminal Investigation.
| Director, Commissioner's Office of Employee Issues and Professional Conduct.
| Director, Program Analysis Customer Account Services—Wage and Investment.
| Deputy Associate Commissioner for Program Management.
| Director, Internal Management Systems Development Division.
| Director, Office of Program Evaluation and Risk Analysis.
| Director, Field Assistance Area.
| Deputy Commissioner, Services and Enforcement.
| Director, Communications.
| Director, Business Systems Planning—LMSB.
| Deputy Director, Prefiling and Technical Guidance.
| Director, Taxpayer Education Area, Denver—Small Business and Self Employed.
| Director, National Public Liaison.
| Accounts Management Field Director.
| Director, Data Management Modernization.
| Deputy Chief, Management and Finance.
| Director, Field Operations, Special—Wage and Investment.
| Director, Customer Account Services—Small Business and Self Employed.
| Director of Field Operations—Criminal Investigation, North Atlantic.
| Project Director.
| Project Director—LMSB.
| Director, Infrastructure Modernization Project Office.
| Director, Filing and Campus Compliance.
| Director, General Appeals.
| Director, Field Assistance Area, Saint Louis—Wages and Investments.
| Director, Case Management—Small Business and Self Employed.
| Director, Reporting Compliance.
| Accounts Management Field Director—Andover.
| Director, New Customer Development.
| Submission Processing Field Director.
| Director, Employee Plans Examination.
| Submission Processing Field Director—Philadelphia.
| Director, Competitive Sourcing.
| Project Director.
| Director, Field Operations.
| Director, Business Systems Planning—Large and Mid-Size Business.
| Chief, Agencywide Shared Services.
| Project Director.
| Director, Communication, Assistance, Research and Education.
| Director, Compliance Area, Nashville—Small Business and Self Employed.
| Submission Processing Field Director—Brookhaven.
| Accounts Management Field Director, Kansas City—Wage and Investment.
| Regional Commissioner, Western.
| Director, Tax Exempt Bonds.
| Director, Human Resources—Wage and Investment.
| Director, Strategy and Finance—Wage and Investment.
| Deputy Commissioner, Small Business/Self Employed Division.
| Deputy Director, Taxpayer Education and Communication, SBSE.
| Deputy Division Commissioner, Tax Exempt and Government Entities.
| Director, Exempt Organizations.
| Deputy Director, Submission Processing.
| District Director, South Texas.
| Director, Administrative Accounting.
| Director, Business Systems Development.
| Director, Internal Management Modernization.
| Deputy Director, Compliance—Small Business and Self Employed.
| Director, Business Systems Requirements.
| Deputy Chief, Appeals.
| Director, Collection Strategy—Wages and Investments.
| Project Director, Customer Account Data Engine Project.
| Director, Strategy and Finance.
| Director, Research, Analysis and Statistics of Income.
| Project Director, BSMO.
| Director, Office of Tax Administration.
| Submission Processing Field Director, Ogden—Small Business and Self Employed.
| Director, Martinsburg Computing Center.
| Chief, Security Services.
| Director, Accounts Management, Wage and Investment.
| Director, Filing Systems Division.
| Deputy Director, Compliance Policy.
| Project Director—Small Business and Self Employed.
| Compliance Service Field Director—Philadelphia.
| Director, Compliance Area, Baltimore—Small Business and Self Employed.
| Chief of Staff, Internal Revenue Service.
| Deputy Director, Office of Professional Responsibility.
| Director, Management and Support.
| Director, Field Assistance Area.
| Director, Field Operations, East, Appeals.
| Submission Processing Field Director—Atlanta.
| Submission Processing Field Director—Austin.
| Director, Mission Assurance.
| Director, Release Management.
| Director, Heavy Manufacturing, Transportation and Construction Industry.
| Director, Multimedia—Wages and Investments.
| Director, Strategic Planning and Program Management.
| Director, Accounts Management—Wages and Investments.
| Deputy Associate Commissioner, Systems Integration.
| Director, Compliance Area.
| Project Manager.
| Area Director, Stakeholder, Partnership, Education, and Communication, Dallas—Wage and Investment.
| Director, Product Assurance.
| Chief, Management and Finance—Large and Mid Size Business.
| Chief Human Capital Officer, Internal Revenue Service.
| Director, Safety and Security.
| Chief Financial Officer.
| Deputy Director, Business Systems Development Division.
| Director, Personnel Policy.
| Director, Field Specialists—Large and Mid Size Business.
| Director, Customer Account Manager.
| Director, Real Estate and Facilities Management.
| Director, Field Operations (Financial Services), Laguna Niguel.
| Submission Processing Field Director—Cincinnati.
| Deputy Director, Enterprise Operations Services.
| Director of Field Operations, New York—Large and Mid Size Business.
| Director, Exempt Organizations, Rulings and Agreements.
| Commissioner, Small Business and Self Employed.
| Project Director—Appeals.
| Director, Procurement.
| Chief, Information Technology Services.
| Director, Professional Responsibility.
| Project Director.
| Compliance Service Field Director.
| Director, Security Policy, Support and Oversight.
| Associate Chief Financial Officer for Internal Finance Management—National Headquarters.
| Director, Taxpayer Education and Communication Area, St. Louis—Small Business and Self Employed.
| Project Director.
| Director, Compliance Area—Denver, Small Business and Self Employed.
| Deputy Director, Strategic Planning and Client Services—IS.
| Director, Compliance Area, Dallas—Small Business and Self Employed.
| Director, Personnel Services.
| Director, Pre-filing and Technical Guidance.
| Compliance Service, Field Director—Atlanta.
| Commissioner, Wage and Investment.
| Director, Strategic Services.
| Project Director.
| Senior Counselor to the Commissioner (Tax Administration, Practice and Professional Responsibility).
| Deputy Associate Commissioner Business Integration.
| Electronic Tax Administration Modernization Executive.
| Director, Compliance Area.
| Director, Communications, Technology and Media Industry—Large and Mid Size Business.
| Executive Director, Systemic Advocacy—National Taxpayer Advocate.
| Division Information Officer—Large and Mid Size Business.
| Compliance Service Field Director, Andover—Wage and Investment.
| Director, Detroit Computing Center.
| Director, Systems Division.
| Director, Media and Publications.
| Director, Media and Publications Distribution Division.
| Director, Customer Account Services—Wage and Investment.
| Project Director—Wages and Investments.
| Compliance Service Field Director—Kansas City.
| Deputy Director, Submission Processing, Cincinnati—Small Business and Self Employed.
| Project Director.
| Chief Information Officer.
| Director, Portfolio Management.
| Deputy Chief, Agencywide Shared Services.
| Deputy Director, Procurement.
| Director, Electronic Program Enhancement—W and I.
| Director, Taxpayer Education Area—Los Angeles.
| Accounts Management Field Director.
| Director, Strategy, Criminal Investigations.
| Director, Compliance, Detroit—Small Business and Self Employed.
| Area Director, Stakeholder, Partnership, Education and Communications—New Orleans.
| Director, Taxpayer Education Area, Chicago—Small Business and Self Employed.
| Area Director, Information Technology.
| Area Director, Information Technology.
| Director, Equal Employment Opportunity and Diversity.
| Director, Compliance Systems Division.
| Assistant Deputy Commissioner.
| Assistant Deputy Commissioner for Operations Support.
| Information Technology Manager, Policy and Planning.
| Director, Internet Development Services.
| Director, Corporate Data and Systems Management Division.
| Director, Taxpayer Education and Communication—Small Business and Self Employed.
| Director, Field Operations, NY—LMSB.
| Submission Processing Field Director—Andover.
| Field Director, Accounts Management, Wage and Investment.
| Accounts Management Field Director, Fresno.
| Director, Financial Management Services.
| Director, Development Services.
| Director, Performance, Quality and Innovation—Large and Mid Size Business.
| Director, Strategy and Finance, Appeals.
| Assistant to Director, Real Estate and Facilities Management.
| Director of Field Operations (Southeast Area)—Criminal Investigation.
| Director, Management Services.
| Industry Director—Financial Services—Large and Mid Size Business.
| Director, Enterprise Operations Services.
| Deputy Director, Taxpayer Education and Communication.
| Associate Chief Financial Officer for Corporate Strategy.
| Division Information Officer (Wage and Investment).
| Director, Strategy, Research and Performance Management.
| Director, Business Systems Planning.
Internal Revenue Service Chief Counsel | District Counsel, New Jersey.
| Assistant Chief Counsel (International) (Litigation).
| Assistant Chief Counsel (Collection, Bankruptcy and Summonses).
| Division Counsel (Wage and Investment).
| Deputy Division Counsel/Deputy Assistant Chief Counsel (Criminal Tax).
| Deputy Associate Chief Counsel (General Legal Services).
| Assistant Chief Counsel (Disclosure and Privacy Law).
| Area Counsel (Small Business and Self Employed) (Area 7).
| Area Counsel (Small Business and Self Employed)—Los Angeles.
| Deputy Associate Chief Counsel (General Legal Services) (Labor and Personnel Law).
| Area Counsel (Small Business and Self Employed)—Philadelphia.
| Special Counsel to the Chief Counsel.
| Area Counsel (Small Business and Self Employed)—Chicago.
| Area Counsel (Small Business and Self Employed)—New York.
| Deputy Division Counsel # (Small Business and Self Employed).
| Division Counsel (Large and Mid-Size Business).
| Division Counsel (Small Business and Self Employed).
| Deputy Associate Chief Counsel (Corporate).
| Deputy Associate Chief Counsel (Corporate).
| Assistant Chief Counsel (Financial Institutions and Products).
| Area Counsel Large and Mid-Size Business) (Area 1) (Financial Services and Health Care).
| Deputy Associate Chief Counsel #2 (Passthroughs and Special Industries).
| Associate Chief Counsel (Procedure and Administration).
| Associate Chief Counsel (Passthroughs and Special Industries).
| Associate Chief Counsel (Corporate).
| Deputy Division Counsel #2 (Small Business and Self Employed).
| Deputy Associate Chief Counsel (Finance and Management).
| Deputy Associate Chief Counsel #1 (Income Tax and Accounting).
| Area Counsel (Large and Mid-Size Business) (Area 2) (Heavy Manufacturing, Construction and Transportation).
| Special Counsel to the National Taxpayer Advocate.
| Deputy Associate Chief Counsel (International Technical).
| Associate Chief Counsel (General Legal Services).
| Area Counsel (Large and Mid-Size Business) (Area 5) (Communications, Technology, and Media).
| Assistant Chief Counsel (Administrative Provisions and Judicial Practice).
| Area Counsel (Small Business and Self Employed)—Jacksonville.
| Assistant Chief Counsel (Employee Benefits).
| Deputy Associate Chief Counsel (Procedure and Administration).
| Deputy Associate Chief Counsel (Strategic International Programs).
| Deputy Division Counsel (Large and Mid-Size Business).
| Deputy Chief Counsel (Technical).
| Area Counsel (Small Business and Self Employed)—Dallas.
| Deputy Associate Chief Counsel #2 (Income Tax and Accounting).
| Deputy Division Counsel and Deputy Associate Chief Counsel (Tax Exempt and Government Entities).
| Area Counsel, Large and Mid-Size Business (Area 3) (Food, Mass Retailers, and Pharmaceuticals).
| Associate Chief Counsel (International).
| Associate Chief Counsel (Finance and Management).
| Deputy Associate Chief Counsel (Financial Institutions and Products).
| Associate Chief Counsel/Operating Division Counsel (Tax Exempt and Government Entities).
| Deputy Chief Counsel (Operations).
| Assistant Chief Counsel (Exempt Organizations, Employment Tax, and Government Entities).
| Associate Chief Counsel (Income Tax and Accounting).
| Area Counsel (Large and Mid-Size Business) (Area 4) (Natural Resources).
| Area Counsel (Small Business and Self Employed)—Denver.
| Deputy Associate Chief Counsel #1 (Passthroughs and Special Industries).
| Division Counsel/Associate Chief Counsel (Criminal Tax).
United States Agency for International Development:
Office of the Administrator | Counselor to the Agency.
Office of the General Counsel | Deputy General Counsel.
| Assistant General Counsel for Ethics and Administrations.
Office of the Inspector General | Assistant Inspector General for Management.
| Deputy Assistant Inspector General for Audit.
| Counsel to the Inspector General.
| Deputy Inspector General.
Office of Security | Director Office of Security.
Office of Equal Opportunity Programs | Director Office of Equal Opportunity Programs.
Bureau for Global Health | Associate Assistant Administrator Center for Economic Growth.
| Senior Deputy Assistant Administrator.
| Deputy Assistant Administrator, Center for Population, Health, and Nutrition.
| Associate Assistant Administrator.
Bureau for Europe and Eurasia | Deputy Assistant Administrator.
Bureau for Management | Chief Financial Officer, Office of Financial Management.
| Director Office of Information Resource Management.
| Deputy Director Office of Procurement.
| Deputy Director, Office of Human Resources.
| Director, Office of Administration Services.
| Deputy Director, Office of Procurement.
| Deputy Assistant Administrator Bureau for Management.
| Deputy Director, Office of Financial Management.
| Financial Officer for Credit Policy.
| Financial Officer for Credit Policy.
United States International Trade Commission: |
Office of Industries | Director, Office of Industries.
Office of Investigations | Director, Office of Investigations.
Department of Veterans Affairs: |
Office of the Secretary and Deputy | Director, Office of Employment Discrimination Complaint Adjudication.
Office of the Inspector General | Assistant Inspector General for Auditing.
| Assistant Inspector General for Investigations.
| Deputy Inspector General.
| Assistant Inspector General for Department Reviews and Management Support.
| Deputy Assistant Inspector General for Investigations.
| Counselor to the Inspector General.
| Assistant Inspector General for Healthcare Inspections.
| Deputy Assistant Inspector General for Auditing.
| Deputy Assistant Inspector General for Healthcare Inspections.
| Deputy Assistant Inspector General for Management and Administration.
| Director of Medical Consultation and Review.
| Associate Director of Medical Consultation and Review.
Board of Veterans Appeals | Vice Chairman.
Office of the General Counsel | Regional Counsel.
| Regional Counsel.
| Regional Counsel.
| Regional Counsel.
| Regional Counsel.
| Regional Counsel.
Office Assistant Secretary for Management | Principal Deputy Assistant Secretary for Management.
| Corefls Project Director.
Office of Finance | Deputy Assistant Secretary for Finance.
| Associate Deputy Assistant Secretary for Financial Operations.
| Director, Financial Services Center.
Office of Acquisition and Material Management | Deputy Assistant Secretary for Acquisition and Material Management.
| Associate Deputy Assistant Secretary for Acquisitions.
| Associate Deputy Assistant Secretary for Program Management and Operations.
| Executive Director/Chief Operating Officer.
Office of Asset Enterprise Management | Deputy Director, Asset Enterprise Management.
Office Assistant Secretary for Policy, Planning and Preparedness | Chief Actuary.
Office of Security and Law Enforcement | Deputy Assistant Secretary for Security and Law Enforcement.
Office of Human Resources Management | Associate Deputy Assistant Secretary for Human Resources Management.
| Associate Deputy Assistant Secretary Human Resources Management.
Office Assistant Secretary for Information and Technology | Director, Veterans Affairs Automation Center, Austin, Texas.
| Associate Deputy Assistant Secretary for Telecommunications.
| Associate Deputy Assistant Secretary for Policies, Plans and Programs.
| Associate Deputy Assistant Secretary for Cyber Security.
National Cemetery Administration | Director, Office of Finance and Planning.
| Director, Office of Construction Management.
Veterans Benefits Administration | Deputy Chief Financial Officer
| Deputy Director Compensation and Pension Service.
| Chief Financial Officer.
Veterans Health Administration | ACFO for Revenue.
| Chief Financial Officer.
| Associate Chief Financial Officer for Compliance.
| Deputy Chief Financial Officer.
| Associate Chief Facilities Management Officer for Strategic Management
| Associate Chief Facilities Management Officer for Service Delivery.
| Associate Chief Facilities Management Officer for Resource Management.

[FR Doc. 04-5427 Filed 3-19-04; 8:45 am]

BILLING CODE 6325-39-M